DEPARTMENT OF HOUSING AND URBAN DEVELOPMENT

[Docket No.: FR-6216-N-01]

Removal and Archiving of Additional Obsolete and Superseded Guidance Documents

AGENCY: Office of the Secretary, HUD.

ACTION: Notice.

SUMMARY: This notice announces that the Department has completed a second review of administrative guidance and identified guidance documents that should no longer be in effect or are deemed unnecessary and obsolete as part of the Department's implementation of Executive Order 13891, “Promoting the Rule of Law Through Improved Agency Guidance Documents.” HUD is removing and archiving these documents on HUD's program websites to reduce compliance burdens, promote regulatory analysis, provide fair notice, and reduce administrative due process. The removal and archiving of these materials will make it easier for HUD constituents and members of the public to determine HUD guidance that currently applies. In some cases, documents may continue to be accessible in an online archive, such as for historical or research purposes. Guidance documents posted in an online archive shall no longer have effect and shall not be cited except to establish historical fact.

FOR FURTHER INFORMATION CONTACT: For questions about Community Planning and Development documents, contact Larry B. Jackson II, Program Advisor to the Assistant Secretary, Office of Community Planning and Development, Department of Housing and Urban Development, 451 7th Street SW, Washington, DC 20410-8000; telephone number 202-402-5433. For questions about Office of Fair Housing and Equal Opportunity documents, contact Tiffany Taylor, Office of Fair Housing and Equal Opportunity, Department of Housing and Urban Development, 451 7th Street SW, Washington, DC 20410-8000; telephone number 202-402-7094. For questions about Office of Housing documents, contact Paul M. Olin, Management Analyst, Office of Housing, Department of Housing and Urban Development, 451 7th Street SW, Washington, DC 20410-8000; telephone number 202-402-3672. For questions about Office of Lead Hazard Control and Healthy Homes documents, contact Warren Friedman, Ph.D., Office of Lead Hazard Control and Healthy Homes, Department of Housing and Urban Development, 451 7th Street SW, Washington, DC 20410-3000; telephone number 202-402-7698. For questions about Public and Indian Housing documents, contact Merrie Nichols-Dixon, Director, Office of Policy, Programs, and Legislative Initiatives, Office of Public and Indian Housing, Department of Housing and Urban Development, 451 7th Street SW, Washington, DC 20410-8000; telephone number 202-402-4673 (these are not toll-free numbers). Hearing- and speech-impaired persons may access these numbers through TTY by calling the Federal Relay Service at 800-877-8339 (this is a toll-free number).

SUPPLEMENTARY INFORMATION: On February 24, 2017, the President issued Executive Order 13777, entitled “Enforcing the Regulatory Reform Agenda.” See, 82 FR 12285. Among other things, section 2(iv) of this Executive Order requires agencies to terminate, consistent with applicable law, “programs and activities that derive from or implement Executive Orders, guidance documents, policy memoranda, rule interpretations, and similar documents, or relevant portions thereof, that have been rescinded.” Consistent with this Executive Order, the Department took steps to evaluate existing regulations and guidance to identify those that may merit repeal, replacement, or modification. See, e.g., 82 FR 22344, May 15, 2017 (seeking comments on regulations that may be outdated) and 83 FR 3635, January 26, 2018 (review of manufactured housing rules). As part of this effort, in 2019 the Department conducted a review of its administrative guidance documents and identified those that are unnecessary and obsolete. 84 FR 13695, April 5, 2019.¹

¹ Please note that in the Federal Register publication, the headings of the “Arch.” And “Remove” columns were inadvertently reversed.

On October 9, 2019, the President issued Executive Order 13891, titled “Promoting the Rule of Law Through Improved Agency Guidance Documents.” 84 FR 55235. Section 3(b) of this Executive Order requires each agency to “review its guidance documents and, consistent with applicable law, rescind those guidance documents that it determines should no longer be in effect.” The Department has conducted another comprehensive review as part of its continuing effort to comply with Executive Orders 13777 and 13891.

Due to the multiplicity of guidance documents, which includes large numbers of expired guidance documents, some of which date back many years, HUD has determined that it may be difficult for members of the public to readily determine which guidance currently applies to HUD-related activities. Furthermore, HUD's program web pages provide a great deal of information about HUD's policies, but may be difficult for the public and HUD's constituents to use because they do not clearly delineate which policy documents are currently applicable. There is no single source that identifies HUD's rescinded and expired guidance documents, with the result that it can be difficult to ascertain which guidance documents are no longer in effect. This may increase the difficulty and cost of compliance.

To reduce this burden and reduce costs of compliance, HUD identified guidance documents that are unnecessary and obsolete, expired, or should no longer be in effect. This notice announces that HUD is removing or archiving these identified guidance documents from its main program websites. This will result in a large reduction of documents that members of the public have to sift through to find relevant materials. For historical and research purposes, some of the former guidance may be placed into an archive. The archive will be clearly marked as such to avoid confusion. Guidance documents posted in an archive shall no longer have effect and shall not be cited except to establish historical fact.

In order to clarify which guidance documents are no longer in effect, the Appendices following this notice list the guidance documents that HUD is removing or archiving pursuant to this initiative. HUD, at this time, is removing or archiving 2,335 guidance documents. Removal or archiving of obsolete guidance documents assures the public that the documents posted on HUD's website are currently in effect, as required by Executive Order 13891.

Environmental Impact

This notice does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this notice is categorically excluded from environmental review under the National Environmental Policy Act of 1969 (42 U.S.C. 4321).

Benjamin S. Carson, Sr.,
Secretary.

Appendix A—Public and Indian Housing Notices
| Name of document | Date | Arch | Remove
1 | Revised Section 184 Indian Housing Loan Guarantee Program 2018 Loan Limits • Attachment. | 9/14/2018 | X |
2 | Section 184 Indian Housing Loan Guarantee Program 2018 Loan Limits | 4/30/2018 | X |
3 | Extension—Total Development Costs (TDC) for Affordable Housing under the Native American Housing Assistance and Self-Determination Act of 1996 (NAHASDA) • Attachment 1. | 5/4/2016 | X |
4 | Extension—Total Development Costs (TDC) for Affordable Housing under the Native American Housing Assistance and Self-Determination Act of 1996 (NAHASDA) • Attachment. | 6/26/2015 | X |
5 | Administrative Requirements for Investing Indian Housing Block Grant (IHBG) Funds | 5/8/2015 | X |
6 | Section 184 Indian Loan Guarantee Program Processing Guidelines | 9/16/2014 | X |
7 | Depository Agreements for Investing and Administering Indian Housing Block Grant (IHBG) Funds • Attachment A. • Attachment B. | 9/15/2014 | X |
8 | Extension—Total Development Costs (TDC) for Affordable Housing under the Native American Housing Assistance and Self-Determination Act of 1996 (NAHASDA) • Attachment 1. | 6/19/2014 | X |
9 | Extension—Total Development Costs (TDC) for Affordable Housing under the Native American Housing Assistance and Self-Determination Act of 1996 (NAHASDA) • Attachment 1. | 1/30/2013 | X |
10 | Extension—Recipient Inspection of Housing Units Assisted under the Native American Housing Assistance and Self-Determination Act of 1996 (NAHASDA) and Those Assisted Under the United States Housing Act of 1937 | 8/26/2012 | X |
11 | Extension—Total Development Costs (TDC) for Affordable Housing under the Native American Housing Assistance and Self-Determination Act of 1996 (NAHASDA) • Attachment 1. | 11/2/2011 | X |
12 | Extension—Recipient Inspection of Housing Units Assisted under the Native American Housing Assistance and Self-Determination Act of 1996 (NAHASDA) and Those Assisted Under the United States Housing Act of 1937 | 8/26/2011 | X |
13 | Accessibility Requirements for Native American Programs: Section 504 of the Rehabilitation Act of 1973; Americans with Disabilities Act of 1990; Architectural Barriers Act of 1968; and Fair Housing Amendments Act of 1988 | 7/21/2011 | X |
14 | Indian Housing Plan/Annual Performance Report Form | 4/28/2011 | X |
15 | Implementation of Statutory Change to the Native American Housing Assistance and Self-Determination Act of 1996 (NAHASDA) related to Income | 3/18/2011 | X |
16 | Recapture Provisions for Native American Housing Block Grant (NAHBG) Funds Authorized under the American Recovery and Reinvestment Act of 2009 | 2/8/2011 | X |
17 | Native American Housing Assistance and Self-Determination Act (NAHASDA) Interim Funding for Tribes or Tribally Designated Housing Entities (TDHE) in Fiscal Year (FY) 2011 | 1/27/2011 | X |
18 | Income exclusion under temporary employment by U.S. Census Bureau | 9/22/2010 | X |
19 | Extension—Recipient Inspection of Housing Units Assisted under the Native American Housing Assistance and Self-Determination Act of 1996 (NAHASDA) and Those Assisted Under the United States Housing Act of 1937 | 8/31/2010 | X |
20 | Demonstration Program—Self-Determined Housing Activities for Tribal Governments | 8/17/2010 | X |
21 | Reinstatement—PIH Notice 2009-6 (TDHEs)—Administrative Requirements for Investing Indian Housing Block Grant (IHBG) Funds | 8/6/2010 | X |
22 | Reinstatement—PIH Notice 2009-7 (TDHEs)—Depository Agreements for Recipients of the Indian Housing Block Grant (IHBG) Program | 8/6/2010 | X |
23 | Reinstatement of PIH Notice 2009-05, Accessibility Requirements for Native American Programs: Section 504 of the Rehabilitation Act of 1973; Americans with Disabilities Act of 1990; Architectural Barriers Act of 1968; and Fair Housing Amendments Act of 1988 | 7/27/2010 | X |
24 | Extension—Establishing a Micro Purchase Process for Purchases Less Than $5,000 for Indian Housing Block Grant (IHBG) Recipients | 5/7/2010 | X |
25 | Statutory Changes to the Native American Housing Assistance and Self-Determination Act of 1996 (NAHASDA) | 12/3/2009 | X |
26 | Federal Financial Report—Standard Form 425 | 11/16/2009 | X |
27 | Extension—Recipient Inspection of Housing Units Assisted under the Native American Housing Assistance and Self Determination Act of 1996 (NAHASDA) and Those Assisted Under the United States Housing Act of 1937 | 8/19/2009 | X |
28 | Total Development Costs (TDC) for Affordable Housing under the Native American Housing Assistance and Self-Determination Act of 1996 (NAHASDA) • Attachment—TDC Limits. | 8/10/2009 | X |
29 | Extension—PIH Notice 2008-26 (HA)—Income exclusion under temporary employment by U.S. Census Bureau | 6/30/2009 | X |
30 | Extension—Guidance on Integrated Pest Management (IPM) | 5/18/2009 | X |
31 | Establishing a Micro Purchase Process for Purchases Less than $5,000 for Indian Housing Block Grant (IHBG) Recipients | 5/18/2009 | X |
32 | Reinstatement—Depository Agreements for Recipients of the Indian Housing Block Grant (IHBG) Program | 3/5/2009 | X |
33 | Administrative Requirements for Investing Indian Housing Block Grant (IHBG) Funds | 3/5/2009 | X |
34 | Extension—PIH Notice 2008-6 (TDHEs)—Accessibility Requirements for Native American Programs: Section 504 of the Rehabilitation Act of 1973; Americans with Disabilities Act of 1990; Architectural Barriers Act of 1968; and Fair Housing Amendments Act of 1988 | 1/26/2009 | X |
35 | Limiting Housing to Indian Families or Tribal Members When Using Indian Housing Block Grant (IHBG) funds | 1/26/2009 | X |
36 | Total Development Costs (TDC) for Affordable Housing under the Native American Housing Assistance and Self-Determination Act of 1996 (NAHASDA) • Attachment. | 8/20/2008 | X |
37 | Income exclusion under temporary employment by U.S. Census Bureau | 6/24/2008 | X |
38 | Limiting Housing to Indian Families or Tribal Members when using Indian Housing Block Grant (IHBG) funds | 1/25/2008 | X |
39 | Reinstatement—PIH Notice 2006-38—Accessibility Requirements for Native American Programs: Section 504 of the Rehabilitation Act of 1973; Americans with Disabilities Act of 1990; Architectural Barriers Act of 1968; and Fair Housing Amendments Act of 1988 | 1/23/2008 | X |
40 | Native American Housing Assistance and Self-Determination Act (NAHASDA) Interim Funding for Tribes or Tribally Designated Housing Entities (TDHE) in Fiscal Year (FY) 2008 | 1/22/2008 | X |
41 | Reinstatement—Notice PIH 2005-4 (HA), Exigent Health and Safety Deficiency Correction Certification—New Reporting Procedures | 12/28/2007 | X |
42 | Disaster Housing Assistance Program (DHAP)—Revisions to the Operating Requirements | 11/6/2007 | X |
43 | PIH Notice 2007-30 Using ENERGY STAR to Promote Energy Efficiency in Public Housing | 10/24/2007 | X |
44 | PIH Notice 2007-29 Reporting Requirements and Sanctions Policy under the Housing Choice Voucher Program for the Family Report (Form HUD-50058) into the Public and Indian Housing Information Center | 10/10/2007 | X |
45 | Changes in the Project Numbering System and Process for Requesting Changes in Project Identifications | 8/27/2007 | X |
46 | Disallowed Costs and Sanctions Resulting from On-Site Monitoring Reviews | 8/24/2007 | X |
47 | Disaster Housing Assistance Program (DHAP) Operating Requirements | 8/16/2007 | X |
48 | Extension—Notice 2006-32, “Public Housing Agency (PHA) Cost-Saving Initiatives in the Housing Choice Voucher (HCV) Program” | 8/14/2007 | X |
49 | Administrative Requirements for Investing Indian Housing Block Grant (IHBG) Funds | 8/10/2007 | X |
50 | $100 Million Set-Aside Provision to Adjust Public Housing Agencies Baseline Funding, Housing Choice Voucher Program CY 2007 | 8/1/2007 | X |
51 | Submission of Calendar Year 2007 Notices of Intent and Fungibility Plans by PHAs in Hurricane Katrina and Rita Disaster Areas Authorized to Combine Section 8(o) and 9(d)(e) Funding Under Section 901 of 2006 Emergency Supplemental Appropriations, as Extended by 2007 Emergency and Supplemental Appropriations | 7/31/2007 | X |
52 | Guidance on Methods and Schedules for Calculating Federal Fiscal Year (FFY) 2008 Operating Subsidy Eligibility | 7/23/2007 | X |
53 | Impact of Non-Parental Child-Only Welfare Grants on Families Participating in the Family Self-Sufficiency (FSS) Program | 6/6/2007 | X |
54 | Extension—Public Housing Development Cost Limits • Attachment. | 6/29/2007 | X |
55 | Extension—Housing Choice Voucher Program—Enhanced Vouchers—Adjustment of Voucher Housing Assistance Payments for Certain Families that Received “Preservation” Voucher Assistance as the Result of an Owner Prepayment or Voluntary Termination of Mortgage Insurance for a Preservation Eligible Property in Federal Fiscal Year (FY) 1997, FY 1998, and FY 1999 | 6/27/2007 | X |
56 | Disaster Voucher Program (DVP)—Extension of the DVP and Revised Term for the Waiver of Tenant Contribution | 6/21/2007 | X |
57 | Operating Fund Program: Guidance on Demonstration of Successful Conversion to Asset Management to Discontinue the Reduction of Operating Subsidy, Year 1 and Year 2 Applications | 6/18/2007 | X |
58 | Implementation of Federal Fiscal Year 2007 Funding Provisions for the Housing Choice Voucher Program | 6/18/2007 | X |
59 | Certification of accuracy of data in the Public Housing Information Center System used to calculate the Capital Fund formula allocation in Fiscal Year 2007 | 6/15/2007 | X |
60 | Guidance on Integrated Pest Management | 5/24/2007 | X |
61 | Extension Notice PIH 2006-17 (TDHE), Total Development Costs (TDC) for Affordable Housing under the Native American Housing Assistance and Self-Determination Act of 1996 (NAHASDA) • Attachment. | 4/30/2007 | X |
62 | Voucher Funding In Connection with the Demolition or Disposition of Occupied Public Housing Units | 4/30/2007 | X |
63 | Updated Changes in Financial Management and Reporting Requirements for Public Housing Agencies Under the New Operating Fund Rule (24 CFR part 990) • Supplement. • Comments. | 4/10/2007 | X |
64 | Extension Notice PIH 2006-15 (HA), Single Audit Act (A-133) Independent Auditor Report Submission for Public Housing Agencies (PHAs) | 3/22/2007 | X |
65 | Guidance on Appeals under Subpart G of the Revisions to the Public Housing Operating Fund Program, Final Rule, Published in the Federal Register on September 19, 2005 (79 FR 54983) | 3/13/2007 | X |
66 | Process for Public Housing Agency Voluntary Transfers of Housing Choice Vouchers, Project-Based Vouchers and Project-Based Certificates | 3/7/2007 | X |
67 | Revised Voucher Housing Assistance Payments Contract (Form HUD 52641) and Tenancy Addendum (form HUD 52641A); Housing Choice Voucher Program Administration and the Violence Against Women and Justice Department Reauthorization Act of 2005 (VAWA 2005) | 2/16/2007 | X |
68 | Extension Disaster Voucher Program (DVP) Operating Requirements Rental Assistance for HUD-Assisted Families and Special Needs Families Displaced by Hurricanes Katrina and Rita | 2/4/2007 | X |
69 | Reoccupancy Policies for Pre-Disaster HUD-Assisted and Special Needs Families Displaced by Hurricanes Katrina and Rita | 1/23/2007 | X |
70 | Native American Housing Assistance and Self-Determination Act (NAHASDA) Interim Funding for Tribes or Tribally Designated Housing Entities (TDHE) in Fiscal Year (FY) 2007 | 1/23/2007 | X |
71 | Violence Against Women and Justice Department Reauthorization Act 2005 Form HUD-50066 | 12/27/2006 | X |
72 | Verification of Social Security (SS) and Supplemental Security Income (SSI) Benefits | 12/19/2006 | X |
73 | Accounting for Fixed Asset Depreciation and Related Issues | 10/19/2006 | X |
74 | Reinstatement of Notice PIH 2005-21—Accessibility Notice for Native American Program: Section 504 of the Rehabilitation Act of 1973; the Americans with Disabilities Act of 1990; the Architectural Barriers Act of 1968; and the Fair Housing Amendments Act of 1988 | 10/16/2006 | X |
75 | Changes to Disaster Voucher Program (DVP) Operating Requirements Family | 9/28/2006 | X |
76 | Guidance on Unit Status Categories in the Development Sub-module of the Office of Public and Indian Housing (PIH) | 9/26/2006 | X |
77 | Operating Fund Program Final Rule: Transition Funding and Guidance on Demonstration of Successful Conversion to Asset Management to Discontinue the Reduction of Operating Subsidy Participation Extension of Stop Loss Deadline to April 15, 2007 | 9/25/2006 | X |
78 | Limiting Housing to Indian Families or Tribal Members when using Indian Housing | 9/25/2006 | X |
79 | Changes in Financial Management and Reporting Requirements for Public Housing • Attachment. | 9/6/2006 | X |
80 | Public Housing Agency (PHA) Cost-Savings Initiatives in the Housing Choice Voucher (HCV) Program | 8/21/2006 | X |
81 | Extension Notice PIH 2005-32 (HA) HUD PIH Notice for Demolition/Disposition | 8/18/2006 | X |
82 | Guidance on Methods and Schedules for Calculating Federal Fiscal Year (FFY) 2007 Operating Subsidy Eligibility | 8/17/2006 | X |
83 | Disaster Voucher Program (DVP) Supplemental Guidance: Voucher Program | 7/28/2006 | X |
84 | Extension Depository Agreements for Recipients of the Indian Housing Block Grant (IHBG) Program | 7/26/2006 | X |
85 | Reinstatement—Homeless Initiative in Public Housing and Housing Choice Voucher Programs | 7/7/2006 | X |
86 | Extension Housing Choice Voucher Program Enhanced Vouchers Adjustment of Voucher Housing Assistance Payments for Certain Families that Received Preservation Voucher Assistance as the Result of an Owner Prepayment or Voluntary Termination of Mortgage Insurance for a Preservation Eligible Property in Federal Fiscal Year (FY) 1997, FY 1998, and FY 1999 | 6/30/2006 | X |
87 | Extension—Housing Choice Voucher Portability Procedures and Corrective Actions—Revision of Family Portability Information, Form HUD-52665 | 7/3/2006 | X |
88 | Correction to PIH-2006-24 Revised Reporting Requirements and Sanctions Policy for the Family Report (Form HUD-50058) to the Office of Public and Indian Housing (PIH) Information Center (PIC) | 6/30/2006 | X |
89 | Implementation of the Violence Against Women and Justice Department Reauthorization Act 2005 | 6/23/2006 | X |
90 | Public Housing Development Cost limits • Attachment. | 6/21/2006 | X |
91 | Reinstatement—Notice PIH 2005-5(HA) New Freedom Initiative, Executive Order | 6/16/2006 | X |
92 | Financial Audit Requirements | 6/7/2006 | X |
93 | Reinstatement of PIH Notice 2004-17, Recipient Inspection of Housing Units Assisted Under the Native American Housing Assistance and Self-Determination Act of 1996 (NAHASDA) and those Assisted Under the 1937 Housing Act | 6/5/2006 | X |
94 | Fiscal Year 2006 Capital Fund Grants Processing Notice | 5/31/2006 | X |
95 | Total Development Costs (TDC) for Affordable Housing under the Native American • Attachment. | 4/17/2006 | X |
96 | Project-Based Voucher Units with Low-Income Housing Tax Credit Allocations | 3/29/2006 | X |
97 | Extension—Notice PIH 2005-11 (HA), Single Audit Act (A-133) | 3/23/2006 | X |
98 | Operating Fund Program Final Rule: Transition Funding and Guidance | 3/22/2006 | X |
99 | Non-Discrimination and Accessibility for Persons with Disabilities | 3/8/2006 | X |
100 | Disaster Voucher Program (DVP) Operating Requirements—Rental Assistance for HUD-Assisted Families and Special Needs Families Displaced by Hurricanes Katrina and Rita | 2/3/2006 | X |
101 | Identification of Projects for Asset Management | 2/3/2006 | X |
102 | Extension—Notice PIH 2005-4 (HA), Exigent Health and Safety Deficiency | 1/27/2006 | X |
103 | Extension—Notice PIH 2005-3 (HA), Changes to Guidebook 7401.7 G, Housing Agency (HA) Guidebook: Employee Benefit Plans | 1/27/2006 | X |
104 | Guidance on Energy Performance Contract with terms up to 20 years | 2/1/2006 | X |
105 | Implementation of the 2006 HUD Appropriations Act (Pub. L. 109-115) | 1/13/2006 | X |
106 | Native American Housing Assistance and Self-Determination Act (NAHASDA) Funding | 1/12/2006 | X |
107 | Reduction of Annual Contributions Contract (ACC) Reserves, Rescission of Requirements Under form HUD-52681 for Most Housing Choice Voucher Program Units, and Sanctions for Failure to Submit Required Financial Reports Pursuant to 24 CFR 5.801 | 1/11/2006 | X |
108 | Extension—Notice PIH 2004-25 (TDHEs), Clarification of submission dates for the form HUD-272-I Federal Cash Transactions Report ONAP (REV) | 1/3/2006 | X |
109 | Income calculation and verification guidance regarding the Medicare Prescription Drug Plan—Part D Program | 12/9/2005 | X |
110 | Katrina Disaster Housing Assistance Program (KDHAP) Operating Requirements | 12/1/2005 | X |
111 | Guidance on Methods and Schedules for Calculating Federal Fiscal Year (FFY) 2006 Operating Subsidy Eligibility and Issuance of Local Inflation Factors, Formula Expense Level Equation Multipliers, and Related Tables • Appendix 1. • Appendix 2. • Appendix 3. • Appendix 4. | 11/15/2005 | X |
112 | Information Regarding Implementation of the Final Rule to the Public Housing Operating Fund Program, 24 CFR part 990 | 11/2/2005 | X |
113 | Reissuance of Section Eight Management Assessment Program (SEMAP) Guidance to HUD Field Offices Assisting SEMAP Troubled, Near-Troubled and Non-Troubled PHAs | 10/25/2005 | X |
114 | Demolition/Disposition Processing Requirements Under the 1998 Act | 8/31/2005 | X |
115 | Federal Fiscal Year (FFY) 2006 Initial Determination and Obligation of Operating Subsidy | 8/22/2005 | X |
116 | Revised Implementation of the Housing Choice Voucher Program Administrative Fee Reduction and Recapture Provisions of the Fiscal Year 2003 Appropriations Act | 8/5/2005 | X |
117 | Project-Based Vouchers on the Family Report (Form HUD-50058) | 8/3/2005 | X |
118 | Extension—Housing Choice Voucher Portability Procedures and Corrective Actions—Revision of Family Portability Information, Form HUD-52665 | 7/15/2005 | X |
119 | Transition of Operating Subsidy Funding to a Calendar Year Basis and Associated Modifications to the Federal Fiscal Year 2005 Calculation of Operating Subsidy | 7/12/2005 | X |
120 | Public Housing Development Cost limits—(Attachment) • Attachment. | 7/13/2005 | X |
121 | Using ENERGY STAR to Promote Energy Efficiency in Public Housing | 7/13/2005 | X |
122 | Housing Choice Voucher Program—Enhanced Vouchers—Adjustment of Voucher Housing Assistance Payments for Certain Families that Received “Preservation” Voucher Assistance as the Result of an Owner Prepayment or Voluntary Termination of Mortgage Insurance for a Preservation Eligible Property in Federal Fiscal Year (FY) 1997, FY 1998, and FY 1999 | 7/8/2005 | X |
123 | Depository Agreements for Recipients of the Indian Housing Block Grant (IHBG) Program | 7/7/2005 | X |
124 | Fiscal Year 2005 Capital Fund Grants Processing Notice | 6/24/2005 | X |
125 | Reinstatement—Notice PIH 2003-26 (TDHEs), Accessibility Notice for Native American Program: Section 504 of the Rehabilitation Act of 1973; the Americans with Disabilities Act of 1990; the Architectural Barriers Act of 1968; and the Fair Housing Amendments Act of 1988 | 6/22/2005 | X |
126 | Reinstatement—Units with Low-Income Housing Tax Credit Allocations Combined with Housing Choice Voucher Assistance under the Tenant-Based and Project-Based Programs | 6/22/2005 | X |
127 | Limiting Housing to Indian Families or Tribal Members when using Indian Housing Block Grant (IHBG) Funds | 6/21/2005 | X |
128 | Calendar Year 2005 Administrative Fee Funding for the Housing Choice Voucher Program | 6/15/2005 | X |
129 | Reporting Requirements for the Family Report (Form HUD-50058) to the Public Housing Information Center (PIC) | 6/15/2005 | X |
130 | Policy Guidance on College Student Admissions | 6/15/2005 | X |
131 | Reinstatement of Notice PIH 2004-4 (HA), Submission and Processing of Public Housing Agency (PHA) Applications for Housing Choice Vouchers for Relocation or Replacement Housing Related to Demolition or Disposition (Including HOPE VI), and Plans for Removal (Required/Voluntary Conversion Under Section 33 of the U.S. Housing Act of 1937, As Amended, and Mandatory Conversion Under Section 202 of the Omnibus Consolidated Rescissions and Appropriations Act of 1996) of Public Housing Units | 4/26/2005 | X |
132 | Calendar Year 2005 Administrative Fee Funding for Homeownership Voucher Program Implementation and Closings | 4/22/2005 | X |
133 | Extension—Notice PIH 2004-5 (HA) HUD PIH Notice for Mixed-Finance Development of Operating Subsidy-Only Projects | 4/21/2005 | X |
134 | Continuation of Implementation of the Public and Indian Housing Information Center (PIC) Demolition/Disposition Sub-module for Application Submission and Data Collection for Public Housing Unit Removals | 4/19/2005 | X |
135 | Single Audit Act (A-133) Independent Auditor Report Submission for Public Housing Agencies (PHAs) | 3/29/2005 | X |
136 | Posting of Class Action Notice (Taylor vs. Jackson, Civil Action No. 02-cv-1120AA)—Fairness Hearing for Proposed Settlement of Litigation Concerning Enhanced Vouchers Provided in Connection with Preservation Prepayments that Occurred in Federal Fiscal Years (FYs) 1997, 1998, and 1999 | 3/23/2005 | X |
137 | Public Housing Agency (PHA) Flexibility to Manage the Housing Choice Voucher Program in 2005 | 2/25/2005 | X |
138 | Implementing Risk Analyses for Monitoring Community Planning and Development Grant Programs for FY 2006 | 9/12/2005 | X |
139 | Rental Integrity Monitoring (RIM) Disallowed Costs and Sanctions Under the Rental Housing Integrity Improvement Project (RHIIP) Initiative | 2/22/2005 | X |
140 | New Freedom Initiative, Executive Order 13217: “Community-Based Alternatives for Individuals with Disabilities,” and the Housing Choice Voucher Program | 2/1/2005 | X |
141 | Exigent Health and Safety Deficiency Correction Certification New Reporting Procedures | 1/18/2005 | X |
142 | Changes to Guidebook 7401.7 G, “Housing Agency (HA) Guidebook: Employee Benefit Plans” | 1/13/2005 | X |
143 | Implementation of the Consolidated Appropriations Act (H.R. 4818 H. Rept. 108-792), 2005 Funding Provisions for the Housing Choice Voucher Program | 12/8/2004 | X |
144 | Clarification of submission dates for the form HUD-272-I Federal Cash Transactions Report ONAP (REV) | 12/10/2004 | X |
145 | Income calculation and verification guidance regarding Medicare Prescription Drug Cards and Transitional Assistance | 11/10/2004 | X |
146 | Extension—Notice PIH 2003-30 (HAs) Budget Line Items for the Resident Opportunities and Self-Sufficiency Program (ROSS) in the Line of Credit Control System/Voice Response System for Fiscal Year (FY) 2003 | 11/30/2004 | X |
147 | Extension—Notice PIH 2003-14 (TDHEs), Administrative Requirements for Investing Indian Housing Block Grant Funds | 11/30/2004 | X |
148 | Elimination of The Use Of Code “5” In Line 3q of The Form HUD 50058 In Reporting Compliance With Public Housing Community Service And Self-Sufficiency Requirements | 10/4/2004 | X |
149 | Notice on Designating an Indian Area for the Section 184 Indian Housing Loan Guarantee (Section 184) Program | 9/29/2004 | X |
150 | Verification of Social Security (SS) and Supplemental Security Income (SSI) Benefits | 9/17/2004 | X |
151 | Recipient Inspection of Housing Units Assisted Under the Native American Housing Assistance and Self-Determination Act of 1996 (NAHASDA) and those Assisted Under the 1937 Housing Act | 8/18/2004 | X |
152 | Section Eight Management Assessment Program (SEMAP) Guidance to HUD Field Offices Assisting SEMAP Troubled and Near-Troubled PHAs | 8/18/2004 | X |
153 | Fiscal Year 2004 Capital Fund Grants Processing Notice | 8/9/2004 | X |
154 | Guidance on Methods and Schedules for Calculating Federal Fiscal Year (FFY) 2005 Operating Subsidy Eligibility and Issuance of Local Inflation Factors, Formula Expense Level Equation Multipliers, and Related Tables • Appendix 1. • Appendix 2. • Appendix 3. • Appendix 4. | 8/9/2004 | X |
155 | New Codes for Special Programs Reported on the Family Report (Form HUD-50058) | 8/5/2004 | X |
156 | Housing Choice Voucher Portability Procedures and Corrective Actions—Revision of Family Portability Information, Form HUD-52665 | 7/19/2004 | X |
157 | Income calculation regarding Medicare Prescription Drug Cards and Transitional Assistance | 7/15/2004 | X |
158 | Certification Reviews of Public Housing Agencies by the Office of Public and Indian Housing | 6/1/2004 | X |
159 | Operating Fund—Final Proration Factor for Federal Fiscal Year (FFY) 2003 and Processing Notes for FFY 2004 | 5/25/2004 | X |
160 | Extension—Notice PIH 2003-15 (TDHEs), Performing Reporting Requirements and Grant Close-Out Procedures for the Indian Housing Drug Elimination Program (IHDEP) | 5/7/2004 | X |
161 | Implementation of FFY 2004 Consolidated Appropriations Act Provisions for the Housing Choice Voucher Program | 4/22/2004 | X |
162 | Extension-Public Housing Development Cost Limits | 4/1/2004 | X |
163 | Submission and Processing of Public Housing Agency (PHA) Applications for Housing Choice Vouchers for Relocation or Replacement Housing Related to Demolition or Disposition (Including HOPE VI), and Plans for Removal (Required/Voluntary Conversion Under Section 33 of the U.S. Housing Act of 1937, As Amended, and Mandatory Conversion Under Section 202 of the Omnibus Consolidated Rescissions and Appropriations Act of 1996) of Public Housing Units | 3/29/2004 | X |
164 | Extension-Demolition/Disposition Processing Requirements Under the 1998 Act | 3/29/2004 | X |
165 | Excess Utility Consumption Charges Permissible Under the Flat Rent Option for Checkmetered Units | 3/15/2004 | X |
166 | Verification Guidance • Attachment. | 3/9/2004 | X |
167 | Rental Integrity Monitoring (RIM) Disallowed Costs and Sanctions Under the Rental Housing Integrity Improvement Project (RHIIP) Initiative (Revised) | 12/19/2003 | X |
168 | Implementation of the Public and Indian Housing Information Center (PIC) Demolition/Disposition Sub-module and Data Collection for Public Housing Unit Removals | 12/19/2003 | X |
169 | Extension-Notice PIH 2002-22 (HA), Units with Low-Income Housing Tax Credit Allocations Combined with Housing Choice Voucher Assistance Under the Tenant-Based and Project-Based Programs | 12/5/2003 | X |
170 | Accessibility Notice: Section 504 of the Rehabilitation Act of 1973; the Americans with Disabilities Act of 1990; the Architectural Barriers Act of 1968 and the Fair Housing Act of 1988 | 11/26/2003 | X |
171 | Budget Line Items for the Resident Opportunities and Self-Sufficiency Program (ROSS) in the Line of Credit Control System/Voice Response System for Fiscal Year (FY) 2003 | 11/17/2003 | X |
172 | Reinstatement—Notice PIH 2002-17 (TDHEs), Financial Audit Requirements | 10/24/2003 | X |
173 | Guidance to Public Housing Agencies on Providing Information to Law Enforcement on Possible Fleeing Felons | 10/24/2003 | X |
174 | Accessibility Notice for Native American Program: Section 504 of the Rehabilitation Act of 1973; the Americans with Disabilities Act of 1990; the Architectural Barriers Act of 1968; and the Fair Housing Amendments Act of 1988 | 10/24/2003 | X |
175 | Homeless Initiative in Public Housing and Housing Choice Voucher Programs | 10/3/2003 | X |
176 | Implementation of FFY 2003 Omnibus Appropriations Act Provisions for the Housing Choice Voucher Program • Attachment 1—Example of Renewal Funding Calculations—Funding Cap Does Not Apply. • Attachment 2—Example of Renewal Funding Calculations—Funding Cap Applies. • Attachment 3—Examples of Administrative Fee Analysis and Recapture. | 9/22/2003 | X |
177 | Guidance on Methods and Schedules for Calculating Federal Fiscal Year (FFY) 2004 Operating Subsidy Eligibility and Issuance of Local Inflation Factors, Formula Expense Level Equation Multipliers, and Related Tables • Attachment 1 and 2. • Attachment 3 and 4. | 9/11/2003 | X |
178 | Deregulation for Small Public Housing Agencies (PHAs) and Submission Requirements for New Small PHA Streamlined Annual PHA Plans | 9/9/2003 | X |
179 | Housing Choice Voucher Program—Homeownership Option PHA Reporting Requirements | 8/29/2003 | X |
180 | Fiscal Year 2003 Capital Fund Grants Processing Notice | 7/23/2003 | X |
181 | Federal Fiscal Year (FFY) 2003 Issuance of Instructions for Adjustments and Revisions to Operating Subsidy Eligibility, and Updated Information on Proration Factor and Approval of Calculations | 7/28/2003 | X |
182 | Reinstatement of the Community Service and Self-Sufficiency Requirement | 7/20/2003 | X |
183 | Total Development Costs (TDC) for Affordable Housing under the Native American Housing Assistance and Self-Determination Act of 1996 (NAHASDA) • Attachment. | 6/19/2003 | X |
184 | Extension—Notice PIH 2002-11 (TDHEs), Performance Reporting Requirements and Grant Close-Out Procedures for the Indian Housing Drug Elimination Program (IHDEP) | 5/23/2003 | X |
185 | Reinstatement—Notice PIH 2001-21 (TDHEs), Administrative Requirements of Investing Indian Housing Block Grant Funds | 5/23/2003 | X |
186 | Reinstatement—Notice PIH 2001-39 (ONAP), Line of Credit Control System (LOCCS/VRS) for the Indian Housing Block Grant Program | 5/23/2003 | X |
187 | Determination of Rent Reasonableness—Revision of Request for Tenancy Approval, Form HUD-52517 | 5/16/2003 | X |
188 | Instructions for Obtaining Federal Bureau of Investigation Criminal History Record Information | 4/11/2003 | X |
189 | Capital Fund—Replacement Housing Factor Funding-Instructions • Attachment. | 4/4/2003 | X |
190 | Demolition/Disposition Processing Requirements Under the 1998 Act • Attachment 1. • Attachment 2. | 3/27/2003 | X |
191 | Public Housing Development Cost limits • Attachment. | 3/27/2003 | X |
192 | Reinstatement—Notice PIH 2001-26 (HA), PHA Plan Guidance; Further Streamlining of Small PHA Plan; Early Availability of Capital Formula Funding for Obligation; Extension of Notices PIH 99-33 (HA), PIH 99-51 (HA), PIH 2000-22 (HA), PIH 2000-43 (HA) and PIH 2001-4 (HA) | 2/25/2003 | X |
193 | Native American Housing Assistance and Self-Determination Act (NAHASDA) Funding for Tribes or Tribally Designated Housing Entities (TDHE) in Fiscal Year (FY) 2003 | 1/30/2003 | X |
194 | Federal Fiscal Year (FFY) 2003 Guidance on Determination of Operating Subsidy Eligibility, Schedule for the Submission of Operating Subsidy Calculations, Issuance of Proration Factor and Approval of Calculations • Appendices. | 1/6/2003 | X |
195 | Extension—Notice PIH 2001-38 (HA), Demolition/Disposition Processing Requirements under the New Law | 11/6/2002 | X |
196 | Units with Low-Income Housing Tax Credit Allocations Combined with Housing Choice Voucher Assistance under the Tenant-Based and Project-Based Programs | 11/1/2002 | X |
197 | Financial Audit Requirements | 6/28/2002 | X |
198 | Housing Choice Voucher Program, Procedures for Voluntary Reduction of Baseline Units | 6/7/2002 | X |
199 | Extension—Notice PIH 2001-19 (TDHEs), Performance Reporting Requirements and Grant Close-Out Procedures for the Indian Housing Drug Elimination Program (IHDEP) | 5/24/2002 | X |
200 | PIH 2001-8 (HA) Termination of Tenancy for Criminal Activity | 3/29/2002 | X |
201 | Federal Fiscal Year (FFY) 2002 Proration Factor, Dwelling Rental Adjustment Factor, and Other Special Notes | 3/27/2002 | X |
202 | Housing Choice Voucher Program: PHA Administrative Fees | 3/12/2002 | X |
203 | Housing Choice Voucher Annual Contributions Contract (ACC) Reserves | 3/8/2002 | X |
204 | FY 2002 Operating Fund Local Inflation Factors, Formula Expense Level Equation Multipliers, and Related Tables | 3/6/2002 | X |
205 | Single Audit Act (A-133) Independent Auditor Report Submission for Public Housing Agencies. | 2/11/2002 | X |
206 | Reinstatement—Notice PIH 2000-41 (HA), Use of Housing Choice Vouchers in Assisted Living Facilities | 1/6/2002 | X |
207 | Cancellation of HUD Forms | 1/6/2002 | X |
208 | Accessibility Notice: Section 504 of the Rehabilitation Act of 1973; the Americans with Disabilities Act of 1990; the Architectural Barriers Act of 1968 and the Fair Housing Act of 1988 | 1/22/2002 | X |
209 | Reinstatement—Notice PIH 2000-31 (HA), Implementation of the Special Application Center (SAC) | 12/28/2001 | X |
210 | December 2001 Semi-Annual Assessment Process for the Public and Indian Housing Information Center (PIC) Form 50058 Reporting | 12/5/2001 | X |
211 | Total Development Costs (TDC) for Affordable Housing under the Native American Housing Assistance and Self-Determination Act of 1996 (NAHASDA) • TDC Final Rule-official printed Notice. • TDCs. | 11/30/2001 | X |
212 | Operation Enduring Freedom | 11/14/2001 | X |
213 | Extension—Notice PIH 2000-44 (ONAP), Line of Credit Control System (LOCCS/VRS) for the Indian Housing Block Grant Program and updates for Form HUD-272-I and Form HUD-27054 | 11/13/2001 | X |
214 | Reinstatement of Notice PIH 99-19 (HA), Demolition/Disposition Processing Requirements under the New Law and Extension Notice PIH 2000-16 (HA) | 11/1/2001 | X |
215 | Extension—Notice PIH 2000-50 (HA), Resources Available to Assist Public Housing Agencies Promote Energy Conservation | 10/29/2001 | X |
216 | Submission of Operating Subsidy Eligibility Requests | 10/26/2001 | X |
217 | Technical Corrections to PIH Notice 2001-29, Fiscal Year 2001 Financial Management Requirements for Section 8 Moderate Rehabilitation (Mod Rehab) Housing Assistance Payments (HAP) Contract Expirations | 10/10/2001 | X |
218 | Extension of Notice PIH 2000-39 (HA), Annual Resident Survey for the Public Housing Drug Elimination Program (PHDEP) | 9/20/2001 | X |
219 | Housing Choice Voucher Program—Conversion of Certificate Assistance to Voucher Assistance | 8/24/2001 | X |
220 | Submission of Operating Subsidy Eligibility Requests for FY 2001, Proration Factor, and Other Special Notes | 8/24/2001 | X |
221 | Extension—Notice PIH 2000-37 (TDHEs), Indian Housing Block Grant Program: Guidance and procedures if Tribes do not assume environmental review responsibilities under 24 CFR part 58 | 8/15/2001 | X |
222 | Extension—Notice PIH 2000-26 (TDHEs), Native American Housing Assistance and Self-Determination Act (NAHASDA)—Indian Housing Block Grant (IHBG) Program—Performance Measure for the Obligation of Funds | 8/9/2001 | X |
223 | FY 2001 Operating Fund Local Inflation Factors, Formula Expense Level Equation Multipliers, and Related Tables | 8/7/2001 | X |
224 | Implementation of Public Law 106-504 regarding the eligibility of the citizens of the Freely Associated States for federally assisted housing | 8/3/2001 | X |
225 | PHA Plan Guidance; Further Streamlining of Small PHA Plans; Early Availability of Capital Formula Funding for Obligation; Extension of Notices PIH-33 (HA), PIH 99-51 (HA), PIH 2000-22 (HA), PIH 2000-36 (HA), PIH 2000-43 (HA) and PIH 2001-4 (HA) | 8/2/2001 | X |
226 | Reinstatement—Notice PIH 2000-10 (TDHEs), Providing Assistance to Non Low-Income Indian Families under the Native American Housing Assistance and Self-Determination Act of l996 | 7/23/2001 | X |
227 | Public Housing Development Cost limits Year 2001 • Attachment. | 7/12/2001 | X |
228 | Extension—Notice PIH 2000-21 (TDHEs), Administrative Requirements for Investing Indian Housing Block Grant Funds | 7/21/2001 | X |
229 | Submission and Processing of Public Housing Agency (PHA) Applications in Fiscal Year (FY) 2001 for Housing Choice Vouchers for Relocation or Replacement Housing Related to Demolition or Disposition (Including HOPE VI), and Plans for Removal (Mandatory Conversion) of Public Housing Units Under Section 33 of the U.S. Housing Act of 1937, As Amended | 7/21/2001 | X |
230 | Performance Reporting Requirements and Grant Close-Out Procedures for the Indian Housing Drug Elimination Program (IHDEP) | 6/5/2001 | X |
231 | Extension—Notice PIH 2000-20 (HA), which extended Notice PIH 99-21 (HA), Requirements for Designation of Public Housing Projects | 5/16/2001 | X |
232 | Reinstatement—Notice PIH 2000-47 (HA), Public Housing Development Total Development Cost (TDC) and Cost Control Policy | 5/2/2001 | X |
233 | Improving Income Integrity in Public and Assisted Housing • Appendix. | 5/2/2001 | X |
234 | Extension—Notice PIH 2000-18 (TDHEs), Accounting for program income under the Native American Housing Assistance and Self-Determination Act (NAHASDA) | 5/2/2001 | X |
235 | Reprogramming of Public Housing Drug Elimination Program (PHDEP) Special Initiative Funds and Recapturing of Gun Buy Back Matching Funds | 3/30/2001 | X |
236 | Adjusted Implementation Date of Revised Form HUD-50058, Family Report | 3/29/2001 | X |
237 | Conversion of Regular Housing Choice Vouchers to Enhanced Vouchers for Families affected by Section 8 Project-based Housing Assistance Payment (HAP) Contract Terminations and Expirations (Including Moderate Rehabilitation Contracts) in Federal Fiscal Years (FYs) 1995, 1996, 1997, 1998, and 1999 | 3/28/2001 | X |
238 | Funding of Dire Emergency Utility Costs in the Low Rent Public Housing Program • Attachment A. • Attachment B. • Attachment C. | 3/19/2001 | X |
239 | Termination of Tenancy for Criminal Activity | 3/13/2001 | X |
240 | Guidance for HUD Field Offices to Conduct Annual Section 8 Management Assessment Program (SEMAP) Assessments | 1/24/2001 | X |
241 | Guidance for Implementation of Direction Contained in the Conference Report 106-988 for the Department's Fiscal Year 2001 Appropriations Act | 1/19/2001 | X |
242 | Instructions for Submitting Second Public Housing Agency (PHA) Plans for PHAs with Fiscal Years beginning on July 1, 2001 and Capital Performance and Evaluation Reporting Requirements for January and April 2001 PHAs • Attachment. | 1/19/2001 | X |
243 | Interim Instructions on Distribution and Use of Operating Subsidy Funds Received for Resident Participation Activities | 1/18/2001 | X |
244 | Prohibition of Discrimination Against Families with Housing Choice Vouchers by Owners of Low-Income Housing Tax Credit and HOME Developments | 1/18/2001 | X |
245 | Guidance for Implementation of the October 2, 2000 Interim Rule on Increased Fair Market Rents (FMRs) and Higher Payment Standards for Certain Areas | 1/3/2001 | X |
246 | Revised Annual Performance Report, form HUD-52735-A | 12/18/2000 | X |
247 | Information Update: Implementation of Revised Form HUD-50058, Family Report | 12/15/2000 | X |
248 | Voluntary Expression of Interest in Moving to Work Demonstration Program | 12/13/2000 | X |
249 | Extension—Notice PIH 99-50 (HA), which extended Notice PIH 98-53 (HA), Inter-agency Agreement with the Army Corps of Engineers to Conduct Public Housing Development/Major Inspections/Reviews on Behalf of the Department of Housing and Urban Development (HUD) | 12/12/2000 | X |
250 | Resources Available to Assist Public Housing Agencies Promote Energy Conservation | 11/20/2000 | X |
251 | Housing Choice Voucher Program and Rental Certificate Program: PHA Administrative Fees for Lead-Based Paint Hazard Clearance Tests and Risk Assessments | 10/27/2000 | X |
252 | Federal Labor Standards in Public Housing Programs • Attachment. | 10/18/2000 | X |
253 | Extension—Notice PIH 2000-25 (HA), Public Housing Development Total Development Cost (TDC) and Cost Control Policy | 10/16/2000 | X |
254 | Housing Choice Voucher Program—Area Exception Payment Standard Review and Reporting Instructions • Attachment. | 9/28/2000 | X |
255 | Correction to Notice PIH 99-52 (HA), Section 504 of the Rehabilitation Act of 1973; the Americans with Disabilities Act of 1990; the Architectural Barriers Act of 1968 and the Fair Housing Act of 1988 | 9/20/2000 | X |
256 | PHA Plan Guidance; Streamlining of Small PHA Plans; Extension of Notices PIH 99-33 (HA) and PIH 99-51 (HA) | 9/18/2000 | X |
257 | The HUD Public Housing Fellows (HUD Fellows) Program • Attachment. | 9/11/2000 | X |
258 | Use of Housing Choice Vouchers in Assisted Living Facilities | 9/1/2000 | X |
259 | PROCESSING OF GRANT APPLICATIONS FOR FISCAL YEAR (FY) 2000—Indian Housing Drug Elimination Program (IHDEP) • Appendices 1-4. • Appendices 5-6. • Appendix 7—IHDEP Notice of Funding Availability (NOFA), May 11, 2000. • Appendix 8—Amendment to IHDEP NOFA, June 9, 2000. | 8/29/2000 | X |
260 | Annual Resident Survey for the Public Housing Drug Elimination Program (PHDEP) | 8/23/2000 | X |
261 | Performance Reporting Requirements and Grant Closeout Procedures for the Public Housing Drug Elimination Program (PHDEP) | 8/21/2000 | X |
262 | Extension—Notice PIH 99-37 (ONAP), Indian Housing Block Grant Program: Guidance and procedures if Tribes do not assume environmental review responsibilities under 24 CFR part 58 | 8/21/2000 | X |
263 | Transmittal of Guidance on the Requirement for Appointment and Role of Resident Advisory Boards in the Development of Public Housing Agency Plans | 8/21/2000 | X |
264 | Potential Electricity Shortages in California | 8/18/2000 | X |
265 | Requirement to Send Section 8 Management Assessment Program (SEMAP) Certification via the Internet • Attachment. | 8/17/2000 | X |
266 | Extension—Notice PIH 99-29 (TDHEs), Form HUD-272-I—Federal Cash Transactions Report ONAP | 8/16/2000 | X |
267 | Extension—Guidance for Housing Agencies when handling Asbestos Containing Materials (ACMs) in Public Housing Modernization or Demolition | 8/16/2000 | X |
268 | Extension—Notice PIH 99-30 (HA), Implementation of the Special Application Center (SAC) and Additional Review Responsibilities of the SAC | 8/14/2000 | X |
269 | Dwelling Construction and Equipment (DC&E) Costs for Affordable Housing under the Native American Housing Assistance and Self-Determination Act of 1996 (NAHASDA) • Attachment. | 8/14/2000 | X |
270 | Reinstatement and Extension of Notice PIH 97-48 (HA), Inter-agency Agreement with the Army Corps of Engineers to Conduct Modernization Inspections on behalf of the Department of Housing and Urban Development (HUD); Original Notice PIH 94-5 (HA), dated February 5, 1994, expired February 28, 1995 | 8/8/2000 | X |
271 | Reinstatement and Extension of Notice PIH 97-48 (HA), Inter-agency Agreement with the Army Corps of Engineers to Conduct Modernization Inspections on behalf of the Department of Housing and Urban Development (HUD); Original Notice PIH 94-5 (HA), dated February 5, 1994, expired February 28, 1995 | 8/9/2000 | X |
272 | Submission and Processing of Public Housing Agency (PHA) Applications in Fiscal Year (FY) 2000 for Housing Choice (Section 8) Vouchers for Relocation or Replacement Housing Related to Demolition or Disposition (Including HOPE VI), and Plans for Removal (Mandatory Conversion) of Public Housing Units Under Section 33 of the U.S. Housing Act of 1937, As Amended | 7/28/2000 | X |
273 | Extension—Notice PIH 2000-15 (HA), which extended Notice PIH 99-17 (HA) Public Housing Development Total Development Cost (TDC) and Cost Control Policy | 7/21/2000 | X |
274 | Section 8 Management Assessment Program (SEMAP) Implementation of Ratings and Update • Attachment. | 7/12/2000 | X |
275 | Lead-based paint requirements for units occupied by children with elevated blood lead levels in the housing choice voucher program and the certificate program • Attachment. | 6/29/2000 | X |
276 | Instructions for Submitting First Public Housing Agency (PHA) Plans for PHAs with Fiscal Years beginning on October 1, 2000 (including Community Service Requirements) | 6/29/2000 | X |
277 | Reinstatement—Notice PIH 99-4 (TDHEs), Administrative Requirements for Investing Indian Housing Block Grant Funds | 5/24/2000 | X |
278 | Extension—Notice PIH 99-21 (HA), which extended Notice PIH 98-24 (HA), Requirements for Designation of Public Housing Projects | 5/8/2000 | X |
279 | Amendment of Notice PIH 99-46 (HA) Financial Management Requirements for Section 8 Moderate Rehabilitation Program (Mod Rehab) Housing Assistance Payments (HAP) Contract Expirations | 4/18/2000 | X |
280 | Extension—Notice PIH 99-19 (HA), Demolition/Disposition Processing Requirements under the New Law | 4/18/2000 | X |
281 | Extension—Notice PIH 99-17 (HA), Public Housing Development Total Development Cost (TDC) and Cost Control Policy | 4/18/2000 | X |
282 | Cancellation of the Requirement to Submit the Program Utilization Report, Form HUD-52683, for Section 8 Tenant-Based Assistance Rental Certificate Program and Housing Choice Voucher Program and Report on Program Utilization for Section 8 Moderate Rehabilitation Program, Form HUD-52685 | 4/13/2000 | X |
283 | Reporting Requirements for the Multifamily Tenant Characteristics System (Form HUD-50058) | 4/7/2000 | X |
284 | Instructions for Submitting First Public Housing Agency (PHA) Plans for PHAs with Fiscal Years beginning July 1, 2000 and October 1, 2000 | 4/7/2000 | X |
285 | Guidance on Establishing Cooperation Agreements for Economic Self-Sufficiency between Public Housing Agencies (PHAs) and Temporary Assistance to Needy Families (TANF) Agencies • Attachment. | 5/9/2000 | X |
286 | Providing Assistance to Non Low-Income Indian Families under the Native American Housing Assistance and Self-Determination Act of 1996 | 3/15/2000 | X |
287 | Section 8 Tenant-based Assistance (Enhanced and Regular Housing Choice Vouchers) For Housing Conversion Actions in Federal Fiscal Year (FY) 2000 Policy and Processing Guidance | 3/10/2000 | X |
288 | Extension Notice for Notice PIH 99-12 (HA), Environmental Review: Public Housing and 24 CFR part 58 | 2/25/2000 | X |
289 | Reinstatement—Notice PIH 96-50 (HA), Guidelines for Sponsoring or Co-Sponsoring Training Conferences and Workshops | 2/25/2000 | X |
290 | Extension—Notice PIH 99-3 (HA), Budget Line Items for the Consolidated Economic Development and Supportive Services and Tenant Opportunities Program in the Line of Credit Control System/Voice Response System for FY 1997 and FY 1998 | 2/15/2000 | X |
291 | Semi-Annual HUDWEB Data Collection (Reporting) Form Instructions for Public Housing Agencies (PHAs) and Indian Housing Authorities (IHAs) selected for funding under the PIH Economic Development and Supportive Services Program (EDSS) • Attachment. | 2/15/2000 | X |
292 | FY 2000 Performance Funding System(PFS) Inflation Factor, Equation, and Related Tables and Special Notes Related to Operating Subsidy Eligibility | 2/3/2000 | X |
293 | FY 2000 Subsidies for Operation of Low-Income Housing Projects | 2/3/2000 | X |
294 | Customer Survey of Section 8 Tenant-Based Program Participants—OMB Approval 2528-0170 expires 9/30/2002 • Attachment. | 1/4/2000 | X |
295 | Exclusion of Earned Income as Census Takers | 1/3/2000 | X |
296 | Notice for PIH Hub & PHAs on Y2K | 12/20/1999 | X |
297 | Accessibility Notice: Section 504 of the Rehabilitation Act of 1973; the Americans with Disabilities Act of 1990; the Architectural Barriers Act of 1968 and the Fair Housing Act of 1988 | 12/15/1999 | X |
298 | Additional Instructions for Submitting First PHA Plans under the Final Rule and Extension of Due Date for Submission of PHA Plans for PHAs with Fiscal Years Beginning January 1, 2000 and April 1, 2000; Guidance for PHAs with Fiscal Years Beginning July 1, 2000 and after; Availability of Required Format for Public Housing Drug Elimination Program (PHDEP) Plan | 12/14/1999 | X |
299 | Extension—Notice PIH 98-53 (HA), which extended Notice PIH 97-53 (HA), Inter-agency Agreement with the Army Corps of Engineers to Conduct Public Housing Development/Major Reconstruction of Obsolete Public Housing (MROP) Inspections/Reviews on Behalf of the Department of Housing and Urban Development (HUD) | 12/8/1999 | X |
300 | Extension—Notice PIH 98-48 (HUD), Management and Retention of Section 8 Financial Records | 11/18/1999 | X |
301 | Extension—Notice PIH 99-14 (HA), Fiscal Year 1999 Financial Management Requirements for Section 8 Moderate Rehabilitation Program(Mod Rehab) Housing Assistance Payments (HAP) Contract Expirations | 11/5/1999 | X |
302 | Extension—Notice PIH 98-55 (HA) which extended Notice PIH 97-57 (HA), Section 8 Certificate and Moderate Rehabilitation Programs—Rent Adjustments | 10/6/1999 | X |
303 | Extensions for Notice PIH 98-62 (HA), Fiscal Year 1999 Renewal of Expiring Section 8 Moderate Rehabilitation (Mod Rehab) Housing Assistance Payments (HAP) Contracts and Notice PIH 99-22 (HA) Clarification of PIH Notice 98-62 (HA) | 10/1/1999 | X |
304 | Amendment to the Resident Opportunities and Self-Sufficiency (ROSS) Program Notice of Funding Availability (NOFA) | 9/29/1999 | X |
305 | Rental Assistance for Non-Elderly Persons With Disabilities in Support of Designated Housing Plans—FY 1999 Application Processing Instructions | 9/24/1999 | X |
306 | Section 8 Management Assessment Program (SEMAP) Technical Amendment and Revised Certification Form | 9/9/1999 | X |
307 | Section 8 Tenant-based Assistance and Housing Conversion Actions Special Fee for Extraordinary Administrative Costs and Processing Guidance | 9/1/1999 | X |
308 | Attachment to PIH Notice 99-22 (Clarification of PIH Notice 98-62 Governing FY 99 Renewal of Expiring Section 8 Moderate Rehabilitation Housing Assistance Payments (HAP) Contracts)—Rider to HAP Contract • Attachment. | 8/27/1999 | X |
309 | Comprehensive Improvement Assistance Program (CIAP): Federal Fiscal Year (FFY) 1999 Application Submission, Processing and Fund Reservation | 8/20/1999 | X |
310 | Housing Choice Voucher Rent Formula under the Section 8 Merger Rule, including Form HUD-50058 Instructions • Attachment. | 8/19/1999 | X |
311 | Dwelling Construction and Equipment (DC&E) Costs for Affordable Housing under the Native American Housing Assistance and Self-Determination Act of 1996 (NAHASDA) • Attachment. | 8/11/1999 | X |
312 | Announcement of Availability of PHA Plan Template, Instructions and Supplemental Guidance on Preparation and Submission of PHA Plans on HUD Website; Announcement of Streamlining of Capital Fund and Public Housing Drug Elimination Program Planning Requirements | 7/30/1999 | X |
313 | Determination of recipient administrative capacity to undertake the Indian Housing Block Grant (IHBG) program | 7/29/1999 | X |
314 | Guidance for Housing Agencies when handling Asbestos Containing Materials (ACMs) in Public Housing Modernization or Demolition | 7/29/1999 | X |
315 | Reinstatement of PIH Notices 98-28 (HA), Implementation of the Special Application Center (SAC) and 98-44 (HA), Additional Review Responsibilities of the Special Application Center (SAC) | 7/28/1999 | X |
316 | Form HUD-272-I—Federal Cash Transactions Report ONAP | 7/26/1999 | X |
317 | Guidance on definition of “public charge” in immigration laws; questions and answers (Q&As) about “public charge” • Attachment. | 7/15/1999 | X |
318 | Section 8 Family Self-Sufficiency (FSS) Program—FY 1999 Application Processing Instructions | 7/1/1999 | X |
319 | Submission and Processing of Public Housing Agency (PHA) Applications in Fiscal Year (FY) 1999 for Section 8 Rental Vouchers for Relocation or Replacement Housing Related to Demolition or Disposition (Including HOPE VI), and Plans for Removal (Mandatory Conversion) of Public Housing Units Under Section 33 of the U.S. Housing Act of 1937, As Amended | 7/1/1999 | X |
320 | Processing of Grant Applications for Fiscal Year (FY) 1999 NOFA—Public and Indian Housing Economic Development and Supportive Services (EDSS) Carryover Funding Competition | 6/25/1999 | X |
321 | Reinstatement—Notice PIH 96-18 (HA), Travel Policy for Resident Management/Tenant Opportunities Program Grantees (RM/TOP) | 6/24/1999 | X |
322 | Input of Homeownership Data Into the IBS | 6/9/1999 | X |
323 | Clarification of PIH Notice 98-62 Governing FY 99 Renewal of Expiring Section 8 Moderate Rehabilitation Housing Assistance Payments (HAP) Contracts • Attachment. | 5/20/1999 | X |
324 | Extension—Notice PIH 98-24 (HA), which reinstated Notice PIH 97-12 (HA), Requirements for Designation of Public Housing Projects | 5/5/1999 | X |
325 | Applications for Demolition/Disposition via the INTERNET using the Demolition Disposition Integrated Subsystem (DDISS) | 5/3/1999 | X |
326 | Demolition/Disposition Processing Requirements Under the New Law • Attachment. | 4/20/1999 | X |
327 | Public Housing Development Total Development Cost (TDC) and Cost Control Policy • Attachment. | 3/15/1999 | X |
328 | Tenant-Based Rental Vouchers for Eligible Residents of Preservation Eligible Projects Approved for Prepayment of the Mortgage or Voluntary Termination of the Mortgage Insurance in Federal Fiscal Year (FY) 1999 | 3/12/1999 | X |
329 | Budget Preparation for the Transfer of Section 8 Certificates to the Voucher Program | 3/8/1999 | X |
330 | Fiscal Year 1999 Financial Management Requirements for Section 8 Moderate Rehabilitation Program (Mod Rehab) Housing Assistance Payments (HAP) Contract Expirations | 2/24/1999 | X |
331 | FY 1999 Subsidies for Operation of Low-Income Housing Projects | 2/23/1999 | X |
332 | Extension Notice for Notice PIH 98-9 (HA), which extended Notice PIH 97-8 (HA) Environmental Review: Public Housing and 24 CFR part 58 | 2/12/1999 | X |
333 | Fire Safety | 2/17/1999 | X |
334 | Extension—Notice PIH 98-1 (HA), which extended Notice PIH 96-92(HA), Lead-Based Paint (LBP) Disclosure Rule Requirements for Public and Indian Housing and Section 8 Rental Certificate, Rental Voucher and Moderate Rehabilitation Programs | 2/11/1999 | X |
335 | Transfer of Section 8 Certificate Program Funding to the Voucher Program Annual Contributions Contract Funding Exhibit | 2/11/1999 | X |
336 | Transmittal of Notice of Funding Availability (NOFA) for the Welfare-to-Work Section 8 Tenant-Based Assistance Program | 2/9/1999 | X |
337 | Extension Notice for Notice PIH 98-5 (HA), Revised Requirement for submission of Form HUD-52599 to HUD Headquarters | 2/8/1999 | X |
338 | Transfer from an Indian housing authority to the tribe or tribally designated housing entity of the United States Housing Act of 1937 program funds that remain in the Line of Credit Control System | 2/4/1999 | X |
339 | Administrative Requirements for Investing Indian Housing Block Grant Funds | 2/3/1999 | X |
340 | Budget Line Items for the Consolidated Economic Development and Supportive Services and Tenant Opportunities Program in the Line of Credit Control System/Voice Response System for FY 1997 and FY 1998 | 1/27/1999 | X |
341 | Reporting Requirements for the Multifamily Tenant Characteristics System (HUD Form 50058) | 1/28/1999 | X |
342 | Correction to Notice PIH 98-65—Renewal of Expiring Contracts in the Section 8 Tenant-Based Program During Federal Fiscal Year 1999 | 1/12/1999 | X |
343 | Transfer of Section 8 Certificate Program Funding to the Voucher Program Annual Contributions Contract Funding Exhibit | 12/29/1998 | X |
344 | Renewal of Expiring Contracts in the Section 8 Tenant-Based Program During Federal Fiscal Year 1999 | 12/30/1998 | X |
345 | HUD's FY 1999 Appropriations Act Section 8 Tenant-based Assistance Program Statutory Provisions | 12/18/1998 | X |
346 | Dwelling Construction and Equipment (DC&E) Costs for Affordable Housing under the Native American Housing Assistance and Self-Determination Act of 1996 (NAHASDA) • Attachment. | 12/18/1998 | X |
347 | Grant Closeout Procedures | 12/4/1998 | X |
348 | Byrd Amendment Requirement for Anti-Lobbying Certification | 12/3/1998 | X |
349 | Extension—Notice PIH 97-59 (HA), Restrictions on Leasing Additional Units—Budget Guidance | 12/1/1998 | X |
350 | FY 1999 Performance Funding System (PFS) Inflation Factor and Equation | 12/1/1998 | X |
351 | Treatment of Income Received from Training Programs—Housing Authority Responsibilities | 11/20/1998 | X |
352 | Extension—Notice PIH 97-57 (HA), Section 8 Certificate and Moderate Rehabilitation Programs—Rent Adjustments | 11/12/1998 | X |
353 | Lead-Based Paint (LBP) Disclosure requirements for Public and Indian Housing and Section 8 Rental Programs | 11/5/1998 | X |
354 | Extension—Notice PIH 97-53 (HA), Inter-agency Agreement with the Army Corps of Engineers to Conduct Public Housing Development/Major Reconstruction of Obsolete Public Housing (MROP) Inspections/Reviews on Behalf of the Department of Housing and Urban Development (HUD) • Attachment. | 10/28/1998 | X |
355 | Unavailability of HUDCAPS During December, 1998 | 10/28/1998 | X |
356 | Extension—Notice PIH 97-51 (HA), Policies and Procedures for Using Modernization Funds for Development Activities and Development Funds for Modernization Activities, and Modernization and Development Funds for Operations | 10/20/1998 | X |
357 | Section 8 Management Assessment Program (SEMAP) Final Rule and Certification Form | 10/6/1998 | X |
358 | Transmittal of the New Demolition/Disposition Application—HUD Form 52860 | 10/6/1998 | X |
359 | Management and Retention of Section 8 Financial Records | 9/28/1998 | X |
360 | Annual Performance Report | 9/4/1998 | X |
361 | Implementation of the Grants Management Center (GMC) | 9/1/1998 | X |
362 | Additional Review Responsibilities for the Special Application Center (SAC) | 8/28/1998 | X |
363 | PROCESSING OF GRANT APPLICATIONS FOR FISCAL YEAR (FY) 1998 SUPERNOFA—Public and Indian Housing Economic Development and Supportive Services Program (EDSS) • Appendices A-1. | 7/31/1998 | X |
364 | Processing of Grant Applications for Fiscal Year (FY) 1998 SuperNOFA Public Housing Tenant opportunities Program (TOP) • Attachments 1-13. | 7/31/1998 | X |
365 | Ceiling Rents in Public Housing • Attachment. | 7/23/1998 | X |
366 | PROCESSING OF GRANT APPLICATIONS FOR FISCAL YEAR (FY) 1998 SUPERNOFA—Drug Elimination in Public and Assisted Housing Programs | 7/14/1998 | X |
367 | Procedures to Avoid Displacement of Section 8 Program Participants Receiving Rental Assistance from Indian Housing Authorities | 7/9/1998 | X |
368 | Section 8 Family Self-Sufficiency (FSS) Program Coordinators—FY 1998 Processing Instructions • Attachment. | 7/7/1998 | X |
369 | Processing Public Housing Agency (PHA) Applications for the Family Unification Program (FUP), NOFA FR-4360, dated June 1, 1998 • Attachment 1-2. | 6/26/1998 | X |
370 | Processing Public Housing Agency (PHA) Applications for Section 8 Rental Vouchers and Certificates For Disabled Families Under the Mainstream Program, NOFA FR-4359, Dated April 30, 1998 • Attachment 1-2. | 6/22/1998 | X |
371 | Processing Public Housing Agency (PHA) Applications for Section 8 Rental Vouchers and Certificates For Non-Elderly Disabled Families In Connection With Certain Section 8 Project-Based Developments and Certain Section 202, Section 221(d)(3), and Section 236 Developments, NOFA FR-4359, Dated April 30,1998 • Attachment 1-2. | 6/16/1998 | X |
372 | Changes to Notice PIH 98-20 (HA), Instructions for Obtaining FBI Criminal History Record Information | 6/8/1998 | X |
373 | Clarification to Notice PIH 98-27 (HA), Procedures for Calculating Earned Administrative Fees in the Section 8 Rental Certificate, Rental Voucher, and Moderate Rehabilitation Programs | 6/2/1998 | X |
374 | Responsibility to begin transmission of new Form HUD-50058, Family Report, on June 1, 1998 | 9/11/1998 | X |
375 | Dwelling Construction and Equipment (DC&E) Costs for Affordable Housing under the Native American Housing and Self-Determination Act of 1996 (NAHASDA) • Attachment. | 5/21/1998 | X |
376 | Implementation of the Special Application Center (SAC) | 5/12/1998 | X |
377 | Procedures for Calculating Earned Administrative Fees in the Section 8 Rental Certificate, Rental Voucher, and Moderate Rehabilitation Programs | 4/28/1998 | X |
378 | Reinstatement—Notice PIH 97-13 (HA), Lease-Purchase Agreements in the Section 8 Tenant-Based Rental Voucher and Certificate Programs | 4/24/1998 | X |
379 | Renewal of Expiring Contracts in the Section 8 Rental Certificate and Rental Voucher Programs during Fiscal Year 1998 | 4/23/1998 | X |
380 | Reinstatement—Notice PIH 97-12 (HA), Requirements for Designation of Public Housing Projects | 4/20/1998 | X |
381 | Public Housing Development Cost Limits • Attachment A. • Attachment B. | 4/13/1998 | X |
382 | Amending Section 8 Annual Contribution Contracts to Add Budget Authority for Additional Authorized Units | 4/10/1998 | X |
383 | Revised Consolidated Annual Contributions Contract for the Section 8 Rental Certificate and Rental Voucher Programs | 4/21/1998 | X |
384 | Instructions For Obtaining FBI Criminal History Record Information | 4/7/1998 | X |
385 | Tenant-Based Rental Vouchers or Certificates for Eligible Residents of Preservation Eligible Projects Approved for Prepayment of the Mortgage or Voluntary Termination of the Mortgage Insurance in Federal FY 1998 | 4/3/1998 | X |
386 | Correction to Notice PIH 98-13(HA)—Form HUD-50058—Special Instructions for the Section 8 Certificate Over-FMR Tenancy Option (OFTO) | 3/19/1998 | X |
387 | Native American Housing Assistance and Self-Determination Act Advance Funding for Tribes or Tribally Designated Housing Entities with an Indian Housing Authority having a Fiscal Year End Date of December 31, 1997, March 31, 1998, and June 30, 1998 | 3/12/1998 | X |
388 | Extension—Notice PIH 97-5(HA), Grant Closeout Procedures; Notice PIH 97-9 (HA), Grant Closeout Procedures, Addendum | 2/26/1998 | X |
389 | Single Audit Act Amendments of 1996: Information for Public Housing Agencies and Indian Housing Entities • Attachment. | 2/14/1998 | X |
390 | Form HUD-50058—Special Instructions for the Section 8 Certificate Over-FMR Tenancy Option (OFTO) • Attachment. | 2/20/1998 | X |
391 | Renewal of Expiring Contracts in the Section 8 Rental Certificate and Rental Voucher Programs during Fiscal Year 1998 | 2/13/1998 | X |
392 | Fiscal Year 1998 Financial Management Requirements for Section 8 Moderate Rehabilitation Program (Mod Rehab) Housing Assistance Payments (HAP) Contract Expirations • Attachment A. • Attachment B. | 2/3/1998 | X |
393 | Extension—Notice PIH 97-3 (HUD), Revised Annual Contributions Contract (ACC) Amendment Forms for Public Housing Development • Attachment. | 2/3/1998 | X |
394 | Extension—Notice PIH 97-8 (HA), Environmental Review: Public Housing and 24 CFR part 58 | 2/3/1998 | X |
395 | Extension—Notice PIH 97-7 (HA), Lead-Based Paint Liability Insurance in the Public Housing and Indian Housing Programs | 1/28/1998 | X |
396 | Semi-Annual HUDWEB Data Collection (Reporting) Form Instructions for Public Housing Agencies (PHAs) and Indian Housing Authorities (IHAs) selected for funding under the PIH Economic Development and Supportive Services Program (EDSS) in Fiscal Years 1996 • Attachment, Part 1. • Attachment, Part 2. | 1/30/1998 | X |
397 | Clarification of Notice PIH 97-60 (HA), Responsibility for Completion of the Form HUD-50058, Family Report | 1/29/1998 | X |
398 | Revised Requirements for submission of Form HUD-52599 to HUD Headquarters | 1/28/1998 | X |
399 | Public Housing, Native American and Section 8 Fiscal Year 1998 Appropriations Act and Balanced Budget Act of 1997 Provisions | 1/26/1998 | X |
400 | Recapture of Section 8 Program Reserves | 1/16/1998 | X |
401 | Treatment of Income Received from Training Programs | 1/12/1998 | X |
402 | Extension—Notice PIH 96-92 (HA), Lead-Based Paint (LBP) Disclosure Rule Requirements for Public and Indian Housing and Section 8 Rental Certificate, Rental Voucher and Moderate Rehabilitation Programs | 1/6/1998 | X |
403 | Extension—Notice PIH 96-88 (HA), HUDCAPS Program Information Requirements | 12/23/1997 | X |
404 | FY 1997 and 1998 Subsidies for Operation of Low-Income Housing Projects | 12/8/1997 | X |
405 | Responsibility for Completion of the Form HUD-50058, Family Report | 12/4/1997 | X |
406 | Restrictions on Leasing Additional Units—Budget Guidance | 11/26/1997 | X |
407 | Fiscal Year 1998 Renewal of Expiring Section 8 Moderate Rehabilitation (Mod Rehab) Housing Assistance Payments (HAP) Contracts | 11/21/1997 | X |
408 | Section 8 Certificate and Moderate Rehabilitation Programs—Rent Adjustments | 11/19/1997 | X |
409 | Sample Public Housing Lease | 11/5/1997 | X |
410 | FY 1998 Performance Funding System (PFS) Inflation Factor and Equation | 10/30/1997 | X |
411 | Reinstatement and Extension of Notice PIH 96-39 (HUD)—LOCCS/VRS Procedures for the Urban Revitalization Demonstration—HOPE VI Program | 10/2/1997 | X |
412 | Agreement with the Army Corps of Engineers to Conduct Public Housing Development/Major Reconstruction of Obsolete PH (MROP) Inspections/Reviews on Behalf of the Department of Housing and Urban Development, dated September 22, 1994, Notice PIH 94-67(HA)—Extension | 9/30/1997 | X |
413 | Extension of Notice PIH 96-20 (HA), Reduction of Section 8 Administrative Fee for HA Failure to Electronically Submit Form HUD-50058 | 9/29/1997 | X |
414 | Extension—Notice PIH 96-56 (HA), Policies and Procedures for Using Modernization Funds for Development Activities and Development Funds for Modernization Activities, and Modernization and Development Funds for Operations | 9/23/1997 | X |
415 | Expiration of Section 8 Annual Contributions Contracts between the Department of Housing and Urban Development (HUD) and Indian Housing Authorities | 9/19/1997 | X |
416 | Extension—Notice PIH 96-66 (HUD), Procedures and Semi-Annual Reporting Instructions for Field Offices with Monitoring Oversight for Public Housing Agencies (PHAs) Selected for Funding under the FY 94 Family Investment Centers (FICs) Program | 9/17/1997 | X |
417 | Reinstatement and Extension of Notice PIH 95-37 (HA), Inter-agency Agreement with the Army Corps of Engineers to Conduct Modernization Inspections on behalf of the Department of Housing and Urban Development, dated February 4, 1994, and Notice PIH 94-14 (HA) (same subject) dated April 11, 1994 | 9/11/1997 | X |
418 | Annual Lead-Based Paint (LBP) Activity Report, Form HUD-52850 | 9/8/1997 | X |
419 | Replacing Expiring Section 8 Moderate Rehabilitation (Mod Rehab) Housing Assistance Payments (HAP) Contracts in Fiscal Year (FY) 1998 | 9/4/1997 | X |
420 | Processing of Grant Applications For Fiscal Year (FY) 1997 Public Housing Drug Elimination Program (PHDEP) | 8/4/1997 | X |
421 | Reporting Requirements Cancelled for Form HUD-52355, Housing Authority Costs for Law Enforcement and Security Personnel and Form HUD-52356, Semi-Annual Form for Public Housing Drug Elimination Program (PHDEP) Outcome Monitoring | 7/24/1997 | X |
422 | Responsibility for Completion of Form HUD-51234, Report on Occupancy for Public and Indian Housing | 7/23/1997 | X |
423 | Extension—Notice PIH 96-33 (HA), Required HA Cash Management and Investment Policies and Procedures | 7/21/1997 | X |
424 | General Conditions for Construction Contract, Form HUD-5370 (3/97) | 7/18/1997 | X |
425 | Extension—Notice PIH 96-89 (HUD), Line of Credit Control System (LOCCS) Public and Indian Housing Program User Guide for HUD Staff | 7/16/1997 | X |
426 | Form HUD-50058—Special Instructions for Residents of Eligible Preservation Projects Who Receive Preservation Rental Vouchers or Certificates | 7/15/1997 | X |
427 | Extension of Notice PIH 96-50 (HA), Guidelines for Sponsoring or Co-Sponsoring Training Conferences and Workshops | 7/14/1997 | X |
428 | Extension—Notice PIH 96-37 (HA), Maintenance Operations Manual and Supervisory Maintenance Training Materials for Public and Indian Housing | 7/7/1997 | X |
429 | Amendment to Notice 97-18, Modification of Mutual Help Contribution Drawdown Procedures in LOCCS, issued April 21, 1997 | 7/7/1997 | X |
430 | Extension of Notice PIH 96-34 (HA), Guidelines for Managing Public Housing Youth Apprenticeship (YAP) Grants through the Line of Credit Control System and Voice Response System (LOCCS/VRS) Payment Voucher System | 6/27/1997 | X |
431 | Department of Labor Davis-Bacon Database | 6/27/1997 | X |
432 | Questions and Answers concerning Social Security (SS) and Supplemental Security Income (SSI) Verification | 6/24/1997 | X |
433 | Optional Earned Income Exclusion/Deduction Incentive and Corrected Sample Format for Performance Funding System • Appendices. | 6/25/1997 | X |
434 | Public and Indian Housing (PIH) Compliance Supplement—Interim Guidance for Annual Audits of Public Housing Agencies and Indian Housing Authorities by Independent Auditors; and Attachment I, Example A | 6/19/1997 | X |
435 | Tenant-Based Rental Vouchers or Certificates for Eligible Residents of Preservation Eligible Projects Approved for Prepayment of the Mortgage or Voluntary Termination of the Mortgage Insurance in Federal FY 1997 | 6/11/1997 | X |
436 | Processing Housing Agency Applications for Section 8 Rental Vouchers and Certificates For Disabled Families Under the Mainstream Program, NOFA FR-4224, Dated April 10, 1997 | 5/28/1997 | X |
437 | Extension of Notice PIH 96-27 (HA), Occupancy Provisions of the Housing Opportunity Program Extension Act of 1996 | 5/20/1997 | X |
438 | Extension of Notice PIH 96-18 (HA), Travel Policy for Resident Management/Tenant Opportunities Program Grantees (RM/TOP) | 5/20/1997 | X |
439 | Extension of Notice PIH 96-26(HUD), Policies and Procedures on Maximum Allowable Total Development Cost (TDC) for the HUD-assisted Indian Housing Program | 5/15/1997 | X |
440 | Processing Housing Agency Applications for the Family Unification Program—April 18, 1997 NOFA | 5/8/1997 | X |
441 | Processing Housing Agency Applications for Section 8 Rental Vouchers and Certificates For Non-Elderly Disabled Families In Connection With Certain Section 8 Project-Based Developments, NOFA FR-4207, Dated April 10, 1997, and Correction Dated April 17, 1997 | 5/7/1997 | X |
442 | Section 8 Family Self-Sufficiency Program Coordinators FY 1997 NOFA Processing Instructions | 5/7/1997 | X |
443 | Comprehensive Improvement Assistance Program (CIAP): Federal Fiscal Year (FFY) 1997 Application Submission, Processing and Fund Reservation | 5/6/1997 | X |
444 | Extension of Notice PIH 96-20 (HA), Reduction of Section 8 Administrative Fee for HA Failure to Electronically Submit Form HUD-50058 | 4/29/1997 | X |
445 | Clarification of PIH Notice 96-95 Governing FY 97 Renewal of Expiring Section 8 Moderate Rehabilitation Housing Assistance Payments (HAP) Contracts | 4/22/1997 | X |
446 | Modification of Mutual Help Contribution Drawdown Procedures in LOCCS | 4/21/1997 | X |
447 | Application of the Simplified Delta Calculation to non-Performance Funding System (PFS) Rental Housing Authorities (HAs) | 4/21/1997 | X |
448 | Energy Standards and State Energy Codes | 4/17/1997 | X |
449 | Financial Management Program Requirements for the Moderate Rehabilitation Program | 4/10/1997 | X |
450 | Correction to Notice PIH 97-11, Procedures for Calculating Earned Administrative Fees in the Section 8 Rental Certificate, Rental Voucher, and Moderate Rehabilitation Programs | 3/27/1997 | X |
451 | Lease-Purchase Agreements in the Section 8 Tenant-Based Rental Voucher and Certificate Programs | 3/18/1997 | X |
452 | Requirements for Designation of Public Housing Projects | 3/12/1997 | X |
453 | Procedures for Calculating Earned Administrative Fees in the Section 8 Rental Certificate, Rental Voucher, and Moderate Rehabilitation Programs | 3/11/1997 | X |
454 | Public Housing Development Cost Limits | 3/4/1997 | X |
455 | Grant Closeout Procedures Notice PIH 97-5—Addendum | 2/9/1997 | X |
456 | Environmental Review: Public Housing and 24 CFR part 58—(Appendices) | 1/31/1997 | X |
457 | Lead-Based Paint Liability Insurance in the Public Housing and Indian Housing Programs | 1/28/1997 | X |
458 | Extension of Notice PIH 95-68 (IHA), Calculating Ceiling Rents in the Indian Housing Rental Program; Use of Actual Debt Service | 1/22/1997 | X |
459 | Grant Closeout Procedures | 1/21/1997 | X |
460 | Public Housing Management Assessment Program (PHMAP) | 1/21/1997 | X |
461 | Revised Annual Contributions Contract (ACC) Amendment Forms for Public Housing Development | 1/17/1997 | X |
462 | Extension of Notice PIH 95-65 (IHA), Streamlined Operating Budget Procedures for the Indian Housing Program | 1/15/1997 | X |
463 | Processing Section 8 Renewal Funding Increments in Fiscal Year 1997 | 1/15/1997 | X |
464 | Fiscal Year 1997 Renewal of Expiring Section 8 Moderate Rehabilitation (Mod Rehab) Housing Assistance Payments (HAP) Contracts | 12/26/1996 | X |
465 | Supplementing Public Housing Agency/Department of Housing and Urban Development (PHA/HUD) Review and Managerial Resources—Use of Outside Firms | 12/20/1996 | X |
466 | Combined Income and Rent Final Rule | 12/18/1996 | X |
467 | Lead-Based Paint (LBP) Disclosure Rule Requirements for Public and Indian Housing and Section 8 Rental Certificate, Rental Voucher and Moderate Rehabilitation Programs | 12/11/1996 | X |
468 | Closeout of Indian Housing Development Projects | 12/10/1996 | X |
469 | Line of Credit Control System/Voice Response System (LOCCS/VRS) for Modernization Program Areas | 12/5/1996 | X |
470 | Line of Credit Control System (LOCCS) Public and Indian Housing Program User Guide for HUD Staff | 11/25/1996 | X |
471 | HUDCAPS Program Information Requirements | 11/22/1996 | X |
472 | FY 1997 Performance Funding System (PFS) Inflation Factor and Equation and PFS Incentives Rule | 11/20/1996 | X |
473 | FY 1997 Subsidies for Operation of Low-Income Housing Projects | 11/15/1996 | X |
474 | Rental Vouchers for the Relocation of Witnesses Cooperating With Law Enforcement Agencies in Efforts to Combat Crime in Public, Indian, and Assisted Housing | 10/11/1996 | X |
475 | New software for review of Comprehensive Grant Program Formula Characteristics Report | 10/11/1996 | X |
476 | Public Housing, Indian Housing and Section 8 Fiscal Year 1997 Appropriations Act Provisions, and Extensions of Certain Fiscal Year 1996 Appropriation Act Notices | 9/30/1996 | X |
477 | Applicability of Section 214 to Citizens of the Freely Associated States | 9/30/1996 | X |
478 | Departments of Health and Human Services, Interior and HUD Interdepartmental Agreement on the Indian Housing Program | 9/30/1996 | X |
479 | Extension of Notice PIH 95-55(HA), Public Housing Architectural and Engineering (A/E)-Design Professional (DP) Contracts | 9/24/1996 | X |
480 | Extension of Notice PIH 95-61(HA), Line of Credit Control System/Voice Responses System (LOCCS/VRS) for Modernization Program Area | 9/20/1996 | X |
481 | Extension of Notice PIH 95-54 (HUD), Revised Annual Contributions Contract (ACC) Amendment Forms for Modernization | 9/20/1996 | X |
482 | Procedures for Obtaining Audit Services for Public Housing Agencies and Indian Housing Authorities (HAs) Not In Compliance With Audit Requirements | 9/19/1996 | X |
483 | Extension of Notice PIH 95-53 (HA), Financial Management System for the Section 8 Certificate and Voucher Programs | 9/16/1996 | X |
484 | Extension of Notice PIH 95-62 (HA), Elimination of the Maximum Allowable Operating Reserve for the Section 23 and Section 10(c) Program | 9/16/1996 | X |
485 | Optional Earned Income Exclusions in the Public Housing and Indian Housing programs | 9/9/1996 | X |
486 | Extension of Notice PIH 95-52 (IHA), Calculating Annual Income: Calculation of Treatment of Income Derived from Trust or Restricted Lands of Individual Native Americans and Treatment of Certain Payments Made Pursuant to the Alaska Native Claims Settlement Act | 8/30/1996 | X |
487 | Program Coordinators for the Section 8 Family Self-Sufficiency (FSS) Program—Application Processing Instructions for July 26, 1996 NOFA | 8/26/1996 | X |
488 | Restrictions on Leasing Additional Units; Budget Guidance | 8/23/1996 | X |
489 | Contracting and Monitoring in the Public Housing Tenant Opportunities Programs (TOP) | 8/19/1996 | X |
490 | Procedures and Semi-Annual Reporting Instructions for Field Offices with Monitoring Oversight for Public Housing Agencies (PHAs) Selected for Funding Under the Fiscal Year 1994 Family Investment Centers (FIC) Program | 8/16/1996 | X |
491 | Rental Certificates and Vouchers—Departmental Policy on Sanctions for Delinquent Payments under the Portability Billing Procedures | 8/15/1996 | X |
492 | Final Rule—Part 953—Community Development Block Grants for Indian Tribes and Alaska Native Villages | 8/14/1996 | X |
493 | Determining Section 8 Rents For Units in HOME-assisted Projects | 8/9/1996 | X |
494 | Extension of Notice PIH 95-49 (HA), Public and Indian Housing Guide Specifications | 8/6/1996 | X |
495 | Tenant-Based Rental Vouchers or Certificates for Unassisted Low Income Residents of Preservation Eligible Projects Approved for Prepayment of the Mortgage or Voluntary Termination of the Mortgage Insurance | 8/6/1996 | X |
496 | New Requirements for Designation of Public Housing Projects | 8/5/1996 | X |
497 | Extension of Notice PIH 95-50 (HA), Youth Apprenticeship Program (YAP), Form HUD-52360, Data Collection Requirements | 8/1/1996 | X |
498 | Extension of Notice PIH 95-48 (HA), Americans with Disabilities Act | 7/31/1996 | X |
499 | Guidelines and Procedures for Approving Housing Agency (HA) Request for Higher Administrative Fees | 7/31/1996 | X |
500 | Policies and Procedures for Using Modernization Funds for Development Activities and Development Funds for Modernization Activities, and Modernization and Development Funds for Operations | 7/29/1996 | X |
501 | Reinstatement of Notice PIH 94-79 (HA), HUD Policy under which Public and Indian Housing Authorities may Contract with Health Care, Education and Social Service Organizations | 7/26/1996 | X |
502 | Accounting and Financial Management Procedures for the Portability provisions of the Section 8 Certificate and Voucher programs | 7/26/1996 | X |
503 | Public and Indian Housing (PIH) Compliance Supplement for Annual Audits of Public Housing Agencies and Indian Housing Authorities by Independent Auditors, Attachment I, Example A: “Independent Auditor's Report on Compliance with Specific Requirements Applicable to Major HUD Programs” | 7/26/1996 | X |
504 | Public Housing Management Assessment Program (PHMAP)—Indicator #8, Security: “One Strike and You're Out” | 7/25/1996 | X |
505 | Amendment And Reopening Of Application Period And Processing Of Grant Applications For Fiscal Year (FY) 1996 Public Housing Drug Elimination Program (PHDEP) | 7/22/1996 | X |
506 | Guidelines For Sponsoring Or Co-Sponsoring Training Conferences And Workshops | 7/12/1996 | X |
507 | Correction to Form HUD-52728, HA Calculation of Occupancy Percentage for a Requested Budget Year | 7/10/1996 | X |
508 | Tenant Opportunities Program (TOP) Semi-Annual Report Form (HUD-52370) | 7/2/1996 | X |
509 | Extension of Notice PIH 95-39 (HUD), Elimination of Selections from the Waiting List by Unit Size in the Section 8 Rental Certificate and Voucher Programs and Elimination of the Specification of the Number of Units and Unit Sizes in the Certificate Annual Contributions Contract | 6/27/1996 | X |
510 | Extension of Notice PIH 95-41 (HUD), Treatment of Indian Trust Funds in Calculating Annual Income | 6/27/1996 | X |
511 | Changes to Notice PIH 95-42 (HA), dated June 21, 1995; Public and Indian Housing Homeownership Programs—Loan Forgiveness, Establishment of Replacement Reserves and Use of Excess Residual Receipts, Operating Reserves and Proceeds from the Sale of Homeownership Units | 6/27/1996 | X |
512 | Extension of Notice PIH 95-35 (HA), Elimination of Employee Benefit Plan Requirements, Handbook 740l.7, Part II, Dated September 1988 | 6/25/1996 | X |
513 | Obligation of Section 8 Funds and Related Matters | 6/21/1996 | X |
514 | Waiver of the Minimum Rent Requirement | 6/20/1996 | X |
515 | Form HUD-50058—Instructions for Reporting Certain Information—January 26, 1996, Continuing Resolution Statutory Changes | 6/19/1996 | X |
516 | Annual Adjustments for the Section 8 Certificate and Moderate Rehabilitation Programs | 6/19/1996 | X |
517 | Reinstatement and Extension of Notice PIH 94-35 (HUD), LOCCS-VRS Procedures for the Urban Revitalization Demonstration—HOPE VI Program | 6/13/1996 | X |
518 | Processing Housing Agency Applications for the Family Unification Program—May 2, 1996 NOFA | 6/6/1996 | X |
519 | Maintenance Operations Manual and Supervisory Maintenance Training Materials for Public and Indian Housing | 6/6/1996 | X |
520 | Department of Justice Programs that promote crime prevention strategies and enhance the capacity of law enforcement agencies and communities to reduce crime | 6/5/1996 | X |
521 | Final Rule—Low Income Public and Indian Housing; Vacancy Rule | 6/4/1996 | X |
522 | Extension of Notice PIH 95-29 (HA), Guidelines for Managing Public Housing Youth Apprenticeship (YAP) Grants through the Line of Credit Control System and Voice Response System (LOCCS/VRS) Payment Voucher System | C | X |
523 | Public and Indian Housing (PIH) Compliance Supplement for Annual Audits of Public Housing Agencies and Indian Housing Authorities by Independent Auditors | 5/29/1996 | X |
524 | Processing Of Grant Applications For Fiscal Year (FY) 1996 Public Housing Drug Elimination Program | 5/22/1996 | X |
525 | FY 1996 Subsidies for Operation of Low-Income Housing Projects | 5/20/1996 | X |
526 | Implementing Performance Standards required by the Tenant Opportunities Program (TOP) | 5/16/1996 | X |
527 | Reissuance and Extension of Notice PIH 94-83 (HA), New Semi-Annual Form for Public Housing Drug Elimination Program (PHDEP) Outcome Monitoring, HUD-52356 | 5/16/1996 | X |
528 | Occupancy Provisions of the Housing Opportunity Program Extension Act of 1996 | 5/13/1996 | X |
529 | Policies and Procedures on Maximum Allowable Total Development Cost (TDC) for the HUD-assisted Indian Housing Program | 5/15/1996 | X |
530 | Indian Housing Homeownership Programs—Loan Forgiveness Procedures, Establishment of Replacement Reserves and Use of Excess Residual Receipts, Operating Reserves and Proceeds from the Sale of Homeownership Units for Grant or Loan Funded Projects | 5/7/1996 | X |
531 | Performance Funding System Policy Revision to Encourage Public and Indian Housing Authorities to Facilitate Resident Employment and Undertake Entrepreneurial Initiatives | 4/3/1996 | X |
532 | Omnibus Consolidated Rescissions and Appropriations Act of 1996 Statutory Changes Affecting the Administration of the Section 8 Certificate, Voucher, and Moderate Rehabilitation Programs | 5/1/1996 | X |
533 | Procedures for Calculating Earned Administrative Fees in the Section 8 Rental Certificate and Rental Voucher Programs | 4/22/1996 | X |
534 | Update—Accounting Procedures for Special Administrative Fees for the Section 8 Rental Certificate and Rental Voucher Programs | 4/19/1996 | X |
535 | Reduction of Section 8 Administrative Fee for HA Failure to Electronically Submit Form HUD-50058 and Form HUD-50058-FSS for Section 8 Participants | 4/20/1996 | X |
536 | Additional Budget Line Item for the Tenant Opportunities Program (TOP) in the Line of Credit Control System (LOCCS)/Voice Response System (VRS) | 4/18/1996 | X |
537 | Travel Policy For Resident Management/Tenant Opportunities Program Grantees (RM/TOP) | 4/18/1996 | X |
538 | Comprehensive Improvement Assistance Program (CIAP); Federal Fiscal Year (FFY) 1996 Application Submission, Processing and Fund Reservation | 4/18/1996 | X |
539 | “One Strike and You're Out” Screening and Eviction Guidelines for Public Housing Authorities (HAs) | 4/12/1996 | X |
540 | Public Housing Development Cost Limits | 4/3/1996 | X |
541 | Immigration and Naturalization Service Forms | 3/26/1996 | X |
542 | Managing the Minimum Requirements | 3/21/1996 | X |
543 | Extension of Notice PIH 95-9 (HA), Processing of Applications for Designated Housing for Disabled Families Public Housing Development and Major Reconstruction of Obsolete Public Housing (MROP) Activities | 3/20/1996 | X |
544 | Extension of Notice PIH 95-10 (HUD), HOPE VI—Urban Revitalization Demonstration (HOPE VI) Program Notice | 3/15/1996 | X |
545 | Extension of Notice PIH 94-64 (HA), Revised Submission Requirements for Requisition for Partial Payment of Annual Contributions, Form HUD-52663 | 3/6/1996 | X |
546 | Extension of Notice PIH 95-34 (HA), Annual Adjustment Factor (AAF) Rent Increase Requirements Pursuant to the Fiscal Year 1995 Appropriations Act | 3/6/1996 | X |
547 | January 26, 1996 Continuing Resolution Statutory Changes Affecting the Administration of the Section 8 Certificate, Voucher, and Moderate Rehabilitation Programs | 2/13/1996 | X |
548 | Administrative Provisions of the January 26, 1996 Continuing Resolution Affecting Public and Indian Housing Programs | 2/13/1996 | X |
549 | Clarification of policies, procedures and standards in the Public and Indian Housing Amendment to the Tenant Participation and Tenant Opportunities in Public and Indian Housing Final Rule 24 CFR part 950, et al | 2/13/1996 | X |
550 | Processing Section 8 Renewal Funding Increments in Fiscal Year 1996 and Related Financial Management Issues | 2/8/1996 | X |
551 | Discontinuance of “Paper” Reporting | 2/1/1996 | X |
552 | Reinstatement and Extension of Notice H 94-88, Submission of Environmental Site Assessment Transaction Screen Process and Phase I Environmental Site Assessment Process | 1/29/1996 | X |
553 | Reissuance of Notice PIH 94-25 (IHA), Native American Preference in Admissions to Assisted Housing Programs | 1/22/1996 | X |
554 | Public Housing Energy Saving Opportunities | 12/13/1995 | X |
555 | Procedures for Replacing Expiring Section 8 Moderate Rehabilitation Housing Assistance Payments (HAP) Contracts | 12/4/1995 | X |
556 | Extension of Notice PIH 94-67 (HA), Inter-agency Agreement with the Army Corps of Engineers to Conduct Public Housing Development/Major Reconstruction of Obsolete Public Housing (MROP) Inspections/Reviews on Behalf of the Department of Housing and Urban Development, dated September 22, 1994 | 11/13/1995 | X |
557 | Calculating Ceiling Rents in the Indian Housing Rental Program; Use of Actual Debt Service | 11/13/1995 | X |
558 | Extension of Notice PIH 94-66 (PHA), Low Rent Public Housing Program—Streamlined Operating Budget and Financial Reporting Procedures | 11/2/1995 | X |
559 | Extension of Notice PIH 94-72 (IHA), Streamlined Operating Budget Procedures for the Indian Housing Program | 10/18/1995 | X |
560 | Extension of Notice PIH 95-34 (HA), Annual Adjustment Factor (AAF) Rent Increase Requirements Pursuant to the Fiscal Year 1995 Appropriations Act | 10/16/1995 | X |
561 | Final Conforming Rule for the Section 8 Certificate and Voucher Programs | 10/11/1995 | X |
562 | Elimination of the Maximum Allowable Operating Reserve for the Section 23 and Section 10(c) Programs | 9/29/1995 | X |
563 | Extension of Notice PIH 94-63 (HA), Line of Credit Control System/Voice Response System (LOCCS/VRS) for Modernization Program Area | 9/28/1995 | X |
564 | Steps Public Housing Agencies and Indian Housing Authorities should take when identified as Potentially Responsible Parties by EPA | 9/28/1995 | X |
565 | Notice PIH 95-27 (HA), Required HA Cash Management and Investment Policies and Procedures—Change | 9/25/1995 | X |
566 | FY 1996 Performance Funding System (PFS) Inflation Factor and Equation | 9/20/1995 | X |
567 | Public Housing Architectural and Engineering (A/E)-Design Professional (DP) Contracts | 9/15/1995 | X |
568 | Revised Annual Contributions Contract (ACC) Amendment Forms for Modernization | 9/13/1995 | X |
569 | Financial Management System for the Section 8 Certificate and Voucher Programs | 9/6/1995 | X |
570 | Calculating Annual Income: Clarification of Treatment of Income Derived From Trust or Restricted Lands of Individual Native Americans and Treatment of Certain Payments Made Pursuant to the Alaska Native Claims Settlement Act | 8/29/1995 | X |
571 | Public Housing Architectural and Engineering (A/E)-Design Professional (DP) Contracts | 8/18/1995 | X |
572 | Youth Apprenticeship Program (YAP), Form HUD—52360, Data Collection Requirements | 7/21/1995 | X |
573 | Public and Indian Housing Guide Specifications | 7/20/1995 | X |
574 | Americans with Disabilities Act | 7/17/1995 | X |
575 | Extension of Notice PIH 93-40 (PHA/IHA), Air Conditioning in Public and Indian Housing | 7/6/1995 | X |
576 | Extension of Notice PIH 94-34 (HUD), Policies and Procedures on Maximum Allowable Total Development Cost (TDC) for the HUD-assisted Indian Housing Program | 6/28/1995 | X |
577 | Public Housing Development Cost Limits | 6/27/1995 | X |
578 | Extension of Notice PIH 92-48 (PHA), Exclusion of Income Received under Training Programs | 6/26/1995 | X |
579 | Changes to Notice PIH 94-44 (HA), dated July 13, 1994; Public and Indian Housing Homeownership Programs—Loan Forgiveness, Establishment of Replacement Reserves and Use of Excess Residual Receipts, Operating Reserves and Proceeds from the Sale of Homeownership Units | 6/21/1995 | X |
580 | Extension of Notice PIH 92-6 (HUD), Treatment of Indian Trust Funds in Calculating Annual Income | 6/20/1995 | X |
581 | Extension of Notice PIH 94-2(HA), Sample Maintenance Policies and Procedures for Public Housing Agencies and Indian Housing Authorities | 6/19/1995 | X |
582 | Elimination of Selections from the Waiting List by Unit Size in the Section 8 Rental Certificate and Voucher Programs and Elimination of the Specification of the Number of Units and Unit Sizes in the Certificate Annual Contributions Contract | 6/15/1995 | X |
583 | Electronic Transmission of Required Family Data | 6/12/1995 | X |
584 | Extension of Notice PIH 94-5 (HA), Inter-agency Agreement with the Army Corps of Engineers to Conduct Modernization Inspections on behalf of the Department of Housing and Urban Development, dated February 5, 1994, and Notice PIH 94-14 (HA) (same subject) dated April 11, 1994 | 6/9/1995 | X |
585 | Public and Indian Housing Directives Printed and Distributed During the Months of January, February, March, and April 1995 | 6/9/1995 | X |
586 | Elimination of Employee Benefit Plan Requirements, Handbook 7401.7, Part II, Dated September 1988 | 6/8/1995 | X |
587 | Form HUD-52540, Project Accounting Data (PAD): For Use in Public and Indian Housing Development and Modernization Programs | 6/12/1995 | X |
588 | Program Coordinators for the Section 8 Family Self-Sufficiency (FSS) Program—Application Processing Instructions for March 3, 1995 NOFA | 5/31/1995 | X |
589 | Public and Indian Housing (PIH) Compliance Supplement—Interim Guidance for Annual Audits of Public Housing Agencies and Indian Housing Authorities by Independent Auditors | 5/25/1995 | X |
590 | Operating Budget Forms | 5/19/1995 | X |
591 | Guidelines for managing Public Housing Youth Apprenticeship (YAP) Grants through the Line of Credit Control System and Voice Response System (LOCCS/VRS) Payment Voucher System | 5/16/1995 | X |
592 | Final Regulation with New Requirements for Demolition and Disposition of Property of Public Housing Agencies | 5/12/1995 | X |
593 | Required HA Cash Management and Investment Policies and Procedures | 5/11/1995 | X |
594 | Incentives for Public Housing Agencies and Indian Housing Authorities to Reduce The Cost of Utilities | 4/28/1995 | X |
595 | Supervisory Maintenance Training Materials for Public and Indian Housing | 4/20/1995 | X |
596 | 24 CFR parts 905 and 950: Indian Housing Program; Amendments; Final Rule | 4/19/1995 | X |
597 | Addition of Nine Exclusions to the Definition of Annual Income | 4/14/1995 | X |
598 | Processing of Applications for the FY 1995 Family Investment Centers (FIC Program) | 4/14/1995 | X |
599 | Full Service Contracting in the Public and Indian Housing Tenant Opportunities Program | 4/7/1995 | X |
600 | HOPE VI—Urban Revitalization Demonstration (HOPE VI) Program Notice | 2/22/1995 | X |
601 | Processing of Applications for Designated Housing for Disabled Families—Public Housing Development and Major Reconstruction of Obsolete Public Housing (MROP) Activities | 2/16/1995 | X |
602 | Federal Register Notices Announcing Redelegation of Authority for Public and Indian Housing (PIH) Programs | 12/14/1994 | X |
603 | Streamlined Operating Budget Procedures for the Indian Housing Program | 10/4/1994 | X |
604 | Inter-agency Agreement with the Army Corps of Engineers to conduct Public Housing Development/Major Reconstruction of Obsolete Public Housing (MROP) inspections/reviews on behalf of the Department of Housing and Urban Development (HUD) | 9/22/1994 | X |
605 | Low Rent Public Housing Program—Streamlined Operating Budget and Financial Reporting Procedures | 9/21/1994 | X |
606 | Revised Submission Requirements for Requisition for Partial Payment of Annual Contributions, Form HUD-52663 | 9/16/1994 | X |
607 | Line of Credit Control System/Voice Response System (LOCCS/VRS) for Modernization Program Areas | 9/14/1994 | X |
608 | Changes to Notice PIH 93-31 (PHA), dated June 29, 1993: Public and Indian Housing Homeownership Programs—Loan Forgiveness, Establishment of Replacement Reserves and Use of Excess Residual Receipts, Operating Reserves and Proceeds from the Sale of Homeownership Units | 7/13/1994 | X |
609 | Policies and Procedures on Maximum Allowable Total Development Cost (TDC) for the HUD-assisted Indian Housing Program | 6/10/1994 | X |
610 | Native American Preference in Admissions to Assisted Housing Programs | 5/24/1994 | X |
611 | Inter-agency Agreement with the Army Corps of Engineers to Conduct Modernization Inspections on behalf of the Department of Housing and Urban Development (HUD)—Correction | 4/11/1994 | X |
612 | Inter-agency Agreement with the Army Corps of Engineers to Conduct Modernization Inspections on behalf of the Department of Housing and Urban Development (HUD) | 2/5/1994 | X |
613 | Sample Maintenance Policies and Procedures for Public Housing Agencies and Indian Housing Authorities | 1/10/1994 | X |
614 | Implementation of the Federal Fiscal Year (FFY) 2018 Funding Provisions for the Housing Choice Voucher Program | 5/21/2018 | X |
615 | Funding Availability for Set-Aside Tenant-Protection Vouchers—Fiscal Year 2017 Funding | 2/8/2018 | X |
616 | Guidance Related to (1) Eligibility for Potential Shortfall Funding Under the Calendar Year (CY) 2017 Housing Assistance Payments (HAP) Renewal Set—Aside for the Housing Choice Voucher (HCV) Program and (2) CY 2017 Administrative Fees | 4/26/2017 | X |
617 | Implementation of the Federal Fiscal Year (FFY) 2017 Funding Provisions for the Housing Choice Voucher Program | 6/28/2017 | X |
618 | Requirements for PHAs removing all public housing units and guidance on either the termination of the ACC or the continuation of the public housing program | 12/7/2016 | X |
619 | Amendment—Public Housing Operating Subsidy Eligibility Calculations for Calendar Year 2015 | 10/4/2016 | X |
620 | Funding Availability for Tenant-Protection Vouchers for Certain at Risk Households in Low-Vacancy Areas—FY16 | 8/18/2016 | X |
621 | Public Housing Operating Subsidy Eligibility Calculations for Calendar Year 2016 | 6/9/2016 | X |
622 | Implementation of the Federal Fiscal Year (FFY) 2016 Funding Provisions for the Housing Choice Voucher Program | 3/10/2016 | X |
623 | Emergency Safety and Security Grants Annual Funding Notification and Application Process | 3/9/2016 | X |
624 | Process for Public Housing Agency Voluntary Transfers and Consolidations of Housing Choice Vouchers, Five-Year Mainstream Vouchers, Project-Based Vouchers and Project-Based Certificates • Attachment 1—Checklist HCV Transfer or Consolidations. • Attachment 2—Additional Questions—Details for HCV Transfers. | 12/16/2015 | X |
625 | Public Housing Operating Subsidy Eligibility Calculations for Calendar Year 2016 | 11/13/2015 | X |
626 | Guidance on Reporting Public Housing Agency Executive Compensation Information • Attachment. | 9/11/2015 | X |
627 | Changes to Flat Rent Requirements—FY 2015 Appropriations Act | 9/8/2015 | X |
628 | Administering the Community Service and Self-Sufficiency Requirement (CSSR) | 8/13/2015 | X |
629 | Project-Basing HUD-Veterans Affairs Supportive Housing (VASH) Vouchers | 6/12/2015 | X |
630 | Funding Availability for Tenant-Protection Vouchers for Certain At-Risk Households in Low-Vacancy Areas—Fiscal Year 2015 | 4/23/2015 | X |
631 | Project-Based Voucher (PBV) Guidance | 4/1/2015 | X |
632 | Expiration of Temporary Compliance Assistance for Public Housing and Housing Choice Voucher Programs—Temporary Compliance Assistance | 3/12/2015 | X |
633 | Implementation of the Federal Fiscal Year (FFY) 2015 Funding Provisions for the Housing Choice Voucher Program | 2/27/2015 | X |
634 | Extension: Administrative Guidance for Effective and Mandated Use of the Enterprise Income Verification (EIV) System | 1/9/2015 | X |
635 | Public Housing Operating Subsidy Eligibility Calculations for Calendar Year 2015 | 8/19/2014 | X |
636 | Relocation Requirements under the Rental Assistance Demonstration (RAD) Program, Public Housing in the First Component. | 7/14/2014 | X |
637 | Voluntary conversion assessment for Public Housing Agencies (PHAs) with fewer than 250 public housing units | 6/18/2014 | X |
638 | Funding for Tenant-Protection Vouchers for Certain At-Risk Households in Low-Vacancy Areas—2014 Appropriations Act | 5/20/2014 | X |
639 | Changes to Flat Rent Requirements—2014 Appropriations Act | 5/19/2014 | X |
640 | Revision to PIH 2013-16—Public Housing Operating SubsidyEligibility Calculations for Calendar Year 2014 | 6/25/2013 | X |
641 | Implementation of the Federal Fiscal Year 2014 Funding Provisions for the Housing Choice Voucher Program | 3/18/2014 | X |
642 | Funding for Tenant-Protection Vouchers for Certain At-Risk Households in Low-Vacancy Areas—Revision | 2/4/2014 | X |
643 | Set-Aside Funding Availability for Project-Basing HUD-VASH Vouchers | 2/4/2014 | X |
644 | Guidance on Reporting Public Housing Agency Executive Compensation Information • Attachment—HUD-52725 Form. | 1/9/2014 | X |
645 | Extension: Administrative Guidance for Effective and Mandated Use of the Enterprise Income Verification (EIV) System | 11/5/2013 | X |
646 | Notice of Annual Factors for Determining Public Housing Agency Administrative Fees for the Section 8 Housing Choice Voucher and Moderate Rehabilitation Programs | 9/27/2013 | X |
647 | Revised Eligibility Requirements for Housing Choice Voucher (HCV) Contract Renewal Set-Aside Funding for Category 1, Shortfall Funds—Notice PIH 2013-12—Implementation of the Federal Fiscal Year 2013 Funding Provisions for the Housing Choice Voucher Program | 9/19/2013 | X |
648 | Extension: Administrative Guidance for Effective and Mandated Use of the Enterprise Income Verification (EIV) System | 8/30/2013 | X |
649 | Processing requests for regulatory waivers through appropriate field offices | 8/8/2013 | X |
650 | Public Housing Operating Subsidy Eligibility Calculations for Calendar Year 2014 | 6/25/2013 | X |
651 | Disaster Housing Assistance Program—Sandy (DHAP—Sandy) Operating Requirements | 6/10/2013 | X |
652 | Extension: Public Housing and Housing Choice Voucher Programs—Temporary Compliance Assistance | 6/1/2013 | X |
653 | Implementation of the Federal Fiscal Year 2013 Funding Provisions for the Housing Choice Voucher Program | 5/23/2013 | X |
654 | Funding for Tenant-Protection Vouchers for Certain At-Risk Households in Low-Vacancy Areas—Final Implementation | 4/12/2013 | X |
655 | Public Housing and Housing Choice Voucher Programs—Temporary Compliance Assistance • FAQ—3/1/2013. | 1/22/2013 | X |
656 | Section 184 Indian Housing Loan Guarantee Program's Maximum Loan Limits Effective January 1, 2013 | 1/9/2013 | X |
657 | Providing Interim Funding in Fiscal Year 2013 to Recipients of Indian Housing Block Grants | 12/22/2012 | X |
658 | Draft Notice Extending Use of Op Reserves for Cap Improvements | 10/25/2012 | X |
659 | Housing Choice Voucher Family Moves with Continued Assistance | 10/25/2012 | X |
660 | Funding for Tenant-Protection Vouchers for Certain At-Risk Households in Low-Vacancy Areas—Request for Comments | 9/10/2012 | X |
661 | Emergency Safety and Security Funding as it Relates to the Full-Year Continuing Appropriations Act, 2012 [Pub. L. 112-36] | 9/7/2012 | X |
662 | SUPPLEMENTAL NOTICE to PIH Notice 2012-16 Request for Applications under the Moving to Work Demonstration Program for Fiscal Year 2011 | 8/27/2012 | X |
663 | Federal Fiscal Year 2012 Funding Provisions for the Housing Choice Voucher Program—Award of Remaining Set-Aside Funds | 8/21/2012 | X |
664 | Public Housing Operating Subsidy Eligibility Calculations for Calendar Year 2013 | 6/22/2012 | X |
665 | Calendar Year 2012 $20 Million Set-Aside for Financial Hardship due to Public Housing Operating Subsidy Allocation Adjustment • Attachment A. • Attachment B1. • Attachment B2. | 6/8/2012 | X |
666 | Extension: Administrative Guidance for Effective and Mandated Use of the Enterprise Income Verification (EIV) System | 6/1/2012 | X |
667 | Non-smoking Policies in Public Housing | 5/29/2012 | X |
668 | Revocation of Notice PIH 2012-19 (Implementation of Funding for Tenant-Protection Vouchers for Certain At-Risk Households in Low-Vacancy Areas) | 5/2/2012 | X |
669 | Implementation of Funding for Tenant-Protection Vouchers for Certain At-Risk Households in Low-Vacancy Areas | 3/16/2012 | X |
670 | Rental Assistance Demonstration—Partial Implementation and Request for Comments | 3/8/2012 | X |
671 | Request for Applications under the Moving to Work Demonstration Program for Fiscal Year 2011 | 2/27/2012 | X |
672 | Guidance on Public Housing salary restrictions in HUD's Federal Fiscal Year (FFY) 2012 Appropriations Act (Pub. L. 112-55) | 2/24/2012 | X |
673 | Extension—Administering the Community Service and Self Sufficiency Requirement (CSSR) | 2/22/2012 | X |
674 | Indian Housing Plan/Annual Performance Report Form—Form HUD-52737 | 2/22/2012 | X |
675 | Implementation of the Federal Fiscal Year 2012 Funding Provisions for the Housing Choice Voucher Program | 2/8/2012 | X |
676 | Demolition/disposition of public housing and associated requirements for PHA Plans, resident consultation, Section 3 and application processing | 2/2/2012 | X |
677 | Extension of Notice 2010-49: Protecting Tenants at Foreclosure Act—Guidance on New Tenant Protections | 12/16/2011 | X |
678 | Implementation of New Cash Management Requirements for the Housing Choice Voucher Program | 12/9/2011 | X |
679 | Terminal Guidance on Disaster Housing Assistance Program—Ike (DHAP—Ike) and Extension Operating Requirements | 12/7/2011 | X |
680 | Extension—Guidance on requirement for PHAs to record current Declaration of Trusts (DOTs) against all public housing property and guidance on adding and removing public housing units and other property from the Annual Contributions Contract (ACC) | 11/1/2011 | X |
681 | Public Housing Operating Subsidy Calculations for Calendar Year 2012 | 9/26/2011 | X |
682 | • Examples of Allocation Adjustments |  | X |
683 | Guidance on the Project-Based Voucher Program | 9/20/2011 | X |
684 | Project-Basing HUD-Veterans Affairs Supportive Housing Vouchers | 9/15/2011 | X |
685 | Guidance on Reporting Public Housing Agency Executive Compensation Information and Conducting Comparability Analysis | 8/26/2011 | X |
686 | • Attachment. |  | X |
687 | Extension—Administrative Requirements for Investing Indian Housing Block Grant (IHBG) Funds | 7/21/2011 | X |
688 | Extension—Demonstration Program—Self-Determined Housing Activities for Tribal Governments | 7/21/2011 | X |
689 | Extension: Information and Procedures for Implementation of Capital Funds Recovery Competition Grants | 7/13/2011 | X |
690 | Extension: Consolidated Guidance on Disaster Housing Assistance Program—Ike (DHAP—Ike) and Extension Operating Requirements | 6/30/2011 | X |
691 | Extension—Continuation of Disaster Voucher Program (DVP) Housing Assistance Payments | 6/28/2011 | X |
692 | Policies and Procedures for Special Purpose Housing Choice Vouchers for Non-Elderly Disabled Families and Other Special Populations | 6/14/2011 | X |
693 | Implementation of the Federal Fiscal Year 2011 Funding Provisions for the Housing Choice Voucher Program | 6/2/2011 | X |
694 | Extension—Establishing a Micro Purchase Process for Purchases Less Than $5,000 for Indian Housing Block Grant (IHBG) Recipients | 5/25/2011 | X |
695 | Extension: Administrative Guidance for Effective and Mandated Use of the Enterprise Income Verification (EIV) System | 5/30/2011 | X |
696 | Asset-Repositioning Fee | 4/12/2011 | X |
697 | Extension of Notice PIH 2010-08, Renewal of Project-Based Certificate Housing Assistance Payments Contracts | 3/31/2011 | X |
698 | Public Housing Operating Subsidy Calculations for Calendar Year 2011 | 3/18/2011 | X |
699 | Guidelines for Undertaking Financing Unsecured by Public Housing Assets | 2/24/2011 | X |
700 | Reissuance of PIH Notice 2009-31—PIH Implementation Guidance for the Buy American Requirement of the American Recovery and Reinvestment Act of 2009 including Process for Applying Exceptions | 2/17/2011 | X |
701 | Extension—Administering the Community Service and Self Sufficiency Requirement (CSSR) | 2/11/2011 | X |
702 | Appeals under the Operating Fund Program for Calendar Year 2011 | 2/11/2011 | X |
703 | Extension—Guidance for Obtaining HUD Consent for Takings of Public Housing Property by Eminent Domain | 1/28/2011 | X |
704 | Amendment to PIH Notice 2010-40 on Set-Aside Funding Availability for Project-Basing HUD-Veterans Affairs Supportive Housing Vouchers | 1/27/2011 | X |
705 | Reissuance of PIH Notice 2009-12—Information and Procedures for Processing American Recovery and Reinvestment Act Capital Fund Formula Grants | 1/21/2011 | X |
706 | Housing Choice Voucher Family Moves with Continued Assistance | 1/19/2011 | X |
707 | Extension: Guidance—Verification of Social Security Numbers (SSNs), Social Security (SS) and Supplemental Security Income (SSI) Benefits | 1/12/2011 | X |
708 | Rent to Owners in subsidized projects under the Housing Choice Voucher (HCV) program | 1/12/2011 | X |
709 | Effective Use of the Enterprise Income Verification (EIV) System's Deceased Tenants Report to Reduce Subsidy Payment & Administrative Errors | 12/30/2010 | X |
710 | Protecting Tenants at Foreclosure Act—Guidance on New Tenant Protections | 12/28/2010 | X |
711 | Extension—Cost-Test and Market Analyses Guidelines for the Voluntary Conversion of Public Housing Units Pursuant to 24 CFR part 972 | 10/1/2010 | X |
712 | Performance of Physical Needs Assessments by Public Housing Authorities | 11/10/2010 | X |
713 | Financial Reporting Requirements for the Housing Choice Voucher Program Submitted through the Financial Assessment Subsystem for Public Housing and the Voucher Management System | 10/29/2010 | X |
714 | Revision and Extension of Guidance on requirement for PHAs to record current Declaration of Trusts (DOTs) against all public housing property and guidance on adding and removing public housing units and other property from the Annual Contributions Contract (ACC) | 10/20/2010 | X |
715 | Continuation of Disaster Voucher Program (DVP) Housing Assistance Payments | 10/19/2010 | X |
716 | Certification of accuracy of data in the Inventory Management/Public Housing Information Center System used to calculate the Capital Fund formula allocation | 10/13/2010 | X |
717 | Using Energy Star to Promote Energy Efficiency in Public Housing | 10/12/2010 | X |
718 | Set-Aside Funding Availability for Project-Basing HUD Veterans Affairs Supportive Housing Vouchers | 9/28/2010 | X |
719 | Process for Public Housing Agency Voluntary Transfers of Housing Choice Vouchers, Project-Based Vouchers and Project-Based Certificates | 9/28/2010 | X |
720 | Operating Fund Program: Guidance on Demonstration of Successful Conversion to Asset Management to Discontinue the Reduction of Operating Subsidy, Year 5 Applications | 9/7/2010 | X |
721 | Information and Procedures for Implementation of Capital Funds Recovery Competition Grants | 8/10/2010 | X |
722 | Transactions between Public Housing Agencies and their Related Affiliates and Instrumentalities | 8/2/2010 | X |
723 | Request for Applications under the Moving to Work Demonstration Program • MTW Optional Eligibility Worksheet. | 7/30/2010 | X |
724 | Extension of Notice PIH 2009-23 (HA)—Requirement for Designation of Public Housing Projects | 7/30/2010 | X |
725 | Non-Discrimination and Accessibility for Persons with Disabilities | 7/26/2010 | X |
726 | Timely Reporting Requirements of the Family Report (form HUD-50058 and form HUD-50058 MTW) into the Public and Indian Housing Information Center | 7/7/2010 | X |
727 | Emergency Safety and Security Funding as it Relates to the Omnibus Appropriations Act, 2009 [Pub. L. 111-8] and the Consolidated Appropriations Act, 2010 [Pub. L. 111-117] | 6/28/2010 | X |
728 | Project-Basing HUD-Veterans Affairs Supportive Housing Vouchers | 6/25/2010 | X |
729 | Consolidated Guidance on Disaster Housing Assistance Program—Ike (DHAP—Ike) and Extension Operating Requirements | 6/17/2010 | X |
730 | Processing Information for the Submission of Replacement Housing Factor (RHF) Plans • Attachment. | 5/24/2010 | X |
731 | Public Housing Development Cost Limits • TDC Housing Cap Limits for FY 2010. | 5/24/2010 | X |
732 | Administrative Guidance for Effective and Mandated Use of the Enterprise Income Verification (EIV) System • Attachment 1. • Attachment 2. | 5/17/2010 | X |
733 | Revision to HUD Notice PIH 2009-51 PHA Determinations of Rent Reasonableness in the Housing Choice Voucher (HCV) Program—Comparable Unassisted Units in the Premises | 5/10/2010 | X |
734 | Voucher Management System Enhancements and Reporting Requirements | 5/6/2010 | X |
735 | U.S. Department of Housing and Urban Development (HUD) Privacy Protection Guidance for Third Parties | 5/6/2010 | X |
736 | HUD Funding for Non-Presidentially Declared Natural Disasters | 4/28/2010 | X |
737 | Reinstatement and Extension of Notice PIH 2008-12 (HA), Enhanced Voucher Requirements for Over-housed Families | 4/19/2010 | X |
738 | Reporting Requirements for the HUD-Veterans Affairs Supportive Housing Program • Attachment. | 4/13/2010 | X |
739 | HQS Inspections for the Housing Choice Voucher Program and Guidance Related to Electrical Outlets | 3/31/2010 | X |
740 | Effective Use of the Enterprise Income Verification (EIV) System's Deceased Tenants Report to Reduce Subsidy Payment & Administrative Errors | 3/30/2010 | X |
741 | Reporting of Administrative Fee Reserves | 3/12/2010 | X |
742 | Changes to Unit Reporting in Public Housing Information Center (PIC) | 3/8/2010 | X |
743 | Implementation of the Federal Fiscal Year 2010 Funding Provisions for the Housing Choice Voucher Program | 2/16/2010 | X |
744 | Extension—Guidance for Obtaining HUD Consent for Takings of Public Housing Property by Eminent Domain | 1/22/2010 | X |
745 | Guidance—Verification of Social Security Numbers (SSNs), Social Security (SS) and Supplemental Security Income (SSI) Benefits | 1/20/2010 | X |
746 | Appeals under the Operating Fund Program for Calendar Year 2010 | 1/20/2010 | X |
747 | Extension of the Disaster Voucher Program (DVP) | 1/5/2010 | X |
748 | Protecting Tenants at Foreclosure Act—Guidance on New Tenant Protections | 12/15/2009 | X |
749 | PHA Determinations of Rent Reasonableness in the Housing Choice Voucher (HCV) Program—Comparable Unassisted Units in the Premises | 12/11/2009 | X |
750 | Administering the Community Service and Self-Sufficiency Requirement (CSSR) | 11/25/2009 | X |
751 | Public Housing Operating Subsidy Calculations for Calendar Year 2010 | 11/19/2009 | X |
752 | Submission of Calendar Year 2009 Notices of Intent and Fungibility Plans by PHAs in Hurricane Katrina and Rita Disaster Areas Authorized to Combine Section 8(o) and 9(d)(e) Funding Under Section 901 of 2006 Emergency Supplemental Appropriations, as Extended by 2008 Emergency and Supplemental Appropriations | 11/6/2009 | X |
753 | Cost-Savings Measures in the Housing Choice Voucher (HCV) Program | 10/23/2009 | X |
754 | Renewable energy and green construction practices in Public Housing | 10/16/2009 | X |
755 | Extension-Cost-Test and Market Analyses Guidelines for the Voluntary Conversion of Public Housing Units Pursuant to 24 CFR part 972 | 10/13/2009 | X |
756 | Processing requests for regulatory waivers | 10/5/2009 | X |
757 | Distribution of Fiscal Year (FY) 2009 Administrative Fee | 9/29/2009 | X |
758 | Prohibition on Public Housing Agencies Charging Application Fees | 9/25/2009 | X |
759 | Independent Auditor Report Submission for Public Housing Agencies | 9/22/2009 | X |
760 | Treatment of Income for Participants of Public Housing and Section 8 programs that qualify for payment adjustments under the American Recovery and Reinvestment Act (ARRA) | 9/24/2009 | X |
761 | Supplemental Information to Application for Assistance Regarding Identification of Family Member, Friend or Other Person or Organization Supportive of a Tenant for Occupancy in HUD Assisted Housing | 9/15/2009 | X |
762 | State Lifetime Sex Offender Registration | 9/9/2009 | X |
763 | Supplemental Asset Management Financial Reporting Information-Transition Year 1 | 9/8/2009 | X |
764 | Capital Fund Program Awards for FY 2009 | 9/3/2009 | X |
765 | Operating Fund Program: Guidance on Demonstration of Successful Conversion to Asset Management to Discontinue the Reduction of Operating Subsidy, Year 4 Applications | 8/26/2009 | X |
766 | Requirement of the American Recovery and Reinvestment Act of 2009 including Process for Applying Exceptions | 8/21/2009 | X |
767 | Request for Applications under the Moving to Work Demonstration Program | 8/19/2009 | X |
768 | Guidance on requirement for PHAs to record current Declaration of Trusts (DOTs) against all public housing property and guidance on adding and removing public housing units and other property from the Annual Contributions Contract (ACC) | 8/14/2009 | X |
769 | Implementation of the Federal Fiscal Year 2009 Funding Provisions for the Housing Choice Voucher Program—Award of Remaining Set-Aside Funds | 8/4/2009 | X |
770 | Energy Investment Guidance Under American Recovery and Reinvestment Act (Recovery Act) of 2009 (H.R. 1) | 7/30/2009 | X |
771 | Transactions between Public Housing Agencies and their Related Affiliates and Instrumentalities | 7/23/2009 | X |
772 | Over Subsidization in the Housing Choice Voucher Program | 7/21/2009 | X |
773 | Non-Smoking Policies in Public Housing | 7/17/2009 | X |
774 | Guidance on the Asset-Repositioning Fee Under 24 CFR 990.190(h) and Guidance on Re-occupying Public Housing Units Proposed or Approved for Demolition, Disposition, or Transition to Homeownership | 7/17/2009 | X |
775 | Guidance on Energy Performance Contracts, including those with terms up to 20 years | 6/12/2009 | X |
776 | Implementation of the Federal Fiscal Year 2009 Funding Provisions for the Housing Choice Voucher Program | 5/6/2009 | X |
777 | Information and Procedures for Processing American Recovery and Reinvestment Act Capital Fund Formula Grants | 3/18/2009 | X |
778 | Project-Basing HUD-Veterans Affairs Supportive Housing Vouchers | 3/16/2009 | X |
779 | Appeals under the Operating Fund Program for Calendar Year 2009 | 3/5/2009 | X |
780 | Using ENERGY STAR to Promote Energy Efficiency in Public Housing | 3/5/2009 | X |
781 | Extension of the Disaster Voucher Program (DVP) | 2/24/2009 | X |
782 | Submission of Calendar Year 2008 Notices of Intent and Fungibility Plans by PHAs in Hurricane Katrina and Rita Disaster Areas Authorized to Combine Section 8(o) and 9(d)(e) Funding Under Section 901 of 2006 Emergency Supplemental Appropriations, as Extended by 2008 Emergency and Supplemental Appropriations | 1/16/2009 | X |
783 | Operating Fund Program: Calculation of Transition Funding Amounts for Calendar Year 2009 | 1/16/2009 | X |
784 | Guidance for Obtaining HUD Consent for Takings of Public Housing Property by Eminent Domain | 1/2/2009 | X |
785 | • Attachment—Extension Notice. |  | X |
786 | Public Housing Development Cost Limits | 12/22/2008 | X |
787 | • Public Housing Development Cost Limits (pdf version) | 12/22/2008 | X |
788 | Certification of accuracy of data in the Inventory/Management/Public Housing Information Center System used to calculate the Capital Fund formula allocation | 12/10/2008 | X |
789 | Disaster Housing Assistance Program—Ike (DHAP—Ike) Case Management Guidelines | 12/10/2008 | X |
790 | Verification of Social Security (SS) and Supplemental Security Income (SSI) Benefits | 12/4/2008 | X |
791 | Housing Choice Voucher Portability Procedures and Corrective Actions | 12/3/2008 | X |
792 | Public Housing Agency (PHA) Five-Year and Annual Plan Process for all PHAs | 11/13/2008 | X |
793 | Income exclusion of kinship care payments when foster children are placed with relatives | 11/4/2008 | X |
794 | Processing Changes for Voucher Management System (VMS) Data—Housing Choice Voucher Program | 11/3/2008 | X |
795 | Disaster Housing Assistance Program—Ike (DHAP—Ike) Operating Requirements | 10/14/2008 | X |
796 | Reporting Requirements for the HUD-Veterans Affairs Supportive Housing Program | 10/14/2008 | X |
797 | Extension of the Disaster Voucher Program (DVP) | 10/1/2008 | X |
798 | Cost-Test and Market Analyses Guidelines for the Voluntary Conversion of Public Housing Units Pursuant to 24 CFR part 972. | 8/20/2008 | X |
799 | Public Housing Operating Subsidy Calculations for Calendar Year (CY) 2009 | 8/14/2008 | X |
800 | Reinstatement of PIH Notice 2006-19, Recipient Inspection of Housing Units Assisted Under the Native American Housing Assistance and Self-Determination Act of 1996 (NAHASDA) and Those Assisted Under the United States Housing Act of 1937. | 8/8/2008 | X |
801 | Operating Fund Program: Guidance on Demonstration of Successful Conversion to Asset Management to Discontinue the Reduction of Operating Subsidy, Year 3 Applications | 7/17/2008 | X |
802 | Income exclusion of Kinship Guardian Assistant Payments (Kin-GAP) and other guardianship care payments | 7/14/2008 | X |
803 | Extension of the Disaster Voucher Program (DVP) | 7/8/2008 | X |
804 | Extension—Housing Choice Voucher Program—Enhanced Vouchers—Adjustment of Voucher Housing Assistance Payments for Certain Families that Received “Preservation” Voucher Assistance as the Result of an Owner Prepayment or Voluntary Termination of Mortgage Insurance for a Preservation Eligible Property in Federal Fiscal Year (FY) 1997, FY 1998, and FY 1999 | 7/2/2008 | X |
805 | PIH 2007-15 (HA) Regarding the Applicability of Public Housing Development Requirements to Transactions between Public Housing Agencies and their Related Affiliates and Instrumentalities | 7/2/2008 | X |
806 | Renewable energy and green construction practices in Public Housing | 6/11/2008 | X |
807 | Extension—Guidance on Integrated Pest Management | 5/29/2008 | X |
808 | Exclusion of tax rebates from the Internal Revenue Service (IRS) under the Economic Stimulus Act of 2008 | 5/16/2008 | X |
809 | Guidance on Energy Performance Contracts, including those with terms up to 20 years | 4/25/2008 | X |
810 | Disaster Housing Assistance Program (DHAP) Revisions to the Operating Requirements and Processing Guidance for Phase 3 Families; Suspension of the Incremental Rent Transition Requirement for Phase 2 and Phase 3 Families; Supplemental Guidance on Pre-Transition and Case Management Fees and Use of Disaster Information System (DIS) Information to Determine Family Unit Size under the PHA Subsidy Standards | 4/16/2008 | X |
811 | Over Subsidization in the Housing Choice Voucher Program | 4/16/2008 | X |
812 | Extension—Process for Public Housing Agency Voluntary Transfers of Housing Choice Vouchers, Project-Based Vouchers and Project-Based Certificates | 3/31/2008 | X |
813 | Information on Upcoming Rulemaking Associated with the Public Housing Assessment System as a Result of the Conversion to Asset Management. | 3/27/2008 | X |
814 | Guidance on Disposition of Excess Equipment and Non-Dwelling Real Property under Asset Management | 3/25/2008 | X |
815 | Guidance on Asset Management Provisions in the Consolidated Appropriations Act, 2008 | 3/25/2008 | X |
816 | Implementation of Federal Fiscal Year 2008 Funding Provisions for the Housing Choice Voucher Program | 3/20/2008 | X |
817 | Renewal of Project-Based Certificate Housing Assistance Payments Contracts • Attachment—Addendum to the Section 8 Project-based Voucher Housing Assistance Payments (HAP) Contract for Existing Housing. | 3/18/2008 | X |
818 | Requests for Exception Payment Standards for Persons with Disabilities as a Reasonable Accommodation | 3/10/2008 | X |
819 | Reporting Requirements and Sanctions Policy under the Public Housing Program for the Family Report (Form HUD-50058) to the Office of Public and Indian Housing (PIH) Information Center (PIC) | 2/6/2008 | X |
820 | Extension of Notice PIH 2007-1 (HA)—Requirement for Designation of Public Housing Projects | 1/31/2008 | X |
821 | Financial Reporting Requirements for the Housing Choice Voucher Program Submitted through the Financial Assessment Subsystem for Public Housing and the Voucher Management System | 1/30/2008 | X |
822 | Certification of accuracy of data in the Public Housing Information Center System used to calculate the Capital Fund formula allocation in Fiscal Year 2008 | 1/24/2008 | X |
823 | Allocation of Funds Remaining under the Fiscal Year (FY) 2007 $100 Million Set-Aside and Availability of Special Fees for Public Housing Agencies (PHAs) Needing Additional Funds in the Operation of the Housing Choice Voucher (HCV) Program | 1/18/2008 | X |
824 | Guidance on Appeals under 24 CFR part 990, subpart G, for Calendar Year 2008 | 1/16/2008 | X |
825 | Guidance for Obtaining HUD Consent for Takings of Public Housing Property by Eminent Domain | 1/4/2008 | X |
826 | PIH 2010-8 (HA) Renewal of Project-Based Certificate Housing Assistance Payments Contracts | 3/26/2010 | X |
827 | PIH 2010-51 (HA) Over Subsidization in the Housing Choice Voucher Program | 1/1/2011 | X |

Appendix B—Public and Indian Housing—Other Guidance
| Name of document | Date | Arch | Remove
1 | $80 Million HCV Competition Letter for PHAs in Hurricanes Katrina and Rita Disaster Impacted Areas | 7/21/2009 | X |
2 | Congressional Notifications on HCV Awards to PHAs under $80 million Competition | 8/25/2009 | X |
3 | THU to HCV Conversion Process Flow Chart | 6/11/2009 | X |
4 | Map of HCV Funding Awards and THU Concentrations by Housing Authority Area | No Date | X |
5 | Checklist for THU to HCV Applicants | 8/21/2009 | X |
6 | THU to HCV Frequently Asked Questions | 12/12/2009 | X |
7 | Disaster Rent Subsidy Contract for Phase 2 and Phase 3 Families Disaster Housing Assistance Program—Disaster Rent Subsidy Contract | No Date | X |
8 | Disaster Rent Subsidy Contract for Phase 2 and Phase 3 Families Disaster Housing Assistance Program—Lease Addendum | No Date | X |
9 | Disaster Rent Subsidy Contract for Phase 2 and Phase 3 Families Disaster Housing Assistance Program—Disaster Rent Subsidy Contract | No Date | X |
10 | Disaster Rent Subsidy Contract for Phase 2 and Phase 3 Families Disaster Housing Assistance Program—Lease Addendum | No Date | X |
11 | Phase 3 Families Data Collection Needs | No Date | X |
12 | Disaster Housing Assistance Program Frequently Asked Questions, Set 2 January 3, 2008 | 1/3/2008 | X |
13 | Disaster Housing Assistance Program Frequently Asked Questions, Set 2 December 26, 2007 | 12/26/2007 | X |
14 | Disaster Housing Assistance Program Frequently Asked Questions, Set 1 AUGUST 30, 2007 | 8/30/2007 | X |
15 | Federal Register Notice Announcing Implementation of DHAP | 8/17/2007 | X |
16 | DIS Update (MS-PowerPoint, 787 KB) | 6/3/2008 | X |
17 | Chart of DHAP Phases | 8/19/2008 | X |
18 | Phase 3 Family Processing Cross Functional Chart—With FEMA TRO Approval | No Date | X |
19 | DIS System Review Slides | 4/10/2008 | X |
20 | DIS Improvements Agenda | 3/6/2008 | X |
21 | DIS Improvements Presentations | 3/6/2008 | X |
22 | DHAP Contact List | 3/6/2008 | X |
23 | Using the DIS * System: Updating Family Information for the Disaster Housing Assistance Program (DHAP) | 12/13/2007 | X |
24 | EOP Instructions | 12/13/2007 | X |
25 | Satellite Broadcast 11-08-07 documents | 11/8/2007 | X |
26 | Satellite Broadcast DIS System Agenda (MS-Word) | 10/18/2007 | X |
27 | DIS New Fields (MS-Word) | 10/18/2007 | X |
28 | Family Processing Map | 10/18/2007 | X |
29 | Family Processing Map Symbol Legend (MS-Word) | 10/18/2007 | X |
30 | Sample EOP (MS-Word) | 10/18/2007 | X |
31 | Sample PHA Reassignment (MS-Word) | 10/18/2007 | X |
32 | DHAP Satellite Broadcast PowerPoint Slides (MS-PowerPoint) | 8/21/2007 | X |
33 | FAQ DHAP to HCV 9-17-09 | 9/17/2009 | X |
34 | FAQ DHAP to HCV 2-3-09 | 2/3/2009 | X |
35 | FAQ DHAP to HCV 1-7-09 | 1/7/2009 | X |
36 | HUD/FEMA Interagency Agreement (IAA) | No Date | X |
37 | IAA Appendix A (MS-Excel) | 7/20/2007 | X |
38 | DHAP Grant Agreement | 8/21/2007 | X |
39 | PHAs Not Participating in the Disaster Housing Assistance Program (DHAP) (MS-Excel) | 11/30/2007 | X |
40 | List of PHAs participating in DHAP as of 5-28-08 (MS-Excel) | 5/28/2008 | X |
41 | DVP Addendum, Part D To The Tenant-Based Voucher HAP Contract (form HUD-52641) | No Date | X |
42 | Grant Agreement Amendment for September and October 2009 TRPs | 8/14/2009 | X |
43 | HUD/FEMA IAA Modification authorizing September and October 2009 TRPs | 8/13/2009 | X |
44 | Policy Guidelines for September and October 2009 TRPs | 8/14/2009 | X |
45 | Conditions to receive September and October 2009 TRPs | No Date | X |
46 | Frequently Asked Questions—September and October 2009 TRPs | No Date | X |
47 | Inter Agency Agreement (IAA) | 2/19/2009 | X |
48 | PHA Grant Amendment—Final | No Date | X |
49 | Letter to States Requesting Transitional Case Management | No Date | X |
50 | Transitional Closeout Case Management Requests | No Date | X |
51 | DHAP-Katrina Transitional Closeout Operating Requirements | 2/21/2009 | X |
52 | DHAP Transitional Close-Out Process | No Date | X |
53 | DHAP Katrina Transitional Closeout Welcome Letter | No Date | X |
54 | Letter to Tenant (MS-Word) | 2/24/2009 | X |
55 | Letter Agreement Attachment B | 2/24/2009 | X |
56 | Landlord EFT Letter (MS-Word) | 2/24/2009 | X |
57 | Landlord Check Letter (MS-Word) | 2/24/2009 | X |
58 | New Landlord Letter Template (MS-Word) | 2/24/2009 | X |
59 | DHAP-Ike Lease Addendum | No Date | X |
60 | Disaster Rent Subsidy Contract (DRSC) | No Date | X |
61 | Ike Family Obligations | No Date | X |
62 | DHAP-Ike Reconciliation | No Date | X |
63 | Case Management Updates | 5/3/2011 | X |
64 | FAQ Updates | 5/3/2011 | X |
65 | DIS System Improvements | 1/21/2009 | X |
66 | DIS New fields | No Date | X |
67 | Broadcast Agenda | No Date | X |
68 | DHAP-Ike Family Processing Map | No Date | X |
69 | Case Management Software | No Date | X |
70 | DHAP-Ike Case Management FAQs 9.28.09 | 9/28/2009 | X |
71 | DHAP-Ike Frequently Asked Questions Updated as of March 16, 2011 | 3/16/2011 | X |
72 | List of DHAP-Ike participating PHAs as of 12-15-2008 (MS-Excel) | 12/29/2008 | X |
73 | DHAP-Ike Grant Agreement | 9/28/2009 | X |
74 | HUD/FEMA Interagency Agreement (IAA) for DHAP-Ike | 9/23/2008 | X |
75 | DHAP-Ike Attachment A | No Date | X |
76 | Weekly Reports as of 09-26-2011 | 9/26/2011 | X |
77 | Weekly Reports as of 09-12-2011 | 9/12/2011 | X |
78 | Weekly Reports as of 09-05-2011 | 9/2/2011 | X |
79 | Weekly Reports as of 08-31-2011 | 8/29/2011 | X |
80 | Weekly Reports as of 08-22-2011 | 8/22/2011 | X |
81 | Weekly Reports as of 08-15-2011 | 8/15/2011 | X |
82 | Weekly Reports as of 08-08-2011 | 8/8/2011 | X |
83 | Weekly Reports as of 08-01-2011 | 8/1/2011 | X |
84 | Disaster Voucher Program (DVP) Instruction Letter #8 Extension of DVP for Pre-disaster Public Housing, Project-based, Homeless and Special Needs Housing Families | 11/4/2009 | X |
85 | Pre-Disaster Public Housing, Project-based, Homeless and Special Needs Housing (Letter 6) | 1/13/2009 | X |
86 | Pre-disaster Public Housing, Project-based, Homeless and Special Needs Housing (Letter 5) | No Date | X |
87 | Pre-disaster Public Housing, Project-based, Homeless and Special Needs Housing Families (Extension of assistance letter 4) | No Date | X |
88 | Pre-disaster Public Housing, Project-based, and Homeless and Special Needs Housing Families (Letter 3) | No Date | X |
89 | Processing Instructions for Pre-disaster Public Housing, Project-based and Special Needs Housing Families (Letter 2) | No Date | X |
90 | Processing Instructions for the Conversion of Pre-disaster Tenant-based Voucher Families from DVP to HCV Assistance (Letter 1) | No Date | X |
91 | Rental Assistance for Special Needs Families Displaced by Hurricanes Katrina and Rita | No Date | X |
92 | Tenant Protection Voucher (TPV) Final Instruction Letter | No Date | X |
93 | Clarification on Income Eligibility Guidelines for Pre-Disaster Multifamily Residents (Letter 7) | 7/2/2009 | X |
94 | Current status of Office of Multifamily properties affected by Hurricanes Katrina and Rita in New Orleans, LA. | No Date | X |
95 | PHA Outreach Letter | 11/10/2009 | X |
96 | Family Outreach Letter | No Date | X |
97 | List of PHAs that Received Special Appropriation Funding | No Date | X |
98 | Processing Centers for HUD Assisted Families | No Date | X |
99 | Sample Record of Intake | No Date | X |
100 | Sample Special Needs Eligibility Verification/Certification | No Date | X |
101 | List of Special Needs Administering Agencies (SNAAs) Willing to Perform DVP-Related Functions (MS-Excel, 48 KB) | 2/10/2006 | X |
102 | Amendment to Katrina Disaster Rent Subsidy Contract | No Date | X |
103 | Amendment to KDHAP Lease Addendum | No Date | X |
104 | Contact Information | No Date | X |
105 | Consolidated Katrina Disaster Contributions Contract | No Date | X |
106 | Katrina Disaster Rent Subsidy Contract and Lease Addendum | No Date | X |
107 | KDHAP Questions and Answers | 11/16/2005 | X |
108 | KDHAP Application—User Guide | 12/1/2005 | X |
109 | PIH Administrative Waivers for Hurricane Wilma | 3/7/2006 | X |
110 | PIH Administrative Waivers for Hurricane Rita | 10/25/2005 | X |
111 | Rita Checklist—Regulatory Suspension Notifications and Waiver Requests (MS-Word) | 10/26/2005 | X |
112 | PIH Administrative Final Waivers for Katrina Relief | 9/27/2005 | X |
113 | Verification of Family Assistance | No Date | X |
114 | Extension of PIH Administrative Waivers for Hurricanes Katrina, Rita and Wilma | No Date | X |
115 | Katrina, Rita and Wilma Checklist—Regulatory Suspension Notifications and Waiver Requests (MS-Word) | 12/28/2006 | X |
116 | HVC inspection form | No Date | X |
117 | Letter to PHAs and Directors of Public Housing | 2/2/2002 | X |
118 | Public Housing Occupancy Handbook | No Date | X |
119 | The Resident Newsletter | 2010-2014 | X |
120 | PHECC Resident Newsletter | 2003-2014 | X |
121 | PH Asset Management Newsletter | 2007-2013 | X |
122 | HCV Newsletter | 2010-2012 | X |
123 | MTW Quarterly Newsletter | 2011-2012 | X |
124 | CY 2011 PHA Guidance for Appeals for Changing Market Conditions | 2011 | X |
125 | CY 2012 Formula Income Methodology and Guidance | 2012 | X |
126 | CY 2013 Formula Income Methodology | 2013 | X |
127 | Guidance on Funding CY 2013 New Projects and Units | 2013 | X |
128 | CY 2014 Formula Income Methodology | 2014 | X |
129 | Guidance on Funding CY 2014 New Projects and Units | 2014 | X |
130 | CY 2015 Formula Income Methodology | 2015 | X |
131 | Guidance on Funding CY 2015 New Projects and Units | 2015 | X |
132 | Amended Lead Safe Housing Rule Video Series | 11/5/2018 | X |
133 | Useful Life and Binding Commitments | 5/10/2013 | X |
134 | Income Limits | 5/4/2012 | X |
135 | (Recipient)—Income Limits under the Native American Housing Assistance and Self Determination Act of 1996 | 3/31/2003 | X |
136 | Federal Financial Report (FFR)—Standard Form 425 for Indian Housing Block Grant Program | 1/5/2012 | X |
137 | Federal Financial Report (FFR)—Standard Form 425 | 1/4/2012 | X |
138 | Income Limits | 4/19/2013 | X |
139 | Criminal History Guidance | 8/19/2013 | X |
140 | Income Limits | 1/30/2014 | X |
141 | Guidance for the Word and Excel Versions of the Indian Housing Plan/Annual Performance Report—Attachment | 9/22/2014 | X |
142 | Guidance for the Word and Excel Versions of the Indian Housing Plan/Annual Performance Report (Attachment) | 9/22/2014 9/14/2018 | X |
143 | Income Limits under the Native American Housing Assistance and Self-Determination Act of 1996 | 4/6/2015 | X |
144 | Income Limits under the Native American Housing Assistance and Self-Determination Act of 1996 | 4/1/2016 | X |
145 | Indian Community Development Block Grant (ICDBG) Imminent Threat (IT) program | 10/28/2016 | X |
146 | Indian Community Development Block Grant (ICDBG) Imminent Threat (IT) program | 1/11/2017 | X |
147 | Income Limits under the Native American Housing Assistance and Self-Determination Act of 1996 (NAHASDA) | 5/18/2017 | X |
148 | (Recipient)—Income Limits under the Native American Housing Assistance and Self-Determination Act of 1996 | 2/10/2004 | X |
149 | (Recipient)—IHBG | 9/8/2004 | X |
150 | (Recipient)—Income Limits under the Native American Housing Assistance and Self Determination Act of 1996 and the U.S. Housing Act of 1937 | 2/12/2002 | X |
151 | (Tribe/TDHE)—Income Limits under the Native American Housing Assistance and Self-Determination Act of 1996 | 4/17/2001 | X |
152 | (Tribe/TDHE)—Income Limits under NAHASDA | 3/15/2000 | X |
153 | (Tribe/TDHE)—Calculating Annual Income under NAHASDA | 2/1/1999 | X |
154 | (Tribe/TDHE)—Income Limits | 2/11/1999 | X |
155 | (Tribe/TDHE)—Transition Guidance for Insurance Requirements | 12/18/1998 | X |
156 | (Tribe/TDHE)—Income Limits | 6/22/1998 | X |
157 | Homeownership Monitoring Review Checklist | No Date | X |
158 | Conversion Desk Guide | 12/1/2009 | X |
159 | Conversion Training Materials | 8/1/2008 | X |
160 | PHA Plan (HERA) guidance | No Date | X |
161 | Implication of “days of relocation” in SAC application | No Date | X |
162 | Income Limits under NAHASDA for FY 2018 (Amended 6/18/2018) | 6/18/2018 | X |

Appendix C—Community Planning and Development
| Name of document | Date | Arch | Remove
1 | Implementing Risk Analyses for Monitoring Community Planning and Development Grant Programs for Fiscal Year 2003 | 12/19/2002 | X |
2 | Implementing Risk Analyses for Monitoring Community Planning and Development Grant (CPD) Programs for Fiscal Year 2004 | 2/2/2004 | X |
3 | Implementing Risk Analyses for Monitoring Community Planning and Development Grant Programs for Fiscal Year 2005 | 10/28/2004 | X |
4 | Implementing Risk Analyses for Monitoring Community Planning and Development Grant Programs for FY 2006 | 9/12/2005 | X |
5 | Implementing Risk Analyses for Monitoring Community Planning and Development Grant Programs in FY 2007 | 10/23/2006 | X |
6 | Implementing Risk Analyses for Monitoring Community Planning and Development Grant Programs in FY 2008 | 10/19/2007 | X |
7 | Implementing Risk Analyses for Monitoring Community Planning and Development Grant Programs in FY 2010 and 2011 | 8/24/2009 | X |
8 | Capacity Building for Community Development and Affordable Housing | No Date | X |
9 | Standards for HOPWA Short-term Rent, Mortgage, and Utility (STRMU) Payments and Connections to Permanent Housing | 8/3/2006 | X |
10 | Eligibility for Formula Allocations under HOPWA FY 2004 | 10/14/2003 | X |
11 | Environmental Policy for HOPWA Program—Handbook 1390.5 | 11/23/1995 | X |
12 | Use of HOPWA Grant Funds for Participation at 2015 HIV/AIDS Conferences | 6/3/2015 | X |
13 | Meaningful Dialogue on Housing and Health HOPWA Presentation | 4/13/2012 | X |
14 | HOPWA Modernization Proposal | 3/1/2012 | X |
15 | 2011 HOPWA Performance Reporting Update | 10/28/2011 | X |
16 | HOPWA Financial Management Online Training Overview Webinar | 10/26/2011 | X |
17 | HOPWA Financial Management Online Training | 10/26/2011 | X |
18 | HOPWA Fact Sheet | 7/1/2011 | X |
19 | HUD's Implementation Plan for the National HIV/AIDS Strategy | 2/1/2011 | X |
20 | HOPWA CAPER Training Modules | 11/1/2009 | X |
21 | HOPWA APR Training Modules | 11/1/2009 | X |
22 | Standards for Short-term Rent, Mortgage, and/or Utility Assistance (STRMU) Payments | 11/5/2002 | X |
23 | HOPWA Advance Payment Guidance, Iowa Finance Authority Request, CPD Comptroller Response | 5/1/2002 | X |
24 | An Action Guide for Involving Low-Income Communities: As it relates to HOPWA | 6/1/2001 | X |
25 | ADAP Guidance | 1/21/1998 | X |
26 | HOME FACTS Vol. 1, No. 2: PJ Process to Request a Reduction to the CHDO Set Aside | 5/1/2008 | X |
27 | HOME FACTS Vol. 1, No. 3: Using the IDIS PR 27 Status of HOME Grants Report to Compute Commitments | 4/1/2015 | X |
28 | HOME FACTS Vol. 2, No. 1: Determination of a HOME PJ's 24-Month Commitment Period Beginning and End Date | 1/1/2009 | X |
29 | HOME FACTS Vol. 2, No. 3: Field Office Process for Determining Compliance with HOME's Commitment, CHDO Reservation, and Expenditure Requirements | 12/1/2014 | X |
30 | HOME FACTS Vol. 3, No. 1: HOME Activities with Commitments in IDIS that are Over 12 Months Old with No Funds Disbursed | 2/1/2014 | X |
31 | HOME FACTS Vol. 5, No. 1 : How IDIS Treats Open HOME Activities in Final Draw for More Than 120 days | 3/1/2013 | X |
32 | HOME FACTS Vol. 6, No. 1: CHDO Reservation and Expenditure Requirements | 4/1/2015 | X |
33 | HOMEfires Vol. 1 No. 10: Impact of Quality Housing and Work Responsibility Act of 1998 on Income Eligibility Requirements for Participants in HOME-Funded Lease-Purchase Programs | 12/1/1998 | X |
34 | HOMEfires Vol. 1 No. 5: Applicability of Section 504 Requirements to the HOME Program | 2/1/1998 | X |
35 | HOMEfires Vol. 1 No. 6: Setting up an Activity and Committing Funds in IDIS under HOME to Purchase, Rehabilitate, and Rent Homes at Different Locations | 2/1/1998 | X |
36 | HOMEfires Vol. 1 No. 7: Lead-Based Paint Requirements | 4/1/1998 | X |
37 | HOMEfires Vol. 1 No. 9: HOME and other Federal requirements that Apply to Property Receiving HOME Downpayment Assistance | 8/1/1998 | X |
38 | HOMEfires Vol. 1 No. 1: Using HOME Funds for Housing Counseling | 6/1/1997 | X |
39 | HOMEfires Vol. 1 No. 2: Applicability of HOME Program Requirements to Purchasers of 2-4 unit Owner-Occupied Projects | 7/1/1997 | X |
40 | HOMEfires Vol. 1, No. 3: Use of HOME Funds to Construct Replacement Units for Demolished Public Housing Owned by a Public PHA | 9/1/1997 | X |
41 | HOMEfires Vol. 1, No. 4: HOME Assistance to a Project That Will Serve Only a Certain Special Needs Group | 10/1/1997 | X |
42 | HOMEfires Vol. 10, No. 1: Guidance on the HOME Maximum Purchase Price or After-Rehabilitation Value Limits | 2/1/2009 | X |
43 | HOMEfires Vol. 10, No. 2: Guidance on the Impact of the Final Rule on “Refinement of Income and Rent Determination Requirements in Public and Assisted Housing Programs“ | 2/1/2009 | X |
44 | HOMEfires Vol. 11 No. 1: Guidance on the Impact of the Violence Against Women Reauthorization Act of 2013 on HOME-Funded Projects | 12/1/2013 | X |
45 | HOMEfires Vol. 13 No. 1: Guidance on How a PJ Can Receive Credit for a HOME Commitment That It Made Prior to Its 24-Month Commitment Deadline but Did Not Set up in IDIS Prior to Its Deadline | 4/1/2016 | X |
46 | HOMEfires Vol. 2 No. 3: Wards of the State and Wards of the Court as Eligible Beneficiaries of HOME-Assisted Transitional Housing | 9/2/1999 | X |
47 | HOMEfires Vol. 2 No. 4: HOME Income, Rent, Per-Unit Subsidy and Purchase Price/After Rehab Value Limits | 9/1/1999 | X |
48 | HOMEfires Vol. 2 No. 5: IDIS HOME Data Cleanup | 4/1/2000 | X |
49 | HOMEfires Vol. 2, No. 1: Eligible CHDO Activities in the HOME program | 3/1/1999 | X |
50 | HOMEfires Vol. 3 No. 1: Purpose of HOME Written Rehabilitation Standards | 1/1/2001 | X |
51 | HOMEfires Vol. 3, No. 2: Frequency and Number of Units Required for On-Site Inspections of HOME-Assisted Rental Housing | 2/1/2001 | X |
52 | HOMEfires Vol. 3, No. 3: Section 8 | 3/1/2001 | X |
53 | HOMEfires Vol. 3, No. 5: Twelve Month Construction Deadline and Six Month Transfer Deadlines | 4/1/2001 | X |
54 | HOMEfires Vol. 3, No. 8: Impact of Changes to the Section 8 Income Calculation Methodology on Calculating HOME Income Limits | 6/1/2001 | X |
55 | HOMEfires Vol. 3, No. 9: Community Land Trusts (CLTs) and CHDO Certification | 10/1/2001 | X |
56 | HOMEfires Vol. 4, No. 1: Frequency of Recertification for CHDOs | 4/1/2002 | X |
57 | HOMEfires Vol. 4, No. 3: Amenities that are Suitable to Include in HOME Assisted Projects | 7/1/2002 | X |
58 | HOMEfires Vol. 4, No. 4: Guidance on PJ Responsibilities for Monitoring with Respect to Entities Using Its HOME Funds | 9/1/2002 | X |
59 | HOMEfires Vol. 5, No. 1: Guidance on Allowing Nonprofit Organizations that Are Removed from the FHA Nonprofit Organization Roster to Participate in the HOME Program | 4/1/2003 | X |
60 | HOMEfires Vol. 5, No. 2: Termination of the Affordability Restrictions on a HOME-assisted Project Due to Foreclosure or Transfer in Lieu of Foreclosure | 5/1/2003 | X |
61 | HOMEfires Vol. 5, No. 3: Guidance on the Impact of Amendments to the Regulations for Calculating Income for Disabled Individuals and Households on HOME Income and Rent Calculations | 7/1/2003 | X |
62 | HOMEfires Vol. 6, No. 2: Guidance on PJ Property Standards Inspection Responsibilities | 10/1/2005 | X |
63 | HOMEfires Vol. 7, No. 1: Guidance on PJ Affirmative Marketing Responsibilities | 1/1/2006 | X |
64 | HOMEfires Vol. 7, No. 2: Guidance on Property Standards When HOME Funds Are Used for Rehabilitation | 10/1/2006 | X |
65 | HOMEfires Vol. 9, No. 1: Guidance on using HOME to Help Existing Homeowners Who Are Having Difficulty Paying Their Private Mortgages Because of Unfavorable Financing Terms | 1/1/2008 | X |
66 | HOMEfires Vol. 9, No. 2: Guidance on Documentation of Commitments that a PJ Made Before the 24-Month Commitment Deadline for Projects or Agreements not Set Up in IDIS | 3/2/2008 | X |
67 | HOMEfires Vol. 9, No. 3: Guidance on the HOME Maximum Purchase Price or After Rehabilitation Loan Value Limits: Temporary Section 203(b) Limits Authorized by the Economic Stimulus Act of 2008 | 3/1/2008 | X |
68 | HOMEfires Vol. 9, No. 4: Guidance on the HOME Maximum HOME Per-Unit Subsidy Limits: Higher Statutory Exceptions to the Maximum Section 221(D)(3) Mortgage Amounts | 8/1/2008 | X |
69 | CPD 09-03 Implementation of the Tax Credit Assistance Program (TCAP) | 5/1/2009 | X |
70 | CPD 10-004 Tax Credit Assistance Program (TCAP)—Reallocation of Funds | 12/1/2010 | X |
71 | CPD 15-08 TCAP Closeout Procedures Notice | 10/1/2015 | X |
72 | Notice CPD 17-05: Guidance for HTF Grantees on FY 2017 HTF Allocation Plans | 5/1/2017 | X |
73 | Notice CPD-00-01: Annual Performance Report for HOPE and HOPE 3, and Instructions for Return of Resale Proceeds | 1/19/2001 | X |
74 | Notice CPD-00-02: Commitment and Expenditure Deadline Requirements for the HOME Program | 1/7/2000 | X |
75 | Notice CPD-00-04: HOME- Designating New PJs; Reserving, Obligating, Reallocating Funds; Numbering Partnership Agreements | 5/25/2000 | X |
76 | Notice CPD-00-05: Procedures for Designating Consortia in HOME Investment Partnerships Program | 4/5/2000 | X |
77 | Notice CPD-00-06: Procedures for Closing Out HOPE 3 Program Implementation Grants for Returning funds to HUD | 4/26/2000 | X |
78 | Notice CPD-00-08: HOME Match Reductions for Fiscal Distress for FY 1999 and 2000, and Presidentially-Declared Disasters | 6/9/2000 | X |
79 | Notice CPD-00-09: Accessibility Notice—Section 504 of the Rehabilitation Act of 1973 and The Fair Housing Act and Their Applicability to Housing Programs Funded by HOME and CDBG | 12/26/2000 | X |
80 | Notice CPD-00-10: Accessibility for Persons with Disabilities to Non-Housing Programs funded by Community Development Block Grant Funds—Section 504 of the Rehabilitation Act of 1973, the Americans With Disabilities Act, and Architectural Barriers Act | 12/26/2000 | X |
81 | Notice CPD-01-01: Combining Program Funds of the McKinney Act Programs and the HOPWA Program with the HOME Program | 1/17/2001 | X |
82 | Notice CPD-01-02: Annual Performance Report for HOPE and HOPE 3, and instructions for Return of Resale Proceeds | 1/19/2001 | X |
83 | Notice CPD-01-03: Procedures for Closing Out HOPE 3 Program Implementation Grants for Returning Funds to HUD | 4/26/2001 | X |
84 | Notice CPD-01-04: Procedures for Designating Consortia in HOME Investment Partnerships Program | 4/9/2001 | X |
85 | Notice CPD-01-06: HOME Match Reductions for Fiscal Distress for FY 2000 and 2001, and Presidentially-Declared Disasters | 5/14/2001 | X |
86 | Notice CPD-01-07: HOME- Designating New PJs; Reserving, Obligating, Reallocating Funds; Numbering Partnership Agreements | 5/15/2001 | X |
87 | Notice CPD-01-13: Commitment: CHDO Reservation, and Expenditure Deadline Requirements for HOME | 10/12/2001 | X |
88 | Notice CPD-02-01: HOME Match Reductions for Fiscal Distress for FY 2001 and 2002: and Presidentially-Declared Disasters | 4/11/2002 | X |
89 | Notice CPD-02-02: Procedures for Designation of Consortia as a Participating Jurisdiction for the HOME Program | 4/11/2002 | X |
90 | Notice CPD-02-03: Accessibility Notice—Section 504 of the Rehabilitation Act of 1973 and The Fair Housing Act and Their Applicability to Housing Programs Funded by HOME and CDBG | 5/2/2002 | X |
91 | Notice CPD-02-04: Accessibility for Persons with Disabilities to Non-Housing Programs funded by CDBG. Section 504. | 5/2/2002 | X |
92 | Notice CPD-03-06: Procedures for Designation of Consortia as a Participating Jurisdiction for the HOME Program | 6/18/2003 | X |
93 | Notice CPD-03-07: HOME Match Reductions for Fiscal Distress for FY 2002 and 2003, and for Major Presidentially-Declared Disasters under the Stafford Act | 7/11/2003 | X |
94 | Notice CPD-03-08: Using HOME Funds in Addressing the Challenges of Homelessness | 7/30/2003 | X |
95 | Notice CPD-04-05: Procedures for Designation of Consortia as a Participating Jurisdiction for the HOME program | 6/1/2004 | X |
96 | Notice CPD-04-06: HOME Match Reductions for Fiscal Distress for Presidentially-Declared Disasters under the Stafford Act | 6/4/2004 | X |
97 | Notice CPD-06-01: Admin and Soft Costs, Community Development Expenses under HOME and American Dream Downpayment Initiative | 2/1/2006 | X |
98 | Notice CPD-06-04: Procedures for Designation of Consortia as a Participating Jurisdiction for the HOME program | 4/11/2006 | X |
99 | Notice CPD-06-05: HOME- Designating New PJs; Reserving, Obligating, Reallocating Funds; Numbering Partnership Agreements | 5/4/2006 | X |
100 | Notice CPD-07-05: HOME Match Reductions for Fiscal Distress and for Presidentially-Declared Disasters under the Stafford Act (Supersedes CPD Notice 04-06) | 7/11/2007 | X |
101 | Notice CPD-16-07: Guidance for HTF Grantees on FY 2016 HTF Allocation Plans | 4/1/2016 | X |
102 | Notice CPD-18-08: Guidance for Grantees on Submitting HTF Allocation Plans | 3/1/2018 | X |
103 | Notice CPD-95-04: Commitment Requirements and Deobligation Procedures: HOME Program | 5/3/1995 | X |
104 | Notice CPD-96-02: Procedures for Designating Consortia in HOME Investment Partnerships Program | 3/8/1996 | X |
105 | Notice CPD-96-07: Guidance on Tenant-Based Rental Assistance under the HOME Program | 11/1/1996 | X |
106 | Notice CPD-96-09: Administrative Costs, Project-Related Soft Costs, and CHDO Operating Expenses under the HOME Program | 12/20/1996 | X |
107 | Notice CPD-97-04: HOME Match Reductions for Fiscal Distress for FY 1996 and 1997 and Presidentially-Declared Disasters | 4/17/1997 | X |
108 | Notice CPD-97-05: Procedures for Designating Consortia in HOME Investment Partnerships Program | 4/25/1997 | X |
109 | Notice CPD-97-07: Commitment and Expenditure Deadline Requirements for the HOME Program | 5/19/1997 | X |
110 | Notice CPD-97-09: HOME Program Income, Recaptured Funds, Repayments and CHDO Proceeds | 9/12/1997 | X |
111 | Notice CPD-97-11: Guidance on CHDOs under the HOME Program | 10/8/1997 | X |
112 | Notice CPD-97-12: Annual Performance Report for HOPE and HOPE 3 | 10/10/1997 | X |
113 | Notice CPD-97-13: Procedures for Closing Out HOPE 3 Program Implementation Grants | 11/19/1997 | X |
114 | Notice CPD-98-01: Layering Guidance for HOME Participating Jurisdictions When Combining HOME Funds with Other Governmental Subsidies | 1/22/1998 | X |
115 | Notice CPD-98-02: Allocating Costs and Identifying HOME-assisted Units in Multi-Unit Projects | 3/18/1998 | X |
116 | Notice CPD-98-06-Rev: Commitment and Expenditure Deadline Requirements for the HOME Program | 5/5/1998 | X |
117 | Notice CPD-98-07: Procedures for Designating Consortia in HOME Investment Partnerships Program | 5/29/1998 | X |
118 | Notice CPD-98-08: HOME Match Reductions for Fiscal Distress for FY 1997 and 1998, and Presidentially-Declared Disasters | 6/11/1998 | X |
119 | Notice CPD-98-11: Annual Performance Report for HOPE and HOPE 3, and instructions for Return of Resale Proceeds | 10/14/1998 | X |
120 | Notice CPD-99-02: Procedures for Closing Out HOPE 3 Program Implementation Grants for Returning funds to HUD | 3/23/1999 | X |
121 | Notice CPD-99-04: Commitment and Expenditure Deadline Requirements for the HOME Program | 4/16/1999 | X |
122 | Notice CPD-99-05: Procedures for Designating Consortia in HOME Investment Partnerships Program | 5/18/1999 | X |
123 | Notice CPD-99-06: HOME Match Reductions for Fiscal Distress for FY 1998 and 1999, and Presidentially-Declared Disasters | 7/28/1999 | X |
124 | CPD Memo: System and Regulatory Changes to Eliminate First-In-First-Out Accounting in IDIS | 5/9/2014 | X |
125 | CPD Memo: Repayment of HOME Funds Used for Ineligible Activities or Ineligible Costs and Return of HOME Funds to the Treasury Account | 4/5/2011 | X |
126 | HOME IDIS Exercise Manual for PJs | 7/1/2010 | X |
127 | HOME IDIS Homebuyer Set Up And Completion Form | 8/1/2006 | X |
128 | 2017 Housing Trust Fund Allocation Plan Sample Form | 6/1/2017 | X |
129 | 2016 Housing Trust Fund Allocation Plan Sample Form | 5/1/2016 | X |
130 | 2016 HTF Allocation Plans | 4/1/2016 | X |
131 | HTF e-Con Planning Suite Screens Office Hours | 9/1/2017 | X |
132 | TCAP Program-Level Plan | 4/1/2017 | X |
133 | Fed Reporting Q&As | 4/1/2017 | X |
134 | Davis-Bacon Prevailing Wage Requirements Q&As | 4/1/2017 | X |
135 | Part 87—Lobbying Certifications | 4/1/2017 | X |
136 | Lead-based Paint | 4/1/2017 | X |
137 | National Environmental Policy Act (NEPA) & Related Laws | 4/1/2017 | X |
138 | Program Income | 4/1/2017 | X |
139 | TCAP Questions and Answers: Section 504 of the Rehabilitation Act of 1973 | 4/1/2017 | X |
140 | Technical Assistance | 4/1/2017 | X |
141 | Uniform Relocation Act Requirements | 4/1/2017 | X |
142 | Grant Agreement Guidance | 4/1/2017 | X |
143 | Written Agreement Requirements | 4/1/2017 | X |
144 | FederalReporting.gov Tipsheet | 4/1/2017 | X |
145 | Job Count Guide | 4/1/2017 | X |
146 | Fees and Asset Management Guide | 4/1/2017 | X |
147 | Projects with Existing Environmental Review Guide | 4/1/2017 | X |
148 | Lead-based Paint Interpretive Guide | 4/1/2017 | X |
149 | TCAP Broadcast Powerpoint Presentation | 4/1/2017 | X |
150 | TCAP Section 3 Waiver | 4/1/2017 | X |
151 | TCAP URA Waiver | 4/1/2017 | X |
152 | HOME Final Rule: Commitment and Expenditure Requirements Webcast | 10/24/2013 | X |
153 | HOME Final Rule: Timeliness Webcast Transcript | 10/24/2013 | X |
154 | CHDO Set-Aside Reservation & Expenditure Deadlines Webinar | 5/7/2015 | X |
155 | CHDO Set-Aside Reservation & Expenditure Deadlines PowerPoint | 5/7/2015 | X |
156 | Transcript of HOME Program Webinar CHDO Set-Aside Reservation and Expenditure Deadlines | 5/7/2015 | X |
157 | Overview of the HOME FY2012 Appropriations Law Requirements Webinar | 6/1/2012 | X |
158 | Overview of the HOME FY2012 Appropriations Law Requirements PowerPoint | 6/1/2012 | X |
159 | Consolidated and Further Continuing Appropriations Act of 2012: Overview of HOME Requirements—Webinar Transcript | 6/1/2012 | X |
160 | HOME FY2012 Appropriations Law Requirements—Underwriting and Developer Capacity for Homebuyer Projects Webinar | 6/14/2012 | X |
161 | HOME FY2012 Appropriations Law Requirements—Underwriting and Developer Capacity for Homebuyer Projects Webinar Transcript | 6/15/2012 | X |
162 | HOME FY2012 Appropriations Law Requirements—Underwriting and Developer Capacity for Homebuyer Projects Webinar PowerPoint | 6/16/2012 | X |
163 | HOME FY2012 Appropriations Law Requirements—Market Analysis Webinar | 6/11/2012 | X |
164 | HOME FY2012 Appropriations Law Requirements—Market Analysis Webinar PowerPoint | 6/11/2012 | X |
165 | HOME FY2012 Appropriations Law Requirements—Market Analysis Webinar Transcript | 6/11/2012 | X |
166 | HOME FY2012 Appropriations Law Requirements—Deadline for Sale of Homebuyer Units Webinar | 6/18/2012 | X |
167 | HOME FY2012 Appropriations Law Requirements—Deadline for Sale of Homebuyer Units and Conversion to Rental Webinar Additional Resources | 6/18/2012 | X |
168 | HOME FY2012 Appropriations Law Requirements—Deadline for Sale of Homebuyer Units and Conversion to Rental Webinar PowerPoint | 6/18/2012 | X |
169 | HOME FY2012 Appropriations Law Requirements—Deadline for Sale of Homebuyer Units and Conversion to Rental Webinar Transcript | 6/18/2012 | X |
170 | HOME FY2012 Appropriations Law Requirements—Underwriting and Developer Capacity for Rental Projects Webinar PowerPoint | 6/28/2012 | X |
171 | HOME FY2012 Appropriations Law Requirements—Underwriting and Developer Capacity for Rental Projects Webinar | 6/28/2012 | X |
172 | HOME FY2012 Appropriations Law Requirements—Underwriting and Developer Capacity for Rental Projects Webinar Transcript | 6/28/2012 | X |
173 | HOME FY2012 Appropriations Law Requirements—For CHDOs—Understanding the CDHO Development Capacity Requirement Webinar | 7/12/2012 | X |
174 | CHDO Capacity Checklist Guide | 7/12/2012 | X |
175 | CHDO Capacity Checklist Tool | 7/12/2012 | X |
176 | HOME FY2012 Appropriations Law Requirements—For CHDOs—Understanding the CDHO Development Capacity Requirement Webinar PowerPoint | 7/12/2012 | X |
177 | HOME FY2012 Appropriations Law Requirements—For CHDOs—Understanding the CDHO Development Capacity Requirement Webinar Transcript | 7/12/2012 | X |
178 | Long Term Affordability Using NSP and HOME Webinar | 10/6/2011 | X |
179 | Long Term Affordability Using NSP and HOME Webinar PowerPoint | 10/6/2011 | X |
180 | Long Term Affordability Using NSP and HOME Webinar Transcript | 10/6/2011 | X |
181 | HOME Proposed Rule Webinar | 12/16/2011 | X |
182 | HOME Proposed Rule Webinar PowerPoint | 12/16/2011 | X |
183 | HOME Proposed Rule Webinar Transcript | 12/16/2011 | X |
184 | Ten Q&As on Section 106 Compliance | 3/1/2006 | X |
185 | Environmental Review FAQs: Hurricane Sandy | 5/1/2014 | X |
186 | WSRA Section 7(a) Process Flowchart | 1/1/2013 | X |
187 | Choosing an Environmentally Safe Site | 9/1/2006 | X |
188 | Exemptions for Disaster and Imminent Threats | 5/16/2009 | X |
189 | Field Environmental Review Processing for HUD Colonias Initiative Grants | 1/27/2000 | X |
190 | Modified Environmental Processing for SHOP | 5/21/2001 | X |
191 | Modified Environmental Processing for Self-Help Homeownership Opportunity Program (SHOP) Fiscal Year 2001 Legislative Change | 5/21/2001 | X |
192 | Environmental Review and the HOME Investment Partnerships Program | 7/17/2001 | X |
193 | Cooperating Agency Agreements for Implementing Procedural Requirements of NEPA | 8/22/2002 | X |
194 | Waiving Statutory Environmental Review Requirements for the Indian Housing Block Grant Program for Tribes that Have Assumed Environmental Review Responsibilities under 24 CFR part 58 | 8/10/2004 | X |
195 | Waiving Statutory Environmental Review Requirements for the Indian Housing Block Grant Program for Tribes that Have Assumed Environmental Review Responsibilities under 24 CFR part 58 | 8/10/2005 | X |
196 | Field Environmental Review Processing for RHED Grants | 8/30/2005 | X |
197 | Field Environmental Review Processing for RHED Grants | 10/12/2006 | X |
198 | Environmental Review Processing for Emergency Solutions Grants (ESG) Programs FY2012 | 6/15/2012 | X |
199 | Field Environmental Processing for Loan Guarantee Recovery Fund | 1996 | X |
200 | Environmental Guide for SHOP | 2/20/1997 | X |
201 | Environmental Guide for SHOP | 2/20/1998 | X |
202 | Modified Environmental Processing for SHOP | 10/14/1998 | X |
203 | Field Environmental Review Processing for HUD Colonias Initiative Grants | 1/27/1999 | X |
204 | Modified Environmental Processing for SHOP | 10/14/1999 | X |
205 | Field Environmental Review Processing for the HUD Urban Empowerment Zones (EZ) Program (Round II) | 9/20/1999 | X |
206 | HUD Environmental Justice Strategy | 11/1/2016 | X |
207 | 2012-2015 Environmental Justice Strategy | 3/30/2012 | X |
208 | Coastal Barrier Resources Act: Guidelines for Compliance | 2008 | X |
209 | Overview of Exempt Activities and Categorically Excluded Activities Not Subject to § 58.5 Related Laws and Authorities | 6/1/2013 | X |
210 | Fact Sheet Using CDBG Funds for Disaster Recovery | 1998 | X |
211 | Pt. 51 Guide to HUD Environmental Criteria and Standards contained in 24 CFR 51 | 8/1/1984 | X |

Appendix D—Davis-Bacon and Labor Standards
| Name of document | Date | Arch | Remove
1 | SF 308 Request For Wage Determination And Response To Request | 05/1985 | X |
2 | The Davis Bacon Act—40 U.S.C. 3141 et seq | 4/2009 | X |
3 | Title 29 CFR parts 1, 3, 5, 6 and 7—Department of Labor Regulations | 12/1/2012 | X |
4 | WD-10—Report of Construction Contractor's Wage Rates | 5/1/2014 | X |
5 | WH-347—Payroll | 12/2008 | X |
6 | Copeland Anti-Kickback Act—40 U.S.C 3145 | 12/1/2012 | X |
7 | WH-1321 SPA Davis-Bacon Poster in Spanish | 10/2017 | X |
8 | WH-1321 Davis-Bacon Poster in English | 10/2017 | X |
9 | HUD's On the Mark #10: What's new about Davis-Bacon certification forms? WH-348 | 12/1/2012 | X |
10 | HUD's On the Mark #9: What's new about contractor and | 12/1/2012 | X |
11 | Field Operations Handbook | 5/1/2012 | X |
12 | HUD Handbook 1344.1, Federal Labor Standards Compliance in Housing and Community Development Programs | 2/1/2012 | X |
13 | WH Publication 1318 Fair Labor Standards Act of 1938, as amended | 5/1/2011 | X |
14 | HUD Form 4010 Federal Labor Standards Provision | 6/1/2009 | X |
15 | HUD Form 4734 Labor Standards Deposit Account Voucher | 9/1/2008 | X |
16 | HUD Form 11-SP—Spanish Version: Record of Employee Review | 8/1/2004 | X |
17 | HUD form 4730-E Online Employee Questionnaire | 6/1/2004 | X |
18 | WH1432 Contract Work Hours and Safety Standards, as amended | Not dated | X |
19 | On the Mark! Publication Series | 6/1/1996 | X |
20 | HUD form 4230A Report of Additional Classification | 8/1/2003 | X |
21 | HUD Form 4730—Federal Labor Standards Questionnaire | 1/1/2019 | X |
22 | HUD Form 4734—Labor Standards Deposit Account Voucher | 9/1/2008 | X |
23 | HUD Form 4733 Wire Transfer instructions | 7/1/2006 | X |
24 | HUD Form 4710 Semi-Annual Enforcement Report | 11/1/2004 | X |
25 | HUD Form 5370 General contract provisions | 11/1/2006 | X |
26 | HUD Form 5370-EZ General Contracts provisions for small contractors | 10/1/2006 | X |
27 | HUD Form 5370 C General conditions nonconstruction contracts | 10/1/2006 | X |
28 | HUD Form 4751 Maintenance wage rate survey | 1/1/2007 | X |
29 | HUD Form 4750 Maintenance wage rate recommendation | 1/1/2007 | X |
30 | HUD Form 4752 Maintenance wage rate survey summary sheet | 1/1/2007 | X |
31 | HUD Form 4731 Compliant Intake Form | 6/1/2004 | X |
32 | HUD Form 4730 in Spanish, Federal Labor Standards Questionnaire | 6/1/2004 | X |
33 | PHA On-Site Monitoring Instructions | No Date | X |
34 | Waiving statutory environmental review requirements for the Indian Housing Block Grant Program for Tribes that Have Assumed Environmental Review Responsibilities under 24 CFR part 58 | 8/10/2006 | X |

Appendix E—Housing/FHA Mortgagee Letters
| Name of document | Date | Arch | Remove
1 | Debenture Interest Rates | 7/1/1987 | X |
2 | Debenture Interest Rates | 12/31/1987 | X |
3 | Debenture Interest Rates | 7/29/1988 | X |
4 | Debenture Interest Rates | 2/1/1989 | X |
5 | Debenture Interest Rates | 7/24/1989 | X |
6 | Debenture Interest Rates | 1/25/1990 | X |
7 | Debenture Interest Rates | 7/20/1992 | X |
8 | Debenture Interest Rates | 1/27/1992 | X |
9 | Debenture Interest Rates | 7/27/1993 | X |
10 | Debenture Interest Rates | 1/19/1993 | X |
11 | Debenture Interest Rates | 1/28/1994 | X |
12 | Debenture Interest Rates | 7/13/1995 | X |
13 | Collection of Interest of One-Time Mortgage Insurance Premium Payments that were made late INSURANCE | 8/12/1991 | X |
14 | Multifamily Mortgage Insurance Premiums | 5/28/1991 | X |
15 | Lockbox Closes for Section 530 and Risk-Based Monthly—Premiums | 4/17/1996 | X |
16 | Announcement of Reconciliation Group for Risk-Based Premiums | 8/7/1991 | X |
17 | Optional use of Private Courier Services for Remittance of Mortgage Insurance Premiums (MIP) | 5/7/1984 | X |
18 | Updates via CLAS | 6/11/1996 | X |
19 | Change in Maximum Interest Rates | 1/29/1988 | X |
20 | Change in Maximum Interest Rates | 9/8/1987 | X |
21 | Change in Maximum Interest Rates | 5/8/1987 | X |
22 | Change in Maximum Interest Rates | 9/8/1987 | X |
23 | Change in Maximum Interest Rates | 5/8/1987 | X |
24 | Change in Maximum Interest Rates | 1/29/1988 | X |
25 | Change in Maximum Interest Rates | 7/17/1989 | X |
26 | Change in Maximum Interest Rates | 6/5/1989 | X |
27 | Change in Maximum Interest Rates | 12/16/1988 | X |
28 | Headquarters Review of Certain Applications for Section 232 Mortgage Insurance | 11/6/2000 | X |
29 | IRS Form 5405 | No Date | X |
30 | Extension of Initial Disaster Foreclosure Moratorium for Properties in Specified Areas Impacted by Hurricanes Harvey, Irma, and Maria | 10/20/2017 | X |
31 | Extension of Disaster Foreclosure Moratoriums for Specified Areas Impacted by Hurricane Maria | 5/16/2018 | X |
32 | Extension of Disaster Foreclosure Moratoriums for Specified Areas Impacted by Hurricane Maria in Puerto Rico and the U.S. Virgin Islands | 5/16/2018 | X |
33 | 2019 Nationwide Forward Mortgage Limits | 12/14/2018 | X |
34 | 2019 Nationwide Home Equity Conversion Mortgage (HECM) Limits | 12/14/2018 | X |
35 | Downpayment Assistance and Operating in a Governmental Capacity | 4/18/2019 | X |
36 | Extension of the Effective Date of Mortgagee Letter 2019-06, Downpayment Assistance and Operating in a Governmental Capacity | 4/25/2019 | X |
37 | Construction to Permanent and Building on Own Land Programs | 5/16/2019 | X |
38 | Suspension of the Effective Date of Mortgagee Letter 2019-06, Downpayment Assistance and Operating in a Government Capacity | 7/23/2019 | X |
39 | Rescission of Mortgagee Letters 2019-06, Downpayment Assistance and Operating in a Governmental Capacity; 2019-07, Extension of the Effective Date of Mortgagee Letter 2019-06, Downpayment Assistance and Operating in a Governmental Capacity; and 2019-10, Suspension of the Effective Date of Mortgagee Letter 2019-06, Downpayment Assistance and Operating in a Governmental Capacity | 8/13/2019 | X |
40 | Establishment of the Federal Housing Administration (FHA) Inspector Roster • Attachment. | 8/2/2004 | X |
41 | Eligibility of Mortgages on Hawaiian Home Lands Insured Under Section 247 | 11/1/2004 | X |
42 | Revised Borrower's Closing Costs Guidelines | 1/27/2006 | X |
43 | Home Equity Conversion Mortgage (HECM) for Purchase Program | 10/20/2008 | X |
44 | HECM Mortgage Limits—Effective Immediately | 11/6/2008 | X |
45 | Loan Limit Increases for FHA • Attachment I—Counties at the Ceiling. • Attachment II—Counties Between the Floor and Ceiling. | 2/24/2009 | X |
46 | Online Versions of Handbooks 4155.1, Mortgage Credit Analysis for Mortgage Insurance; and 4155.2, Lenders' Guide to Single Family Mortgage Insurance Processing | 4/9/2009 | X |
47 | Home Equity Conversion Mortgage (HECM)—Principal Limit Factors | 9/23/2009 | X |
48 | Introduction of HUD's Web-Based Training Application: Electronic Class (EClass) on Loss Mitigation and Servicing System | 10/27/2009 | X |
49 | Adoption of the Appraisal Update and/or Completion Report (Fannie Mae Form 1004D/Freddie Mac Form 442/March 2005) | 12/7/2009 | X |
50 | Announcement of the FHA Nonprofit Data Management System | 1/28/2010 | X |
51 | Availability of Treasury Success Payments for FHA-HAMP Modifications | 3/26/2010 | X |
52 | Home Equity Conversion Mortgage (HECM) Program Submission of Case Binder Documents • Attachment—Home Equity Conversion Mortgage Required Documents for Endorsement. | 7/20/2010 | X |
53 | Home Equity Conversion Mortgage Program—Introducing HECM Saver; Mortgage Insurance Premiums and Principal Limit Factor Changes for HECM Standard | 9/21/2010 | X |
54 | 2011 FHA Maximum Loan Limits • Attachment 1 (Areas at Ceiling and Above). • Attachment 2 (Areas Between Floor and Ceiling). | 12/1/2010 | X |
55 | Federal Housing Administration Maximum Loan Limits, Effective Period: January 1, 2013, through December 31, 2013 | 12/6/2012 | X |
56 | Home Equity Conversion Mortgage Program—Consolidation of Pricing Options and Principal Limit Factors for Fixed Interest Rate Mortgages Mortgagee Letters | 1/30/2013 | X |
57 | Home Equity Conversion Mortgage (HECM) Financial Assessment and Property Charge Guide • Attachment (1/13/2014). | 9/3/2013 | X |
58 | Home Equity Conversion Mortgage Program's Mandatory Obligations, Life Expectancy Set-Aside Calculation, and Purchase Transactions | 9/25/2013 | X |
59 | Eligible Properties in Presidentially Declared Major Disaster Area Super Storm Sandy for 203(k) insured mortgages | 9/27/2013 | X |
60 | Delay in Effective Date for Home Equity Conversion Mortgage (HECM) Financial Assessment Requirements and Funding Requirements for the Payment of Property Charges | 12/20/2013 | X |
61 | Voluntary Termination of FHA Mortgage Insurance | 7/3/2014 | X |
62 | Update of Preservation and Protection (P&P) Requirements and Cost Reimbursement Procedures for Title II Forward Mortgages and Home Equity Conversion Mortgages (HECMS) | 2/5/2016 | X |
63 | Revised HUD 92900-A HUD/VA Addendum to Uniform Residential Loan Application | 3/15/2016 | X |
64 | Property Assessed Clean Energy (PACE) * (Superseded in part by HUD Handbook 4000.1) | 7/19/2016 | X |
65 | 2017 Nationwide Home Equity Conversion Mortgage (HECM) Limits | 12/1/2016 | X |
66 | Change in Method of Payment of Mortgage Insurance Premiums With HUD Debentures | 12/23/1980 | X |
67 | Microfilming, Retention, and Disposition of Documents in Single Family HUD-Insured Mortgage Files | 4/9/1981 | X |
68 | HUD-Approved Forms | 6/16/1981 | X |
69 | Property Inspection Fees | 6/16/1981 | X |
70 | The Proper Utilization of Escrow Accounts—Clarifications | 8/25/1981 | X |
71 | Redemption of Debentures in Exchange for the Payment of Mortgage Insurance Premiums | 12/22/1981 | X |
72 | Mortgage Record Change Key Punch Instructions | 2/20/1981 | X |
73 | Initiatives Designed to Provide Economic Stimulus to the Housing Industry | 6/22/1982 | X |
74 | Microfilming, Retention, and Disposition of Documents of Single Family HUD-Insured Mortgage | 7/9/1982 | X |
75 | Refinancing existing HUD-insured mortgages for minimal risk applications | 10/28/1981 | X |
76 | Revision to Mortgagee Remittance Requirements for Single Family Mortgage Insurance Premiums | 7/19/1982 | X |
77 | Mortgagee Letter 81-23, Escrows Established to Reduce Monthly Interest Charges to the Buyer | 5/6/1982 | X |
78 | One-Time Mortgage Insurance Premium—Mortgage Modifications | 12/7/1983 | X |
79 | Withholding of Interest on HUD Debentures | 3/25/1983 | X |
80 | Computerized Processing of Mortgage Credit Data—Reimbursement of Real Estate Brokers | 4/14/1983 | X |
81 | Single Family Claims for Insurance Benefits | 4/4/1984 | X |
82 | Reporting Defaulted Mortgagors to Credit Bureaus | 4/25/1984 | X |
83 | Post Office Box Number for Submission of Claims for Single Family Mortgage Insurance Benefits | 8/22/1984 | X |
84 | Capitalization Accounting | 1/30/1984 | X |
85 | Adjustable Rate Mortgages (ARM) Mortgage Servicing Procedures | 12/17/1984 | X |
86 | Single Family Condominium Provisions of the Housing and Urban-Rural Recovery Act of 1983 | 3/27/1984 | X |
87 | Single Family Origination: Lower Down Payment for Properties Under $50,000 | 5/10/1985 | X |
88 | High Risk Mortgages—Investor Refinances | 5/16/1985 | X |
89 | New Single Family Claims Payment System Form HUD-27011, Single Family Application for Insurance Benefits—Title II Mortgages | 9/10/1985 | X |
90 | Ferrell v. Pierce, 73 C 334, N.D. ILL. Assignment Reprocessing | 9/13/1985 | X |
91 | Equity Skimming | 9/16/1985 | X |
92 | Implementation of New Single Family Claims Payment System (Title II mortgages) | 1/30/1985 | X |
93 | Growing Equity Mortgages (GEMs) | 3/1/1985 | X |
94 | Mortgagee Letter 86-10, Single Family Production, Requiring Signatures on HUD-1 Settlement Statement | 6/3/1986 | X |
95 | Tax Bills on Single Family Properties and Mortgages Assigned to the Department | 7/31/1986 | X |
96 | Changes to Single Family Programs | 8/8/1986 | X |
97 | Automatic assignment of mortgages pursuant to Section 221(g)(4) of the National Housing Act Single Family | 9/26/1986 | X |
98 | Single Family Production Processing of Refinance Transactions | 1/28/1986 | X |
99 | Single Family Production—Investor Transactions | 1/29/1986 | X |
100 | Single Family Development—Streamlined Refund Process for Refinance Transactions | 3/24/1986 | X |
101 | Claims without Conveyance of Title (CWCOT); Bidding Requirements for Foreclosure Sales | 6/23/1987 | X |
102 | Replacement Mortgage Insurance Certificates | 7/31/1987 | X |
103 | Refinance Transactions—Additional Instructions and Clarifications | 8/31/1987 | X |
104 | Fraud Alert—Fictitious Notices of Mortgage Transfer or Sale | No Date | X |
105 | Corrections Needed for Errors in Reporting on the 90 or More Days Delinquent Loan Report, Single Family Default Monitoring System (SFDMS) | 7/27/1987 | X |
106 | Single Family Processing Procedures—Shared Equity Identity of Interest Uniform Residential Appraisal Report (URAR) Sales Data Prohibited Kickback Payments Mortgagor Borrowing Funds for the Required Investment | 10/19/1987 | X |
107 | Change in Maximum Interest Rates | 10/20/1987 | X |
108 | Single Family Production—Revisions to Interest Buydown Policy | 10/22/1987 | X |
109 | Homeowner's Fact Sheet-One-time Mortgage Insurance Premium (MIP) Refunds and Distributive Shares | 10/28/1987 | X |
110 | Single Family Development—The Use of a Real Estate Schedule in Investor Transactions | 11/9/1987 | X |
111 | Changes to the Term of Conditional Commitments Issued for Proposed Construction | 11/30/1987 | X |
112 | Additional Processing instructions for Determining Creditworthiness of Assuming Mortgagors—Mortgagee Letter 86-15 | 1/12/1987 | X |
113 | Single Family Development—Streamlined Refund Process for Refinance Transactions | 2/2/1987 | X |
114 | Mortgage Insurance on Indian Reservations and other Restricted Lands | 4/6/1988 | X |
115 | Occupied Conveyance of One-to Four-Family Properties: Final Rule | 4/27/1988 | X |
116 | Single Family Production—Requests to Increase the Single Family Maximum Mortgage Limits | 5/17/1988 | X |
117 | All Approved Mortgagees Streamline Refinance, Allowable Fees | 5/18/1988 | X |
118 | Single Family Production—Including Home Inspection Fees in Closing Costs | 5/19/1988 | X |
119 | Change in Maximum Interest Rates | 5/20/1988 | X |
120 | Deeds-in-lieu of Foreclosure | No Date | X |
121 | Shared Equity Program Purchase Transactions | 6/27/1988 | X |
122 | Administration of the Section 235 Program: Common Servicing Errors, Clarification of Policies and Procedures and Recent Legislative Changes | 7/14/1988 | X |
123 | Disclosure Requirements Concerning the Origination of Adjustable Rate Mortgages (ARMs) | 7/21/1988 | X |
124 | Credit Alert Interactive Voice Response (CAIVR) System Additional Processing Instructions | 8/1/1988 | X |
125 | Implementation of the Housing and Community Development Act of 1987—Single Family Provisions | 2/5/1988 | X |
126 | Single Family Loan Production—Revised Form HUD 92900, Application for HUD/FHA Insured Mortgage | 11/7/1988 | X |
127 | Lender Foreclosure Delays | No Date | X |
128 | Change in Maximum Interest Rates | 10/31/1988 | X |
129 | Purchase of Mortgages Prior to Issuance of MICs | 11/3/1988 | X |
130 | Obtaining Duplicate Mortgage Insurance Certificates (MICs) | 11/9/1988 | X |
131 | Single Family Production—Recap of HUD's Temporary Interest Buydown Policy | 12/1/1988 | X |
132 | Home Equity Conversion Mortgage Insurance Demonstration-Procedures for Applying for Reservations of Insurance Authority | 12/22/1988 | X |
133 | Revised Credit Alert Interactive Voice Response System (CAIVRS)—Combining Title I and Title II Records Additional Processing Instructions | 2/24/1988 | X |
134 | Single Family Development—Certifications of Mechanical Equipment, Roofing or Structural Components by Qualified Home Inspectors (Existing Properties) | 2/29/1988 | X |
135 | Claims Without Conveyance of Title (CWCOT) Implementation Corrections, Additions and Clarifications | 2/29/1988 | X |
136 | Clarification of Correct Index to Use for Interest Rate Adjustments of FHA-Insured Adjustable Rate Mortgages (ARMS) | 3/1/1988 | X |
137 | Standards for Residential Mortgage Credit Reports | 3/30/1988 | X |
138 | Establishment of Allowable Fees for Assumptions (All Single Family Programs) | 4/6/1988 | X |
139 | HUD Initiatives to Counter Mortgagor Abuse | 2/2/1989 | X |
140 | Clarification of Residential Mortgage Credit Report Standards | 3/29/1989 | X |
141 | Implementation of Deficiency Judgment Activities | 5/3/1989 | X |
142 | Title Insurance Coverage for Single Family Conveyed Properties | 5/11/1989 | X |
143 | Providing Housing Through Local Government Participation | 5/22/1989 | X |
144 | Pre-Foreclosure Reviews and Mortgagee Servicing | 6/15/1989 | X |
145 | Transfer of Loan Management and Property Disposition Responsibilities | 6/23/1989 | X |
146 | Single Family Subdivision Processing Requirements—VA/CRVs and MCRVs | 1/4/1989 | X |
147 | Single Family Loan Production—Modifications to Mortgage Credit underwriting | 6/27/1989 | X |
148 | Single Family Loan Production—Requirements for Single Family Mortgage Instruments | 10/11/1989 | X |
149 | Insurance of Adjustable Rate Mortgages on Single Family Properties Section 251 of the National Housing Act | 9/29/1989 | X |
150 | Single Family Loan Production—Use of Effective Gross Income To Calculate Borrower Qualifying Ratios and Changes to Underwriting Investor Applications | 10/20/1989 | X |
151 | Servicing FHA-Insured Loans Affected by Hurricane Hugo (September 1989) | 11/3/1989 | X |
152 | Mortgagee Requirements to Process and Execute A Release From Personal Liability on a Mortgage Note for ANY HUD-Insured One-to-Four Family Mortgage | 11/7/1989 | X |
153 | Servicing FHA-Insured Mortgages Affected by the Earthquake (October 17, 1989) | 11/9/1989 | X |
154 | Single Family Default Monitoring System (SFDMS)—Addition of Status Codes | 12/20/1989 | X |
155 | Checklist of Housing Mortgagee Letters | 1/18/1989 | X |
156 | Single Family Default Monitoring System (SFDMS) Reporting Errors and Problems | 12/20/1989 | X |
157 | Single Family Loan Production—Implementation of Certain Provisions of the “Department of Housing and Urban Development Reform Act of 1989” | 12/26/1989 | X |
158 | Additional Requirements of Section 143 of the Internal Revenue Code of 1986 Which Affect FHA Assumption Policy | 12/27/1988 | X |
159 | Attachment to Mortgagee Letter 89-4 | 1/1/1989 | X |
160 | HUD-Approved Housing Counseling Agencies | 1/9/1989 | X |
161 | Revised Requirements—Implementation of the Housing and Community Development Act of 1987—Single Family Provisions—(ML 88-2); Assumption Processing—Time Frame | 1/19/1989 | X |
162 | Revision to Mortgagee Letter 88-2, Assumption Policy | 1/19/1989 | X |
163 | Growing Equity Mortgage Program | 1/19/1989 | X |
164 | Claims Without Conveyance of Title (CWCOT)—First Year End Concerns | 1/30/1989 | X |
165 | Revised Single Family Subdivision Processing Requirements—VA/CRVs and MCRVs | 2/1/1989 | X |
166 | Checklist of Housing Mortgagee Letters | 1/18/1989 | X |
167 | Single Family Default Monitoring System (SFDMS) | 7/27/1990 | X |
168 | Update of Foreclosure Time Frames | 8/14/1990 | X |
169 | Single Family Default Monitoring System (SFDMS) Change to Instructions for Completing Form HUD-92068-A | 8/28/1990 | X |
170 | Implementation of New Foreclosure Time Frames | 2/14/1990 | X |
171 | Change in Maximum Interest Rates | 2/22/1990 | X |
172 | Changes to HUD's Occupied Conveyance Procedures | 2/11/1991 | X |
173 | Allowable Attorney Fees and Foreclosure and Acquisition Costs on FHA Single Family Claims | No Date | X |
174 | Claims Without Conveyance of Title (CWCOT)—Deficiency Judgment Bidding and Reimbursement Procedures | 3/11/1991 | X |
175 | Soldiers' and Sailors' Civil Relief Act of 1940 Section 235 Factor Tables | 4/23/1991 | X |
176 | A.—Procedures for Reconveyance B.—Procedures for Reimbursement to Lenders on Uninsured Cases | 4/25/1991 | X |
177 | Announcement Of HUD's Pre-Foreclosure Sale Program Demonstration | 9/25/1991 | X |
178 | Occupied Conveyance of One-to-Four-Family Properties | 11/1/1991 | X |
179 | Effect of Soldiers' and Sailors' Civil Relief Act of 1940 on FHA-insured Mortgages | 1/30/1991 | X |
180 | Expansion Of HUD's Pre-Foreclosure Sale (PFS) Program Demons | 1/6/1993 | X |
181 | Servicing FHA-Insured Mortgages Affected by the Flood of 1993 | 7/15/1993 | X |
182 | Single Family Default Monitoring System: Introduction of Revised Form HUD-92068A; and Recent Policy Changes | 8/11/1993 | X |
183 | Allowable Attorney's and Trustee's Fees Mortgagees May Charge to Mortgagors | 9/28/1993 | X |
184 | First Legal Action to Commence Foreclosure in the State of Connecticut | 10/21/1993 | X |
185 | Single Family Loan Production—Compliance with the 1992 Model Energy Code—Additional Instructions and Follow-Up to Mortgagee Letter 93-26—(Superseded in part by HUD Handbook 4000.1) | 10/22/1993 | X |
186 | Single Family Loan Servicing Fees and Charges After Endorsement—Charges to mortgagors | 10/28/1993 | X |
187 | Referral Fees Charged for Reverse Mortgages | 4/11/1997 | X |
188 | Ending Referral Fees Charged by Companies for HUD Reverse Mortgages | 4/11/1997 | X |
189 | Document 98-28 Attachment | 10/21/1998 | X |
190 | Single Family Loan Production: Clarifications Regarding the Homebuyer Protection Plan | 12/31/1997 | X |
191 | Home Equity Conversion Mortgage Calculation Software | 12/10/1999 | X |
192 | Single Family Loan Production—Increase in FHA Maximum Mortgage Limits | 10/21/1998 | X |
193 | Adjustable Rate Mortgages—Addition of LIBOR Index | 10/12/2007 | X |
194 | Home Equity Conversion Mortgage Program—Non FHA-Approved Mortgage Brokers | 5/16/2008 | X |
195 | Home Equity Conversion Mortgages—Fixed Interest Rate | 3/28/2008 | X |
196 | Home Equity Conversion Mortgages (HECM); Signature Reduction, Clarification of Required FHA Documents and Revised Instruction to “Residential Loan Application for Reverse Mortgages“—Single Family | 9/29/2004 | X |
197 | Home Equity Conversion Mortgage (HECM) Program—Delayed Effective Date for Mortgagee Letter 2004-25 Instructions | 7/22/2004 | X |
198 | Refinancing Existing Home Equity Conversion Mortgages (HECM) and Revision to the HECM Calculation Software—Single Family | 4/23/2004 | X |
199 | Home Equity Conversion Mortgage (HECM)—Interest Rate Lock-Ins | 9/24/2003 | X |
200 | Home Equity Conversion Mortgage Program (HECM) Servicing and Claim Issues | 6/25/2001 | X |
201 | Home Equity Conversion Mortgages (HECMs) in Texas (Supplement to Mortgagee Letter 00-09 dated March 8, 2000) and instructions on using HECM Mortgage Calculation Software (Supplement to Mortgagee Letter 99-36, dated December 10, 1999) | 8/30/2000 | X |
202 | Revisions to the Home Equity Conversion Mortgages (HECMs) Program | 3/8/2000 | X |
203 | Home Equity Conversion Mortgages (HECMs) in Texas | 3/8/2000 | X |
204 | Home Equity Conversion Mortgage (HECM) Insurance Program—Lapse of Insuring Authority • Attachment (6/25/2001). • Attachment 1 (12/28/2001). • Attachment 2 (12/28/2001). | 9/29/1995 | X |
205 | Single Family Loan Production—Increase in FHA Maximum Mortgage Limits • Attachment I (12/31/2002). • Attachment II (12/31/2002). | 12/28/2001 | X |
206 | Single Family Loan Production—Increase in FHA Maximum Mortgage Limits • Attachment (8/28/2003). | 12/31/2002 | X |
207 | Revisions to FHA Maximum Mortgage Areas and Limits • Attachment 1 (12/31/2003). • Attachment 2 (12/31/2003). | 8/28/2003 | X |
208 | Single Family Loan Production—Increase in FHA Maximum Mortgage Limits | 12/31/2003 | X |
209 | Revised “Residential Loan Application for Reverse Mortgages” Required for Home Equity Conversion Mortgage (HECM) • Attachment (4/23/2004). • Attachment (9/29/2004). • Attachment (11/1/2004). | 4/2/2004 | X |
210 | Property Flipping Prohibition Exemption in Presidentially-declared Major Disaster Areas in Midwestern States | 11/24/2008 | X |
211 | Pre-Foreclosure Sale Program—Claims Instructions | 3/24/1992 | X |
212 | Servicing FHA-Insured Mortgages Affected by the Los Angeles Riots (April 30, 1992) | 5/22/1992 | X |
213 | Servicing FHA-Insured Mortgages Affected by Hurricane Andrew | 8/28/1992 | X |
214 | Assistance to Mortgagors Adversely Affected by Hurricane Andrew | No Date X | X |
215 | Single Family Default Monitoring System: Introduction of Monthly Error Reports and Policy Clarifications | 4/14/1994 | X |
216 | Deeds-in-lieu of Foreclosure | 4/19/1994 | X |
217 | Single Family Loan Production—Increase in FHA Maximum Mortgage Limits | 10/21/1998 | X |
218 | “Reinventing” FHA—Opening of Single Family Homeownership Centers | 10/7/1996 | X |
219 | 1997 Preservation and Protection/Post Endorsement Guidelines and Fee Schedules • Attachment (4/2/2004). | No Date | X |
220 | Changes to the Home Equity Conversion Mortgage Program Requirements | 9/3/2013 | X |
221 | IRS Tax Credit Summary | 1/4/2011 | X |
222 | Annual Revisions to Base City High Cost Percentage, High Cost Area and Per Unit Substantial Rehabilitation Threshold for 2019 | 5/20/2019 | X |
223 | Annual Revisions to Base City High Cost Percentage, High Cost Area and Per Unit Substantial Rehabilitation Threshold for 2018 | 5/23/2018 | X |
224 | Annual Revisions to Base City High Cost Percentage, High Cost Area and Per Unit Substantial Rehabilitation Threshold for 2017 | 8/31/2017 | X |
225 | Online Versions of Handbooks 4155.1, Mortgage Credit Analysis for Mortgage Insurance; and 4155.2, Lenders' Guide to Single Family Mortgage Insurance Processing | 4/9/2009 | X |
226 | Revision of Mortgagee Letter ML 10-30, Extension of Temporary Authority for Multifamily Hubs to Process Waiver Requests Pertaining to the Three-Year Rule for Section 223(f)1 | 2/17/2011 | X |
227 | Revisions to Large Loan Risk Mitigation Policies | 2/28/2014 | X |
228 | HUD Office of Multifamily Development Radon Policy | 1/31/2013 | X |

Appendix F—Housing/FHA Notices and Other Guidance
| Name of document | Date | Arch | Remove
1 | Funding Procedures Applicable to FHA-Field Office Procurements • Attachment 1. • Attachment 2. • Attachment 3. • Attachment 4. | 10/22/1999 | X |
2 | Deposit of FHA Funds | 4/1/1997 | X |
3 | Fire Safety Equipment Loan Insurance Program for Nursing Homes | No Date | X |
4 | Accounts Receivable (“AR”) Financing | 11/17/2008 | X |
5 | Document 01-03 Appendices | 03/09/2001 | X |
6 | Hospital Mortgage Insurance: Section 223(f) Refinancing in Conjunction with Section 242 Financing—Amendments to Threshold Criteria | 2/22/2010 | X |
7 | Hospital Mortgage Insurance: Section 223(f) Refinancing in Conjunction with Section 242 Financing | 7/1/2009 | X |
8 | Rider to HUD-92323-ORCF, Operator Security Agreement | 9/6/2013 | X |
9 | Single Family Mortgage Insurance Case Binder Submission, Maintenance | 7/1/1991 | X |
10 | Land Planning Procedures and Data for Insurance for Home Mortgage | 4/1/1973 | X |
11 | Home Mortgage Insurance Condominium Units | 7/1/1973 | X |
12 | Mortgage Assignment Processing and Secretary-Held Servicing | 3/24/1995 | X |
13 | Extension of “Revitalization Area Evaluation Criteria—Single Family Property Disposition” | 12/12/2001 | X |
14 | Extension of “$1 Home Sales to Local Governments Program” | 6/11/2001 | X |
15 | Reinstatement and Extension of Notice H 94-66 (HUD), Recapture of Section 235 Assistance Payment Guide | 5/29/2002 | X |
16 | Revitalization Area Evaluation Criteria—Single Family Property Disposition | 7/15/2003 | X |
17 | Elimination of Lead-Based Paint Hazards in HUD-Owned Single Family Properties Built Before 1978 and Sold with FHA-Insured Financing | 12/23/2003 | X |
18 | Secretary-Held Mortgages—The Interest Rate Reduction Program | 7/12/2004 | X |
19 | Radon Gas and Mold Notice and Release Agreement | 5/28/2004 | X |
20 | Revitalization Area Evaluation Criteria—Single Family Property Disposition | 4/6/2005 | X |
21 | Extension of Housing Notice H 2005-09, Revitalization Area Evaluation Criteria—Single Family Property Disposition | 4/14/2006 | X |
22 | Extension of Housing Notice H 2005-14, Lead Disclosure Requirements and Addendum Format | 6/20/2006 | X |
23 | Home Equity Conversion Mortgage Program—Consolidation of Pricing Options and Principal Limit Factors for Fixed Interest Rate Mortgages | 1/30/2013 | X |
24 | Closing Agent Services Request for Proposal (RFP) Format (Single Family Property Disposition) | 4/23/1990 | X |
25 | Maintenance of the Claims Without Conveyance of Title (CWCOT) Case Files | 9/20/1990 | X |
26 | Monitoring of Monthly Mortgage Insurance Premium (MIP) Remittances (Limited Scope) | 1/25/1991 | X |
27 | Solicitation and Requirements for Single Family Real Estate Asset Management (REAM) Services | 2/6/1991 | X |
28 | Claims Without Conveyance of Title (CWCOT) Deficiency Judgment Bidding and Reimbursement Procedures | 3/11/1991 | X |
29 | RESCISSION—Acceleration of Mortgages Subject to the Housing and Community Development Act of 1987 and the Department of Housing and Urban Development Reform Act of 1989 | 3/14/1991 | X |
30 | Additional Information—Monthly Mortgage Insurance Premium (MIP) Remittances | 7/29/1991 | X |
31 | Lease and Sale of Acquired Single Family Properties for the Homeless—Housing Responsibilities | 11/7/1991 | X |
32 | Revision & Extension of H 90-83/Instructions to Field Offices on Implementation of Single Family Demonstration Program for Sale of Properties to Nonprofits and Government Entities | 11/15/1991 | X |
33 | Single Family Claims for Insurance Benefits: Changes in the Requirements for Preservation and Protection of Insured Properties | 12/5/1991 | X |
34 | Failure to Abide by HUD's Earnest Money Policy | 1/28/1992 | X |
35 | Designation of Authority and Responsibility for Decentralized Single Family Foreclosure Management and Contract Administration | 2/27/1992 | X |
36 | Supervisory Review and Management of the Assigned Single Family Mortgage Portfolio (Material Weakness 89-15) | 3/11/1992 | X |
37 | Extension of Notice H 91-34 (HUD), Procedures for Reconveyance and Procedures for Reimbursement to Lenders on Uninsured Cases | 4/13/1992 | X |
38 | Extension of Notice H 91-24 (HUD), Rescission—Acceleration of Mortgages Subject to the Housing and Community Development Act of 1987 and the Department of Housing and Urban Development Reform Act of 1989 | 4/13/1992 | X |
39 | Extension of Notice H 91-20, Fraud, Waste and Mismanagement Vulnerability Secretary-Held Mortgages—Section 235 | 4/13/1992 | X |
40 | Extension of Notice H 91-23 (HUD) Claims Without Conveyance of Title (CWCOT)—Deficiency Judgment Bidding and Reimbursement Procedures | 4/13/1992 | X |
41 | Servicing FHA-insured Mortgages Affected by the Los Angeles Riots (April 30, 1992) REGION IX (LOS ANGELES OFFICE ONLY) | 5/22/1992 | X |
42 | Extensions of Closing Agent Services Request for Proposal (RFP) Format Single Family Property Disposition | 6/15/1992 | X |
43 | Extension of Notice, Claims Without Conveyance of Title (CWCOT) Reporting | 5/31/1992 | X |
44 | Extension of Single Family Development—Extension of Reciprocity in the Approval of Subdivisions | 6/15/1992 | X |
45 | Revision to Notice H 91-91, Lease and Sale of Acquired Single Family Properties For the Homeless—Housing Responsibilities | 1/13/1992 | X |
46 | Revised Lead-Based Paint Hazard Notice and Disclosure Requirements | 8/11/1992 | X |
47 | Single Family Accounting Management System Internal Controls | 8/12/1992 | X |
48 | Extension of Notice 91-63, Extension of Time Requirement for Single Family Claims for Insurance Benefits | 8/11/1992 | X |
49 | Extension of Notice 91-75 (HUD), Requests for Payment of Property Disposition Procurement—SAMS 1106 Form, Invoice Transmittal | 8/11/1992 | X |
50 | Extension of Notices H 90-51 and H 91-74, Single Family Property Disposition Pricing of Properties | 8/11/1992 | X |
51 | The Interest Rate Reduction Program | 8/13/1992 | X |
52 | Monitoring Mortgagees During On-site Reviews in Compliance with the Provisions of the Housing and Urban Development Act of 1968 as amended—Single Family | 8/28/1992 | X |
53 | Monitoring Real Estate Asset Managers and Closing Agents | 9/28/1992 | X |
54 | Extension of Notice H 91-91, Lease and Sale of Acquired Single Family Properties for the Homeless—Housing Responsibilities | 10/26/1992 | X |
55 | Extension of Notice H 91-94, Single Family Claims for Insurance Benefits: Changes in the Requirements for Preservation and Protection of Insured Properties | 11/17/1992 | X |
56 | Extension of Notice H 91-92 (HUD), Revision & Extension of H 90-83/Instructions to Field Offices on Implementation of Single Family Demonstration Program for Sale of Properties to Nonprofits and Government Entities | 11/20/1992 | X |
57 | Clarification of Solicitation Document for Real Estate Asset Management (REAM) Contracts | 1/17/1992 | X |
58 | Fiscal Year 1993 Special Marketing Tools | 12/3/1992 | X |
59 | Civil Money Penalties Implementation of the HUD Reform Act of 1989 | 12/11/1992 | X |
60 | Requirement to Provide State and Local Tax Information to Providers in the Single Family Homeless Initiative Program and Start of FY' 93 Inventory Guidelines by Region | 12/18/1992 | X |
61 | Extension of Notice H 91-12 (HUD), Solicitation and Requirements for Single Family Real Estate Asset Management (REAM) Services | 2/26/1993 | X |
62 | Extension of Notice H 92-18 (HUD), Designation of Authority and Responsibility for Decentralized Single Family Foreclosure Management and Contract Administration | 2/26/1993 | X |
63 | Reinstatement and extension of Notice H 91-65 (HUD), Additional Information—Monthly Mortgage Insurance Premium (MIP) Remittances | 2/26/1993 | X |
64 | Electronic Data Interchange of Form HUD-27011 and Title Approval Letters | 3/5/1993 | X |
65 | Single Family Development and Management Directive—Revised Section 235(r) Refinance Program | 3/9/1993 | X |
66 | Extension of Notice H 92-26 (HUD), Supervisory Review and Management of the Assigned Single Family Mortgage Portfolio (Material Weakness 89-15) | 3/24/1993 | X |
67 | Extension of Notice H 92-10 (HUD), Failure to Abide by HUD's Earnest Money Policy | 1/13/1993 | X |
68 | Reinstatement and extension of Notice H 91-24 (HUD), Rescission—Acceleration of Mortgages Subject to the Housing and Community Development Act of 1987 and the Department of Housing & Urban Development Reform Act of 1989 | 4/30/1993 | X |
69 | Reinstatement and extension of Notice H 91-20 (HUD), Fraud, Waste and Mismanagement Vulnerability Secretary-Held Mortgages—Section 235 | 4/1/1993 | X |
70 | Reinstatement and extension of Notice H 91-34 (HUD), Procedures for Reconveyance and Procedures for Reimbursement to Lenders on Uninsured Cases | 4/26/1993 | X |
71 | Reinstatement and extension of Notice H 91-23 (HUD), Claims Without Conveyance of Title (CWCOT)—Deficiency Judgement Bidding and Reimbursement Procedures | 4/1/1993 | X |
72 | Form SAMS-1116A, Selling Broker Information and Certification | 6/11/1993 | X |
73 | Extension of Notice H 92-8 (HUD), Clarification of Solicitation Document for Real Estate Asset Management (REAM) Contracts | 1/13/1993 | X |
74 | Single Family Claim Reviews | 7/1/1993 | X |
75 | “Byrd Amendment”—Limitation on Payments made to Influence Certain Federal Financial and Contracting Transactions | 6/21/1993 | X |
76 | Rescinding Quarterly Reporting for the Single Family Deficiency Judgment Program | 6/28/1993 | X |
77 | Extension of Notice H 90-31 (HUD), Closing Agent Services Request for Proposal (RFP) Format (Single Family Property Disposition) | 6/30/1993 | X |
78 | Extension of Notice H 92-5 (HUD), Revision to Notice H 91-91, Lease and Sale of Acquired Single Family Properties for the Homeless—Housing Responsibilities | 1/14/1993 | X |
79 | Lease of HUD-Owned Single Family Properties to State and Local Governments For Use In Law Enforcement | 8/17/1993 | X |
80 | Changes and Clarifications of Existing Procedures on Compromises and Write-offs of Secretary-held Mortgages | 9/9/1993 | X |
81 | Change of Notice Number H 93-62 (HUD): Extension of Notice H 92-62 (HUD), Revised Lead-Based Paint Hazard Notice and Disclosure Requirements, Dated August 24, 1993 | 9/14/1993 | X |
82 | Sale of HUD Owned Properties to HOPE 3 Grant Recipients | 1/19/1993 | X |
83 | Extension of Notice H 92-73 (HUD): Monitoring Real Estate Asset Managers and Closing Agents | 9/20/1993 | X |
84 | Military Base Closings | 9/30/1993 | X |
85 | Reinstatement and Extension of Notice H 92-63 (HUD): Single Family Accounting Management System Internal Controls | 10/4/1993 | X |
86 | Policy And Procedural Guidelines For Paying Taxes Through SAMS And The Service Center | 2/26/1993 | X |
87 | Reinstatement and Extension of Notice H 90-71 (HUD): Maintenance of the Claims Without Conveyance of Title (CWCOT) Case Files | 10/20/1993 | X |
88 | Modified Sales Procedures Single Family Property Disposition | 10/25/1993 | X |
89 | Extension of Notice H 92-83 (HUD): Lease and Sale of Acquired Single Family Properties for the Homeless—Housing Responsibilities | 11/8/1993 | X |
90 | Designation of “Revitalization Areas” for FY '94 in the Single Family Property Disposition Sales Program | 11/10/1993 | X |
91 | Pilot Program—Single Family Property Disposition Program Referral of Delinquent Former Tenant Accounts to Debt Management Centers | 11/12/1993 | X |
92 | Fiscal Year 1994 Special Marketing Tools | 12/7/1993 | X |
93 | Reinstatement and Extension of Notice H 92-67 (HUD): The Interest Rate Reduction Program | 12/8/1993 | X |
94 | System Security Procedures for the Single Family Accounting Management System (SAMS) | 12/27/1993 | X |
95 | Extension of Notice H 91-6 (HUD), Monitoring of Monthly Mortgage Insurance Premium (MIP) Remittances (limited Scope) | 2/26/1993 | X |
96 | Extension of Notice H 93-38 (HUD), Form SAMS-1116A, Selling Broker Information and Certification | 6/16/1994 | X |
97 | New HUD Single Family Nonjudicial Foreclosure Statute | 11/22/1995 | X |
98 | Extension of Notice H 91-6 (HUD), Monitoring of Monthly Mortgage Insurance Premium (MIP) Remittance (Limited Scope) and Notice H 91-65 (HUD), Additional Information—Monthly Mortgage Insurance Premium (MIP) Remittances | 3/31/1995 | X |
99 | Revisions to the Single Family Property Disposition Homeless Program | 4/21/1995 | X |
100 | Extension of Notice H 91-24 (HUD), Rescission—Acceleration of Mortgages Subject to the Housing and Community Development Act of 1987 and the Department of Housing & Urban Development Reform Act of 1989 | 4/28/1995 | X |
101 | Changes to the FHA Single Family Maximum Mortgage Limits | 5/8/1995 | X |
102 | Reinstatement and Extension of Notice H 92-67 (HUD), The Interest Rate Reduction Program | 1/1/1995 | X |
103 | Extension of Notice H 94-43 (HUD), Revision to the SFPD Homeless Initiative Program | 6/19/1995 | X |
104 | Designation of FY '95 Revitalization Areas | 1/20/1995 | X |
105 | Extension of Notice H 94-49 (HUD), 1992 Amendments to the Single Family Regulations | 6/27/1995 | X |
106 | Elimination of Monetary Limits for Field Office Approval of Compromises and Write-offs of Secretary-Held Mortgages | 6/27/1995 | X |
107 | Extension of Notice H 94-49 (HUD), 1992 Amendments to the Single Family Regulations | 7/13/1995 | X |
108 | Extension of Notice H 93-58 (HUD), Lease of HUD-Owned Single Family Properties to State and Local Governments for Use In Law Enforcement | 8/31/1995 | X |
109 | Use of Single Family Acquired Properties by Law Enforcement Agencies for Operation Safe Home | 11/7/1995 | X |
110 | Extension of Notice H 94-66 (HUD), Recapture of Section 235 Assistance Payments Guide (For Field Office Use Only) | 9/30/1995 | X |
111 | Reinstatement and Extension of Notice H 94-74 (HUD), Revisions to Single Family Property Disposition Sales Procedures | 10/11/1995 | X |
112 | Reinstatement and Extension of Notice H 90-31, Closing Agent Services Request for Proposal (RFP) Format Single Family Property Disposition | 10/11/1995 | X |
113 | Fiscal Year 1996 Special Marketing Tools | 11/20/1995 | X |
114 | Correction to Notice H 96-91 (Extension of HUD Notice H 95-99, Fiscal Year 1996 Special Marketing Tools) | 11/27/1996 | X |
115 | Extension of Notice 95-82 (HUD), Use of Single Family Acquired Properties by Law Enforcement Agencies for Operation Safe Home | 11/29/1996 | X |
116 | Temporary Suspension of New Leases under the Single Family Property Disposition Homeless Program, Lease with Option to Purchase | 12/31/1996 | X |
117 | Extension of Notice H 95-15 (HUD), Single Family Property Disposition Program—Changes to procedures for Treatment of Defective Paint | 3/29/1996 | X |
118 | Extension of Notice H 91-6 (HUD), Monitoring of Monthly Mortgage Insurance Premium (MIP) Remittance (Limited Scope) and Notice H 91-65 (HUD), Additional Information-Monthly Mortgage Insurance Premium (MIP) Remittances | 3/29/1996 | X |
119 | Secretary-Held Mortgages—Assessment of Late Charges | 4/15/1996 | X |
120 | Extension of Notice H 95-34 (HUD), Revision to the Single Family Property Disposition Homeless Program | 4/30/1996 | X |
121 | Extension of Notice H 91-20 (HUD), Fraud, Waste and Mismanagement Vulnerability Secretary-Held Mortgages—Section 235 | 4/30/1996 | X |
122 | Extension of Notice H 91-20 (HUD), Fraud, Waste and Mismanagement Vulnerability Secretary-Held Mortgages—Section 235 | 4/30/1996 | X |
123 | Repayment under the Nehemiah Housing Opportunity Grants Program (NHOP) (For Field Office Use Only) | 2/6/1996 | X |
124 | Single Family Property Disposition Program—Disclosure Requirements Related to Obtaining A Home Inspection | 5/22/1996 | X |
125 | Extension of Notice H 95-62 (NOD), Elimination of Monetary Limits for Field Office Approval of Compromises and Write-offs or Secretary-Held Mortgages | 6/28/1996 | X |
126 | Extension of Notice H 94-43 (HUD), Revision to the SFPD Homeless Initiative Program | 6/28/1996 | X |
127 | Extension of Notice H 95-53 (HUD)—Revised Procedures for Determining Median House Sales Price and Establishing FHA Single Family Maximum Mortgage Limits for High Cost Areas | 6/28/1996 | X |
128 | Public Housing Homeownership Initiative | 8/7/1996 | X |
129 | Extension of Notice H 93-58 (HUD), Lease of HUD-Owned Single Family Properties to State and Local Governments for Use In Law Enforcement | 8/30/1996 | X |
130 | Extension of Notice H 95-79 (HUD), Single Family Property Disposition/Real Estate Owned Preservation and Protection—Debris Removal | 9/30/1996 | X |
131 | Extension of Notice H 94-66 (HUD), Recapture of Section 235 Assistance Payments Guide (For Field Office Use Only) | 9/30/1996 | X |
132 | Reinstatement and Extension of Notice H 92-67, The Interest Rate Reduction Program | 9/30/1996 | X |
133 | Reinstatement and Extension of Notice H 91-12 (HUD): Solicitation and Requirements for Single Family Real Estate Asset Management (RAM) Services and Notice H 92-8 (HUD), Clarification of Solicitation Document for Real Estate Asset Management (REAM) Contracts | 2/1/1996 | X |
134 | Extension of HUD Notice H 95-99, Fiscal Year 96 Special Family Housing, HS | 10/31/1996 | X |
135 | Single Family Property Disposition Program—New Initiatives Relating to Lead-Based Paint Hazards | 11/5/1996 | X |
136 | Reinstatement and Extension of Notice H 95-89 (HUD), Revisions to Single Family Property Disposition Sales Procedures | 11/6/1996 | X |
137 | Suspension Of Reserve For Replacement Releases By Mortgagees | 11/15/1996 | X |
138 | Reinstatement and Extension of Notice H 96-08 (HUD), Solicitation and Requirements for Single Family Real Estate Asset Management (REAM) Services and Notice H 92-8 (HUD), Clarification of Solicitation Document for Real Estate Asset Management (REAM) Contracts | 2/20/1997 | X |
139 | Extension of Notice H 96-17 (HUD), Single Family Property Disposition Program—Changes to Procedures for Treatment of Defective Paint | 3/27/1997 | X |
140 | Extension of Notice H 95-34 (HUD), Revision to the Single Family Property Disposition Homeless Program | 4/30/1997 | X |
141 | Revised User Fees for the Technical Suitability of Products Program | 5/1/1997 | X |
142 | Reinstatement and Extension of Notice 96-26 (HUD), Revisions to the Single Family Property Disposition Homeless Program | 7/18/1996 | X |
143 | Extension of Notice H 96-71 (HUD), Public Housing Homeownership Initiative | 7/29/1997 | X |
144 | Reinstatement and Extension of Notice 96-55 (HUD), Revision to the SFPD Homeless Initiative Program | 7/21/1997 | X |
145 | Extension of Notice H 96-75 (HUD), Lease of HUD-Owned Single Family Properties to State and Local Governments for Use In Law Enforcement | 10/22/1997 | X |
146 | Extension of HUD Notice H 96-100, Correction to Notice H 96-91 (Extension of HUD Notice H 95-99, Fiscal year 1996 Special Marketing Tools) | 10/27/1997 | X |
147 | Extension of Notice H 96-93 (HUD), Single Family Property Disposition Program—New Initiatives Relating to Lead-Based Paint Hazards | 12/2/1997 | X |
148 | Supplement to Notice H 96-45, Revised Procedures for Review and Approval of Waivers of Directives | 2/3/1997 | X |
149 | Extension of Notice H 96-101 (HUD), Use of Single Family Acquired Properties by Law Enforcement Agencies for Operation Safe Home | 12/2/1997 | X |
150 | Extension of Notice H 96-107, Temporary Suspension of New Leases under the Single Family Property Disposition Homeless Program, Lease with Option to Purchase | 12/31/1997 | X |
151 | Extension of Notice H 97-22 (HUD), Single Family Property Disposition Program—Changes to Procedures for Treatment of Defective Paint | 4/2/1998 | X |
152 | Direct Endorsement Update—Sending Copies of Rejected Loan Applications to HUD | 1/19/1990 | X |
153 | Direct Endorsement Update—Mortgagee Staff Appraisers | 8/14/1990 | X |
154 | Extension of Notice H 93-7: Policy and Procedural Guidelines for Paying Taxes Through SAMS and The Service Center | 2/23/1994 | X |
155 | Extension of Notice H 91-12 (HUD): Solicitation and Requirements for Single Family Real Estate Asset Management (REAM) Services | 2/28/1994 | X |
156 | Reinstatement and Extension of Notice H 92-18 (HUD), Designations of Authority and Responsibility for Decentralized Single Family Foreclosure Management and Contract Administrations | 3/15/1994 | X |
157 | Reinstatement and Extension of Notice H 91-6 (HUD), Monitoring of Monthly Mortgage Insurance Premium (MIP) Remittance (Limited Scope) and Notice H 91-65 (HUD), Additional Information—Monthly Mortgage Insurance Premium (MIP) Remittances | 3/15/1994 | X |
158 | Fiscal Year 1994 Request for Grant Application (RFGA) for Housing Counseling | 4/8/1994 | X |
159 | Extension of Notice H 91-20 (HUD), Fraud, Waste and Mismanagement Vulnerability Secretary-Held Mortgages—Section 235 | 4/30/1994 | X |
160 | Extension of Notice H 91-24 (HUD), Rescission—Acceleration of Mortgage Subject to the Housing and Community Development Act of 1987 and the Department of Housing & Urban Development Reform Act of 1989 | 4/30/1994 | X |
161 | Reinstatement and Extension of Notice H 92-98 (HUD) Civil Money Penalties Implementation of the HUD Reform Act of 1989 | 1/7/1994 | X |
162 | Reinstatement and Extension of Notice H 92-98 (HUD) Civil Money Penalties Implementation of the HUD Reform Act of 1989 | 1/7/1994 | X |
163 | Extension of Notice H 91-23 (HUD Claims Without Conveyance of Title (CWCOT)—Deficiency Judgement Bidding and Reimbursement Procedures | 4/30/1994 | X |
164 | Extension of Notice H 92-8 (HUD), Clarification of Solicitation Document for Real Estate Asset Management (REAM) Contracts | 1/31/1994 | X |
165 | Supplemental Claims | 5/26/1994 | X |
166 | Revisions to the SFPD Homeless Initiative Program | 6/14/1994 | X |
167 | SFPD Modified Sales Procedures | 6/16/1994 | X |
168 | Extension of Notice H 90-31 (HUD), Closing Agent Services Request for Proposal (RFP) Format (Single Family Property Disposition) | 6/16/1994 | X |
169 | Interest Rate Reduction on Secretary-held Mortgages | 8/9/1994 | X |
170 | Extension of Notice H 93-58 (HUD), Lease of HUD-Owned Single Family Properties to State and Local Governments for Use In Law Enforcement | 8/31/1994 | X |
171 | Recapture of Section 235 Assistance Payments Guide (For Field Office Use Only) | 9/2/1994 | X |
172 | Reinstatement and extension of Notice 92-10 (HUD), Failure to abide by HUD's Earnest Money Policy | 1/31/1994 | X |
173 | Single Family Property Disposition Sales Program for Public Safety Employees | 9/16/1994 | X |
174 | Form HUD 9887-A, Applicant's and Tenant's Consent to the release of Information (Used by Owners) | 9/16/1994 | X |
175 | Designation of FY '95 Revitalization Areas | 9/29/1994 | X |
176 | Fiscal Year 1995 Special Marketing Tools | 9/30/1994 | X |
177 | Reinstatement and Extension of Notice H 92-5 (HUD) Revision to Notice H 91-91, Lease and Sale of Acquired Single Family Properties For the Homeless—Housing Responsibilities | 2/10/1994 | X |
178 | Extension of Notice H 93-66 (HUD), Changes and Clarifications of Existing Procedures on Compromises and Write-offs of Secretary-held Mortgages | 10/14/1994 | X |
179 | Extension of Notice H 93-73 (HUD), Military Base Closings | 10/14/1994 | X |
180 | 1. Servicing Insured HECM Mortgages | 10/21/1994 | X |
181 | 2. HECM Assignment Processing | 10/21/1994 | X |
182 | 3. Servicing Secretary-held HECM Mortgages | 10/21/1994 | X |
183 | Single Family Property Disposition Homeless Program Fiscal Year 1995 Exception Offices | 12/1/1994 | X |
184 | Reinstatement and Extension of Notice H 93-86 (HUD), Pilot Program—Single Family Property Disposition Program Referral of Delinquent Former Tenant Accounts to Debt Management Centers | 12/15/1994 | X |
185 | H.R. Rep. 102-760 | 7/30/1992 | X |
186 | S. Rep. 102-332 | 7/23/1992 | X |
187 | Pre-Claim Collection Assistance | 9/25/1986 | X |
188 | Obtaining Appraisal Services on Manufactured Homes | 1/11/1988 | X |
189 | Third Regional Service Center Established | 11/3/1988 | X |
190 | Request for Comments and Suggestions for Possible Changes to the Title I Program | 11/3/1989 | X |
191 | Home Mortgage Disclosure Act Reporting Requirements | 8/1/1990 | X |
192 | Proposed Reform of the Title I Program | 1/29/1991 | X |
193 | Title I Express Telephone Service | 2/25/1991 | X |
194 | Imposition of Civil Money Penalties Against Title I Lenders, Dealers and Loan Correspondents Under the Department of HUD Reform Act of 1989 | 8/23/1991 | X |
195 | Change of Notification of Annual Recertification Procedures | 8/10/1992 | X |
196 | Changes in the Property Improvement Loan Program and Title I Lender Approval Requirements | 10/6/1994 | X |
197 | Title I Showcase Program | No Date | X |
198 | Waiver Of The Title I Regulations To Assist Victims Of Hurricanes Marilyn And Opal | 1/19/1996 | X |
199 | First Title I Showcase Award Made To The Philadelphia Home Improvement Loan Program | 4/10/1996 | X |
200 | Special Title I Assistance to Victims in Presidentially Declared Major Disaster Areas—Nevada, Idaho, California, South Dakota, North Dakota, Minnesota, Washington, and Oregon | 2/10/1997 | X |
201 | Special Title I Assistance to Victims in Presidentially Declared Major Disaster Areas—Arkansas, Kentucky and Ohio | 3/10/1997 | X |
202 | Special Title I Assistance to Victims in Presidentially Declared Major Disaster Areas-Indiana, Tennessee, West Virginia and additional counties | 3/19/1997 | X |
203 | Special Title I Assistance to Victims in Presidentially Declared Major Disaster Areas—Illinois | 4/1/1997 | X |
204 | Declared Major Disaster Areas—Minnesota, North Dakota, South Dakota, Washington State and Tennessee | 4/14/1997 | X |
205 | Special Title I Assistance to Victims in Presidentially Declared Major Disaster Areas—Arkansas | 4/29/1997 | X |
206 | Major Disaster Areas—Additional Counties added to the Previous Disaster Declarations for Minnesota | 5/16/1997 | X |
207 | Planned Reform of the Property Improvement Loan Program | 5/29/1997 | X |
208 | Special Title I Assistance to Victims in Presidentially Declared Major Disaster Areas—Texas and Wisconsin | 7/16/1997 | X |
209 | Special Title I Assistance to Victims in Presidentially Declared Major Disaster Areas—Mississippi | 7/18/1997 | X |
210 | Special Title I Assistance to Victims in Presidentially Declared Major Disaster Areas—Alabama, Vermont, Washington State and Michigan | 8/4/1997 | X |
211 | Special Title I Assistance to Victims in Presidentially Declared Major Disaster Area—Colorado | 8/14/1997 | X |
212 | Special Title I Assistance to Victims in Presidentially Declared Major Disaster Areas—Minnesota | 9/23/1997 | X |
213 | Special Title I Assistance to Victims in Presidentially Declared Major Disaster Areas—Nebraska | 12/8/1997 | X |
214 | Special Title I Assistance to Victims in Presidentially Declared Major Disaster Areas—ME, TN, NY, FL, GU, & Northern Mariana Island | 1/15/1998 | X |
215 | Lender List on the World Wide Web | 1/15/1998 | X |
216 | Special Title I Assistance to Victims in Presidentially Declared Major Disaster Areas—North Carolina, Vermont, New Hampshire and an Additional County | 1/28/1998 | X |
217 | Special Title I Assistance to Victims in Presidentially Declared Major Disaster Areas—California, New Mexico and Additional Counties Added | 2/20/1998 | X |
218 | Special Title I Assistance to Victims in Presidentially Declared Major Disaster Areas | 3/26/1998 | X |
219 | Special Title I Assistance to Victims in Presidentially Declared Major Disaster Areas | 4/17/1998 | X |
220 | FHA Connection Lender Approval Functions: Adding Branches, Maintaining Institution Data, and Determining Recertification Fees | 5/14/1999 | X |
221 | Temporary Suspension of Authority to Insure Under Title I of the National Housing Act | 7/17/2000 | X |
222 | Reinstatement of General Insurance Endorsement Authority | 11/11/2000 | X |
223 | Temporary Suspension of Authority to Insure Under Title I of the National Housing Act | 9/13/2003 | X |
224 | Temporary Suspension of Authority to Insure Under Title I of the National Housing Act | 1/12/2004 | X |
225 | Electronic Payment of the Annual Recertification Fee and Downloading of the Yearly Verification Report via the FHA Connection | 5/17/2005 | X |
226 | Modifications to the Home Energy Retrofit Loan Pilot Program (FHA PowerSaver Pilot Program) | 9/18/2013 | X |
227 | FHA Consolidation of Title I and Title II Lender Identification Numbers | 3/18/2014 | X |
228 | Annual Revisions to Base City High Cost Percentage, High Cost Area and Per Unit Substantial Rehabilitation Threshold for 2019 | 5/20/2019 | X |
229 | Annual Revisions to Base City High Cost Percentage, High Cost Area and Per Unit Substantial Rehabilitation Threshold for 2018 | 5/23/2018 | X |
230 | Index of Housing Issuances | 9/27/1991 | X |
231 | Section 811 PRA Report to Congress | 5/1/2014 | X |
232 | Guidelines for Mark-Up-To-Market Nonprofit Transfers and Budget-Based Rent Increase for Capital Repairs by Nonprofit Owners | No Date | X |
233 | Admission and Occupancy Provisions of the Quality Housing and Work Responsibility Act of 1998 (QHWRA) for Multifamily Housing Programs | No Date | X |
234 | Guidelines For Calculating And Retaining Section 236 Excess Income | No Date | X |
235 | Reinstatement and Extension of HUD Notice H 99-17, Annual Adjustment Factors (AAF) | No Date | X |
236 | Review of Budget-based Rent Increase Requests from Project Owners | No Date | X |
237 | Electronic Submission Of Tenant Data Using Form HUD-50059 input to the Tenant Rental Assistance Certification System (TRACS) For Preservation Properties | 1/31/2001 | X |
238 | Guidelines For Calculating And Retaining Section 236 Excess Income | 7/27/2001 | X |
239 | Section 221(d)(3) Nonprofit Transactions | No Date | X |
240 | ***Compliance with Section 504 of the Rehabilitation Act of 1973 and the Disability/Accessibility Provisions of the Fair Housing Act of 1988 [OGCFH Concurring: We do not know to what document this entry refers and are concerned from its title that it may be a document that was jointly created with FHEO. Therefore, we strongly recommend that this document not be archived without first consulting with our office and/or FHEO.] *** | 5/30/2003 | X |
241 | Screening and Eviction for Drug Abuse and Other Criminal Activity—Final Rule | 5/24/2001 | X |
242 | Renewal of Expiring Project Rental Assistance Contracts (PRACS) for Projects Under the Section 202 Program of Supportive Housing for the Elderly and the Section 811 Program of Supportive Housing for Persons with Disabilities | 8/31/2003 | X |
243 | Revised Prepayment of Direct Loans on Section 202 and 202/8 Projects | 7/26/2019 | X |
244 | Section 8 Project-Based Rent Adjustments Using the Annual Adjustment Factor (AAF) | 11/8/2017 | X |
245 | Technical Corrections To Notice H 01-07—Guidelines For Calculating And Retaining Section 236 Excess Income | No Date | X |
246 | Guidance on Asset Management Issues Concerning Bond Financed Section 8 Projects | No Date | X |
247 | Office of Management and Budget Mandated Reporting Changes to Race and Ethnicity Categories | No Date | X |
248 | Guidance to Contract Administrators on Providing Information to Law Enforcement on Fugitive Felons | No Date | X |
249 | Reinstatement and Extension of HUD Notice H 2002-10, Section 8 Project-Based Rent Adjustments Using the Annual Adjustment Factor (AAF) | 7/5/2004 | X |
250 | Verification of Immigration Status in HUD-Assisted Properties | No Date | X |
251 | Deployment of Military Personnel to Active Duty | No Date | X |
252 | Income calculation and verification guidance regarding Medicare Prescription Drug Cards and Transitional Assistance | 11/10/2004 | X |
253 | Prepayments Subject to Section 250(a) of the National Housing Act | 11/2014 | X |
254 | Income calculation regarding Medicare Prescription Drug Cards and Transitional Assistance | 7/30/2005 | X |
255 | Prepayment of Direct Loans on Section 202 and 202/8 Projects with Inclusion of FHA Mortgage Insurance Guidelines | 8/31/2003 | X |
256 | Reinstatement and Extension of Notice H 99-13, Revised Asset Management Procedures | No Date | X |
257 | Procedures for Preparing, Submitting & Reviewing Rent Comparability Studies | No Date | X |
258 | Guidelines for Continuation of Interest Reduction Payments after Refinancing: “Decoupling”, under Section 236(e)(2) and refinancing of insured Section 236 projects into non-insured Section 236(b) projects | 5/2000 | X |
259 | Reinstatement and Extension of Notice H 95-55, Procedures for Implementing Section 214 of the Housing and Community Development Act of 1980, as amended—Restrictions on Assistance to Noncitizens | 11/30/2002 | X |
260 | Guidelines for Continuation of Interest Reduction Payments after Refinancing: “Decoupling”, under Section 236(e)(2) and refinancing of insured Section 236 projects into non-insured Section 236(b) projects | No Date | X |
261 | Extension of Notice H 95-38 Secondary Financing by Public Bodies for Section 202 and Section 811 Projects | 12/31/2003 | X |
262 | Guidelines for Continuation of Interest Reduction Payments after Refinancing: “Decoupling”, Under Section 236(e)(2) and Refinancing of Insured Section 236 Projects into Non-Insured Section 236(b) Projects | 5/2000 | X |
263 | Extension of Notice H 01-07, Guidelines for Calculating and Retaining Section 236 Excess Income as clarified by Notice H 02-09, Technical Corrections to Notice H 01-07 issued on May 10, 2002 | 5/31/2003 | X |
264 | Reinstatement and Extension of Notice 00-26, Prepayment of Direct Loans on Section 202 and 202/8 Projects with Inclusion of FHA Mortgage Insurance Guidelines | 5/31/2003 | X |
265 | Reinstatement and Extension of Notice 96-19, Telecommunications Service Contracts between Telecommunications Service Providers and Project Owners | 12/31/2004 | X |
266 | Reinstatement and Extension of Notice 97-31, Lead-Based Paint: Notification of Purchasers and Tenants in HUD-Insured, HUD-Held and HUD-Subsidized Housing | 1/31/2006 | X |
267 | Reinstatement and Extension of Notice 97-49, Backing-Out Trustee Sweep Savings Before Calculating AAFs for Projects which Originally Received a Financial Adjustment Factor (FAF) and whose Bonds were Refunded | 12/31/2007 | X |
268 | Guidelines For Continuation of Interest Reduction Payments after Refinancing: “Decoupling,” Under Section 236 (e) (2) and Refinancing of Insured Section 236 Projects into Non-Insured Section 236 (b) Projects | 5/2000 | X |
269 | Extension of Notice H 02-14, Guidelines for Calculating and Retaining Section 236 Excess Income as clarified by Notice H 02-09, Technical Corrections to Notice H 01-07 issued May 10, 2002 | 7/31/2004 | X |
270 | Compliance with Section 504 of the Rehabilitation Act of 1973 and the Disability/Accessibility Provisions of the Fair Housing Act of 1988 | 5/30/2003 | X |
271 | Reinstatement/Extension of Notice H03-23—Office of Management and Budget Mandated Reporting Changes to Race and Ethnicity Categories | 12/31/2005 | X |
272 | Disaster Recovery Guidance by Multifamily Housing After a Presidentially-Declared Disaster | 11/27/2018 | X |
273 | Reinstatement and Extension of HUD Notice 03-17, Guidelines For Continuation of Interest Reduction Payments after Refinancing: “Decoupling,” Under Section 236 (e) (2) and Refinancing of Insured Section 236 Projects into Non-Insured Section 236 (b) Projects | 11/0/2005 | X |
274 | Extension of Notice H 03-13, Guidelines for Calculating and Retaining Section 236 Excess Income | 7/31/2004 | X |
275 | Compliance with Section 504 of the Rehabilitation Act of 1973 and the Disability/Accessibility Provisions of the Fair Housing Act of 1988 | 5/30/2003 | X |
276 | Revised Prepayment of Direct Loans on Section 202 and Section 202/8 Projects with Inclusion of FHA Mortgage Insurance Guidelines | 8/30/2003 | X |
277 | Enterprise Income Verification (EIV) System | 11/2/2018 | X |
278 | Supplemental Information to Application for Assistance Regarding Identification of Family Member, Friend or Other Person or Organization Supportive of a Tenant for Occupancy in HUD Assisted Housing | 5/9/2012 | X |
279 | Eligibility of Projects for Mortgage Insurance where Construction has Started | No Date | X |
280 | State Lifetime Sex Offender Registration | No Date | X |
281 | Delegated Processing Procedures | No Date | X |
282 | Temporary Authority for Multifamily Hubs to Process Waiver Requests Pertaining to the Three-Year Rule for Section 223(f) | 2/6/2009 | X |
283 | Guidelines for Assumption, Subordination, or Assignment of Mark-to-Market (M2M) Program Loans in Transfer of Physical Assets (TPA) and Refinance Transactions | 5/5/2012 | X |
284 | Guidelines for Assumption, Subordination, or Assignment of Mark-to-Market (M2M) Program Loans in Transfer of Physical Assets (TPA) and Refinance Transactions | 5/5/2012 | X |
285 | Enterprise Income Verification (EIV) System | 11/2/2018 | X |
286 | Fiscal Year 2007 Annual Operating Cost Standards—Section 202 Supportive Housing for the Elderly and Section 811 Supportive Housing for Persons with Disabilities Programs | 10/31/2008 | X |
287 | Guidelines for Assumption, Subordination, or Assignment of Mark-to-Market (M2M) Program Loans in Transfer of Physical Assets (TPA) and Refinance Transactions | 5/5/2012 | X |
288 | Fiscal Year 2007 Policy for Capital Advance Authority Assignments, Instructions and Program Requirements for the Section 202 and Section 811 Capital Advance Programs, Application Processing and Selection Instructions, and Processing Schedule | No Date | X |
289 | Fiscal Year 2007 Interest Rate for Section 202 and Section 811 Capital Advance Projects | 5/31/2008 | X |
290 | Guidelines for Continuation of Interest Reduction Payments after Refinancing: Decoupling, Under Section 236(e)(2) and Refinancing of Insured Section 236 Projects into Non-Insured Section 236(b) Projects | No Date | X |
291 | Disaster Recovery Guidance by Multifamily Housing After a Presidentially-Declared Disaster | 9/2/2010 | X |
292 | Maintenance of the Claims Without Conveyance of Title (CWCOT) Case Files | No Date | X |
293 | Closing Agent Services Request for Proposal (RFP) Format (Single Family Property Disposition) | No Date | X |
294 | Extension of Notice H 91-4 (HUD)—Section 8 Contract Rents—Retroactive Payments | 1/31/1993 | X |
295 | Extension of Notice H 91-1 (HUD)—Collection of Overdue Excess Income—Section 236 Multifamily Housing Projects | 1/31/1993 | X |
296 | Permissible Uses of Secondary Financing for Section 202 Projects | No Date | X |
297 | Single Family Claims for Insurance Benefits: Changes in the Requirements for Preservation and Protection of Insured Properties | No Date | X |
298 | Revision & Extension of H 90-83/Instructions to Field Offices on Implementation of Single Family Demonstration Program for Sale of Properties to Nonprofits and Government Entities | 11/28/1990 | X |
299 | Lease and Sale of Acquired Single Family Properties for the Homeless—Housing Responsibilities | 11/30/1994 | X |
300 | Delegated Processing Procedures | No Date | X |
301 | Processing and Approving the Disposition of HUD-Owned Multifamily Projects | No Date | X |
302 | Early Warning System for Multifamily Housing Projects | No Date | X |
303 | Additional Information—Monthly Mortgage Insurance Premium (MIP) Remittances | No Date | X |
304 | Technical Corrections, Delegated Processing Procedures | 7/31/1992 | X |
305 | Reinstatement and extension of Notice H 90-1 (HUD), Secondary Financing by Public Bodies for Section 202 Projects | 6/30/1993 | X |
306 | Delegated Processing Procedures | No Date | X |
307 | RESCISSION—Acceleration of Mortgages Subject to the Housing and Community Development Act of 1987 and the Department of Housing and Urban Development Reform Act of 1989 | 3/31/1992 | X |
308 | Claims Without Conveyance of Title (CWCOT) Deficiency Judgment Bidding and Reimbursement Procedures | No Date | X |
309 | Solicitation and Requirements for Single Family Real Estate Asset Management (REAM) Services | 2/28/1997 | X |
310 | Monitoring of Monthly Mortgage Insurance Premium (MIP) Remittances (Limited Scope) | No Date | X |
311 | Phase-in of Tenant Rents after Plan of Action Implementation | No Date | X |
312 | Requirement to Provide State and Local Tax Information to Providers in the Single Family Homeless Initiative Program and Start of FY' 93 Inventory Guidelines by Region | No Date | X |
313 | Civil Money Penalties Implementation of the HUD Reform Act of 1989 | No Date | X |
314 | Processing HUD Insured Projects Involving Low Income Housing Tax Credits Using Form HUD-92264-T | 12/31/1993 | X |
315 | Fiscal Year 1993 Special Marketing Tools | No Date | X |
316 | Extension of Notice H 91-100, Permissible Uses of Secondary Financing for Section 202 Projects | 12/31/1993 | X |
317 | Extension of Notice H 91-99, Review of Section 202 Applications for Projects for the Elderly in FY 1990 in Areas with Limited Market Demand | 12/31/199 | X |
318 | Extension of Notice H 91-98, Davis-Bacon Exclusions for Section 202 Group Homes | 12/31/1993 | X |
319 | Extension of Notice 91-96, Release of Section 202 Ratings and Rankings | 12/31/1993 | X |
320 | Extension of Notice H 91-92 (HUD), Revision & Extension of H 90-83/Instructions to Field Offices on Implementation of Single Family Demonstration Program for Sale of Properties to Nonprofits and Government Entities | 9/30/1993 | X |
321 | Extension of Notice H 91-94, Single Family Claims for Insurance Benefits: Changes in the Requirements for Preservation and Protection of Insured Properties | 12/5/1993 | X |
322 | The Disposition Of Hazard Insurance Proceeds | 6/17/1994 | X |
323 | Extension of Notice H 91-88, Delegated Processing Procedures | 10/31/1993 | X |
324 | Extension of Notice H 91-91, Lease and Sale of Acquired Single Family Properties for the Homeless—Housing Responsibilities | 11/30/1993 | X |
325 | A new form HUD 9887, Authorization for the Release of Information | 10/31/1993 | X |
326 | Processing Applications under the Preservation NOFA for Technical Assistance Planning Grants for Resident Groups, Community Groups, Community-Based Nonprofit Organizations and Resident Councils | 11/30/1995 | X |
327 | Extension of Notice H 91-84, Processing and Approving the Disposition of HUD-Owned Multifamily Projects | 10/31/1993 | X |
328 | Directors and Officers Liability Insurance vs Indemnification By The Corporation | No Date | X |
329 | Washington Docket And Amortization Schedule For Multifamily Mortgage Insurance Projects | No Date | X |
330 | Transmittal of Smoke Detector Final Rule | No Date | X |
331 | Monitoring Real Estate Asset Managers and Closing Agents | No Date | X |
332 | Implementing Accountability Monitoring | No Date | X |
333 | Second Section 221 (g) (4) Project Mortgage Auction | 9/30/1993 | X |
334 | Monitoring Mortgagees During On-site Reviews in Compliance with the Provisions of the Housing and Urban Development Act of 1968 as amended—Single Family | No Date | X |
335 | Notice of Cancellation of Handbook—4515.02—Rental and Cooperative Housing for Lower Income Tenants—Fiscal Procedure | 8/31/1993 | X |
336 | Notice of Cancellation of Handbook—4515.01—Mortgage Insurance for Lower Income Families, Rehabilitation Housing, Section 235(j) | No Date | X |
337 | The Interest Rate Reduction Program | No Date | X |
338 | Extension of Notices H 90-51 and H 91-74, Single Family Property Disposition Pricing of Properties | 8/31/1993 | X |
339 | Extension of Notice 91-75 (HUD), Requests for Payment of Property Disposition Procurement—SAMS 1106 Form, Invoice Transmittal | 8/31/1993 | X |
340 | Extension of Notice 91-63, Extension of Time Requirement for Single Family Claims for Insurance Benefits | 8/31/1993 | X |
341 | Single Family Accounting Management System Internal Controls | No Date | X |
342 | Revised Lead-Based Paint Hazard Notice and Disclosure Requirements | No Date | X |
343 | Extension of Notice H 91-79, Early Warning System for Multifamily Housing Projects | 8/31/1993 | X |
344 | Final Closing Section 202 Loans | No Date | X |
345 | Extension of Notice H 91-68, Delegation of Authority to Foreclose Multifamily Mortgages | 8/31/1993 | X |
346 | Extension of Notice H 91-59, Resident Initiatives Program for Multifamily Housing | 8/31/1993 | X |
347 | Retroactive Section 8 Housing Assistance Payments—Section 801 Of The Housing And Urban Development Reform Act Of 1989 | No Date | X |
348 | Extension of Notice H 91-31 and H 91-62, Delegated Processing Procedures | 8/31/1993 | X |
349 | Processing Instructions for Implementation of the Low Income Housing Preservation and Resident Homeownership Act of 1990 by Housing Development Staff | No Date | X |
350 | Extension of Notice H 91-58, Change of Authority to Approve Section 202 Project Name Changes | 7/31/1993 | X |
351 | Extension of Notice H 91-53, Revised Processing Procedures for Projects Involving Relocation in the Section 202 Program | 6/30/1993 | X |
352 | Extension of Notice H 90-1 and H 91-52, Secondary Financing by Public Bodies for Section 202 Projects | 6/30/1993 | X |
353 | Extension of Notice H 90-42 and Notice H 91-46, Field Office Review of Market Need for Multifamily Insurance and Coinsurance | 6/30/1993 | X |
354 | Extension of Single Family Development—Extension of Reciprocity in the Approval of Subdivisions | 6/30/1993 | X |
355 | Extension of Notice, Claims Without Conveyance of Title (CWCOT) Reporting | No Date | X |
356 | Extensions of Closing Agent Services Request for Proposal (RFP) Format Single Family Property Disposition | 6/30/1993 | X |
357 | Servicing FHA-insured Mortgages Affected by the Los Angeles Riots (April 30, 1992) REGION IX (LOS ANGELES OFFICE ONLY) | 5/31/1993 | X |
358 | Extension of Notice H 91-39, Need to Reduce Underwriting Risk on Multifamily Insured and Coinsured and Delegated Processing Projects | 5/31/1993 | X |
359 | Extension of Notice H 91-44, Modification of Certification of Incorporation Guide Form Language | 5/31/1993 | X |
360 | Processing of Applications for Service coordinators in Section 202 Housing and Monitoring of Approved Applications | No Date | X |
361 | Extension of Notice H 91-23 (HUD) Claims Without Conveyance of Title (CWCOT)—Deficiency Judgment Bidding and Reimbursement Procedures | 3/31/1993 | X |
362 | Extension of Notice H 91-20, Fraud, Waste and Mismanagement Vulnerability Secretary-Held Mortgages—Section 235 | 3/31/1993 | X |
363 | Extension of Notice H 91-24 (HUD), Rescission—Acceleration of Mortgages Subject to the Housing and Community Development Act of 1987 and the Department of Housing and Urban Development Reform Act of 1989 | 3/31/1993 | X |
364 | Extension of Notice H 91-34 (HUD), Procedures for Reconveyance and Procedures for Reimbursement to Lenders on Uninsured Cases | 4/25/1993 | X |
365 | Flexible Subsidy Program Instructions | 6/21/2020 | X |
366 | Transfer of Physical Assets (TPA) Approvals of Formerly Coinsured Projects with Subsidy (including Section 8 Moderate Rehabilitation, Loan Management Set Aside, Substantial Rehabilitation, Property Disposition Set Aside, etc.) and Coinsured Projects | 4/30/1993 | X |
367 | Processing Instructions for the Fiscal Year 1992 HOPE for Homeownership of Multifamily Units Program (HOPE 2)—Applications for Grants | No Date | X |
368 | Extension of Notice H 91-29: Processing Plans of Action Under the Housing Community Development Act of 1987 | 3/31/1993 | X |
369 | Extension of Notice H 91-31, Delegated Processing Procedures | 3/31/1993 | X |
370 | Extension of Notice H 91-28, Authorization for the Release of Information—Form HUD-9886 | 3/31/1993 | X |
371 | Supervisory Review and Management of the Assigned Single Family Mortgage Portfolio (Material Weakness 89-15) | 3/31/1993 | X |
372 | Calculating Imputed Income From Assets | 3/31/1993 | X |
373 | Extension of Notice H 91-22, Comprehensive MF Servicing Program | 3/31/1993 | X |
374 | Extension of Notice H 91-18, Combining Low-Income Housing Tax Credits (LIHTC) with HUD Program | 3/31/1993 | X |
375 | Designation of Authority and Responsibility for Decentralized Single Family Foreclosure Management and Contract Administration | 2/28/1993 | X |
376 | Actions Subsequent to Notification of Funding Approval for the HOPE for Homeownership of Multifamily Units Program (HOPE 2) | 1/31/1993 | X |
377 | Supplemental Instructions on Conversion of Section 202/8 Section 162 Fund Reservations to Capital Advances | 12/31/1992 | X |
378 | 1992 Annual Operating Cost Standards: Section 202 Supportive Housing for the Elderly and Section 811 Supportive Housing for Persons with Disabilities | 11/30/1992 | X |
379 | Failure to Abide by HUD's Earnest Money Policy | 1/31/1992 | X |
380 | Monitoring of FY 1991 and 1992 Special Purpose Grants | 10/31/1992 | X |
381 | Clarification of HDG Settlement Procedures | 10/31/1992 | X |
382 | Clarification of Solicitation Document for Real Estate Asset Management (REAM) Contracts | 1/31/1993 | X |
383 | Changes to Previous Participation (2530) Procedures | 9/30/1992 | X |
384 | 1992 Special Purpose Grant Application Reviews | 9/30/1992 | X |
385 | Revision to Notice H 91-91, Lease and Sale of Acquired Single Family Properties For the Homeless—Housing Responsibilities | 1/13/1993 | X |
386 | Instructions for Reporting Closings of Section 202 and Section 811 Conversions | 8/31/1992 | X |
387 | Section 221(g)(4) Project Mortgage Auction: Amendment of HUD Notice 92-24 | 8/8/1992 | X |
388 | Instructions for Processing Applications After Selection for Funding—Section 202 Supportive Housing for the Elderly and Section 811 Supportive Housing for Persons with Disabilities | 7/31/1992 | X |
389 | Reinstatement of Housing Development Grant—Project Settlement Procedures | 1/31/1993 | X |
390 | Instructions for Providing Documentation of Availability of HUD-owned Properties for HOPE 2 Applicants in FY 1992 | 7/31/1992 | X |
391 | System Security Procedures for the Single Family Accounting Management System (SAMS) | No Date | X |
392 | Federally Mandated Exclusions from Income | 5/30/2014 | X |
393 | Reinstatement and Extension of Notice H 92-67 (HUD): The Interest Rate Reduction Program | 9/30/1997 | X |
394 | Fiscal Year 1994 Special Marketing Tools | No Date | X |
395 | Expedited Section 223(a)(7) Processing Instructions | 8/31/1995 | X |
396 | Fiscal Year 1993 Interest Rate For Section 202 and Section 811 Capital Advance Projects | No Date | X |
397 | Fiscal Year 1994 Interest Rate For Section 202 and Section 811 Capital Advance Projects | No Date | X |
398 | Pilot Program—Single Family Property Disposition Program Referral of Delinquent Former Tenant Accounts to Debt Management Centers | 11/30/1994 | X |
399 | Designation of “Revitalization Areas” for FY '94 in the Single Family Property Disposition Sales Program | 11/30/1994 | X |
400 | Extension of Notice H 92-83 (HUD): Lease and Sale of Acquired Single Family Properties for the Homeless—Housing Responsibilities | 11/30/1994 | X |
401 | Extension of Notice H 92-86, The Disposition of Hazard Insurance Proceeds | 11/30/1994 | X |
402 | Modified Sales Procedures Single Family Property Disposition | 10/31/1994 | X |
403 | Reinstatement and Extension of Notice H 90-71 (HUD): Maintenance of the Claims Without Conveyance of Title (CWCOT) Case Files | 9/30/1994 | X |
404 | Extension of Notice H 92-84, Delegated Processing Procedures | 10/31/1994 | X |
405 | Extension of Notice H 92-78, Processing and Approving the Disposition of HUD-Owned Multifamily Projects | 10/31/1994 | X |
406 | Processing Instructions for the Fiscal Year 1993 HOPE for Homeownership of Multifamily Units Program (HOPE 2)—Applications for Grants | 10/31/1994 | X |
407 | Extension of Notice H 92-82, A new form HUD-9887, Authorization for the Release of Information | 10/31/1994 | X |
408 | Extension of Notice H 92-81, Processing Applications under the Preservation NOFA for Technical Assistance Planning Grants for Resident Groups, Community Groups, Community-Based Nonprofit Organizations and Resident Councils | 10/31/1994 | X |
409 | Reinstatement and Extension of Notice H 92-63 (HUD): Single Family Accounting Management System Internal Controls | 10/31/1994 | X |
410 | Military Base Closings | 9/30/1994 | X |
411 | Extension of Notice H 92-75, Washington Docket and Amortization Schedule for Multifamily Mortgage Insurance Projects | 9/30/1994 | X |
412 | Processing of Requests for section 8 Funds for Service Coordinators in Section 202 Housing and Monitoring of Approved Requests—Fiscal Year (FY) 1993/94 | 9/30/1994 | X |
413 | Extension of Notice H 92-73 (HUD): Monitoring Real Estate Asset Managers and Closing Agents | 9/30/1994 | X |
414 | Change of Notice Number H 93-62 (HUD): Extension of Notice H 92-62 (HUD), Revised Lead-Based Paint Hazard Notice and Disclosure Requirements, Dated August 24, 1993 | 9/30/1994 | X |
415 | Housing for Elderly and Handicapped/Disabled—Capital Advance Programs with Project Rental Assistance Contracts | 9/30/1994 | X |
416 | Changes and Clarifications of Existing Procedures on Compromises and Write-offs of Secretary-held Mortgages | 9/30/1994 | X |
417 | Uses of Residual Receipts by owners of certain nonprofit projects with mortgages insured or held by HUD | 9/7/1994 | X |
418 | Corrections to Handbooks 4571.2 and 4571.3 REV-1 Regarding the Location Analysis for Section 202 and Section 811 Projects | 8/31/1994 | X |
419 | Extension of Notice H 92-59, Delegation of Authority to Foreclose Multifamily Mortgages | 8/31/1994 | X |
420 | Extension of Notice H 91-31, H 91-62, and H 92-56, Delegated Processing Procedures | 8/31/1994 | X |
421 | Extension of H 92-60 (HUD), Final Closing Section 202 Loans | 8/31/1994 | X |
422 | Extension of Notice H 92-61, Early Warning System for Multifamily Housing Projects | 8/31/1994 | X |
423 | Lease of HUD-Owned Single Family Properties to State and Local Governments For Use In Law Enforcement | 8/31/1994 | X |
424 | Extension of Notice H 92-57 (HUD), Retroactive Section 8 Housing Assistance Payments—Section 801 of the Housing and Urban Development Reform Act of 1989 | 8/31/1994 | X |
425 | Funding Procedures Applicable to Regional Office and Field Office Contracts—FHA, Preservation Preliminary Analyses and Section 202/811 | 8/31/1994 | X |
426 | Section 223(d) Operating Loss Loan Procedures for Formerly Coinsured Projects Under Sections 221(d)(3), 221(d)(4) and 232 and Change Regarding Inclusion of Initial Operating Deficit in Operating Loss Loan Processing | 8/31/1994 | X |
427 | Extension of Notice H 92-54, Processing Instructions for Implementation of the Low Income Housing Preservation and Resident Homeownership Act of 1990 by Housing Development | 7/31/1994 | X |
428 | Extension of Notice H 91-58 and H 92-53, Change of Authority to Approve Section 202 Project Name Changes | 7/31/1994 | X |
429 | Extension of Notice H 90-31 (HUD), Closing Agent Services Request for Proposal (RFP) Format (Single Family Property Disposition) | 6/30/1994 | X |
430 | Revised Fiscal Year 1993 Policy for Section 202 Application Processing and Selections, Revised Processing Schedule | 7/31/1994 | X |
431 | Revised Fiscal Year 1993 Policy for Section 811 Application Processing and Selections, Revised Processing Schedule | 7/31/1994 | X |
432 | Fiscal Year 1993 Policy for Capital Advance Authority Assignments, Instructions and Additional Program Requirements for the Section 202 and Section 811 Capital Advance Programs | 4/30/1994 | X |
433 | Rescinding Quarterly Reporting for the Single Family Deficiency Judgment Program | 6/30/1994 | X |
434 | “Byrd Amendment”—Limitation on Payments made to Influence Certain Federal Financial and Contracting Transactions | 6/30/1994 | X |
435 | Extension of Notice H 92-51, Secondary Financing by Public Bodies for Section 202 Projects | 6/30/1994 | X |
436 | Extension of Notice H 92-50, Field Office Review of Market Need for Multifamily Insurance and Coinsurance | 6/30/1994 | X |
437 | Single Family Claim Reviews | 7/31/1994 | X |
438 | Reinstatement and Extension of Notice H 90-17, H 91-18, and H 92-22, Combining Low-Income Housing Tax Credits (LIHTC) with HUD Programs | 6/30/1993 | X |
439 | Form SAMS-1116A, Selling Broker Information and Certification | 6/30/1994 | X |
440 | Reserve Fund for Replacement Balances Reported as part of the Mortgagor's Submission and Certification of the Required Independently Audited Annual Financial Statements | 6/30/1994 | X |
441 | Group Homes Funded Under Section 202 and Section 811 | 6/30/1994 | X |
442 | Start-up Procedures For the Congregate Housing Services Program—FY 1993 | 5/31/1994 | X |
443 | Housing Development Processing Instructions for the HOME Program | 5/31/1994 | X |
444 | Reinstatement and extension of Notice H 91-23 (HUD), Claims Without Conveyance of Title (CWCOT)—Deficiency Judgement Bidding and Reimbursement Procedures | 4/30/1994 | X |
445 | Reinstatement and extension of Notice H 91-34 (HUD), Procedures for Reconveyance and Procedures for Reimbursement to Lenders on Uninsured Cases | 4/30/1994 | X |
446 | Reinstatement and extension of Notice H 91-20 (HUD), Fraud, Waste and Mismanagement Vulnerability Secretary-Held Mortgages—Section 235 | 4/30/1994 | X |
447 | Reinstatement and extension of Notice H 91-24 (HUD), Rescission—Acceleration of Mortgages Subject to the Housing and Community Development Act of 1987 and the Department of Housing & Urban Development Reform Act of 1989 | 4/30/1994 | X |
448 | Lead-Based Paint: Notification of Tenants in HUD-insured, HUD-held and HUD-subsidized Housing | 4/30/1994 | X |
449 | Definition of Annual Income: Holocaust Reparations | 4/30/1994 | X |
450 | Extension of Notice H 92-40 (HUD), Processing of Applications for Service Coordinators in Section 202 Housing and Monitoring of Approved Applications | 4/30/1994 | X |
451 | Reinstatement & Extension of Notice H 92-2 (HUD), Housing Development Grant—Project Settlement Procedures, which expired 1/31/93 | 4/30/1994 | X |
452 | Procedures For the Extension of Existing Congregate Housing Services Program (CHSP) Grants Expiring through February 1994 | 4/30/1994 | X |
453 | Need to Reduce Underwriting Risk on Multifamily Insured and Coinsured and Delegated Processing Projects and Problem with Summary Rejection of Applications | 4/30/1994 | X |
454 | Close-out of Section 106(b) Nonprofit Sponsor Assistance “Seed Money” Loan Program | 4/30/1994 | X |
455 | Housing Development Instructions for Processing Plans of Action Under Title II of the Housing and Community Development Act of 1987 and Associated Section 241(f) Loan Applications | 4/30/1994 | X |
456 | Fiscal Year 1993 Interest Rate For Section 202 and Section 811 Capital Advance Projects | 3/31/1994 | X |
457 | Extension of Notice H 92-26 (HUD), Supervisory Review and Management of the Assigned Single Family Mortgage Portfolio (Material Weakness 89-15) | 3/31/1994 | X |
458 | Financial Statement Requirement for Sponsors Under the Capital Advance Program | 3/31/1994 | X |
459 | Extension and Clarification of Notice H 92-31 (HUD), Revised Processing Instructions for the Section 223(f) Full Insurance Program | 3/25/1994 | X |
460 | Extension of Notice H 91-29 and H 92-30, Processing Plans of Action Under the Housing Community Development Act of 1987 | 6/30/1993 | X |
461 | Extension of Notice H 92-25, Calculating Imputed Income from Assets | 3/31/1994 | X |
462 | Single Family Development and Management Directive—Revised Section 235(r) Refinance Program | 3/31/1994 | X |
463 | Electronic Data Interchange of Form HUD-27011 and Title Approval Letters | 3/31/1994 | X |
464 | Reinstatement and extension of Notice H 91-65 (HUD), Additional Information—Monthly Mortgage Insurance Premium (MIP) Remittances | 2/28/1994 | X |
465 | Extension of Notice H 92-18 (HUD), Designation of Authority and Responsibility for Decentralized Single Family Foreclosure Management and Contract Administration | 2/28/1994 | X |
466 | Extension of Notice H 91-12 (HUD), Solicitation and Requirements for Single Family Real Estate Asset Management (REAM) Services | 2/28/1994 | X |
467 | Extension of Notice H 91-6 (HUD), Monitoring of Monthly Mortgage Insurance Premium (MIP) Remittances (limited Scope) | 2/28/1994 | X |
468 | Application Review and Selection Procedures For the Congregate Housing Services Program—FY 1993 | 3/31/1994 | X |
469 | Policy And Procedural Guidelines For Paying Taxes Through SAMS And The Service Center | 2/28/1994 | X |
470 | Sale of HUD Owned Properties to HOPE 3 Grant Recipients | 11/9/1992 | X |
471 | 1993 Annual Operating Cost Standards: Section 202 Supportive Housing for the Elderly and Section 811 Supportive Housing for Persons with Disabilities | 12/31/1993 | X |
472 | Instructions for Use of the Line of Credit Control System/Voice Response System (LOCCS/VRS) for the Congregate Housing Services Program (CHSP) | 12/31/1993 | X |
473 | Extension of Notice H 92-5 (HUD), Revision to Notice H 91-91, Lease and Sale of Acquired Single Family Properties for the Homeless—Housing Responsibilities | 1/31/1994 | X |
474 | Instructions for Providing Documentation of Availability of HUD-owned Properties for HOPE 2 Applicants in FY 1993 | 11/30/1993 | X |
475 | Extension of Notice H 92-8 (HUD), Clarification of Solicitation Document for Real Estate Asset Management (REAM) Contracts | 1/13/1993 | X |
476 | Title VI, subtitle D, of the Housing and community Development Act of 1992, Authority to Provide Preferences for Elderly Residents and Units for Disabled Residents in Certain Section 8 Assisted Housing | 8/31/1993 | X |
477 | Extension of Notice H 92-10 (HUD), Failure to Abide by HUD's Earnest Money Policy | 1/31/1994 | X |
478 | Actions Subsequent to Notification of Funding Approval for Preservation Technical Assistance Planning Grants | 5/31/1993 | X |
479 | Extension of Notice H 91-70, Multifamily Housing Workload Priorities | 4/12/1993 | X |
480 | Acceptable Tax Exempt Status Documentation for Section 202 and Section 811 Capital Advance Projects | 5/31/1993 | X |
481 | Reinstatement and Extension of Notice H 93-86 (HUD), Pilot Program—Single Family Property Disposition Program Referral of Delinquent Former Tenant Accounts to Debt Management Centers | 12/31/1995 | X |
482 | Section 223(d)(3) Expansion of the Operating Loss Loan Program—10-Year Loan | 12/31/1995 | X |
483 | Refunding of Bonds Issued to Finance Section 8 Financing Adjustment Factor Projects | 12/131/1995 | X |
484 | Single Family Property Disposition Homeless Program Fiscal Year 1995 Exception Offices | 12/31/1995 | X |
485 | Fiscal Year 1995 Interest Rate For Section 202 and Section 811 Capital Advance Projects and Corrections to Notices H 93-87 and H 93-88 | 11/30/1995 | X |
486 | Instructions for Intermediaries Processing Applications under the Preservation NOFA for Technical Assistance Planning Grants for Resident Groups, Community-Based Housing Developers and Resident Councils | 11/30/1995 | X |
487 | Extension of Notice H 93-89 HUD, Expedited 223(a)(7) Processing Instructions | 11/30/1995 | X |
488 | Submission of Environmental Site Assessment Transaction Screen Process and Phase I Environmental Site Assessment Process | 10/31/1995 | X |
489 | Surveyor Identification of Gas and Hazardous Liquids Pipelines Regulated by 49 CFR parts 192 and 195, and A&E Collection of Pipeline Operator Compliance Certifications | 10/31/1995 | X |
490 | 1. Servicing Insured HECM Mortgages | 10/31/1995 | X |
491 | 2. HECM Assignment Processing | 10/31/1995 | X |
492 | 3. Servicing Secretary-held HECM Mortgages | 10/31/1995 | X |
493 | Extension of Notice H 93-80, Delegated Processing Procedures | 10/31/1995 | X |
494 | Extension of Notice H 93-76, Processing Applications under the Preservation NOFA for Technical Assistance Planning Grants for Resident Groups, Community Groups, Community-Based Nonprofit Organizations and Resident Councils | 10/31/1995 | X |
495 | Extension of Notice H 93-79, Processing and Approving the Disposition of HUD-Owned Multifamily Projects | 10/31/1995 | X |
496 | Extension of Notice H 93-73 (HUD), Military Base Closings | 10/31/1995 | X |
497 | Extension of Notice H 93-66 (HUD), Changes and Clarifications of Existing Procedures on Compromises and Write-offs of Secretary-held Mortgages | 10/31/1995 | X |
498 | Section 8 Rents that Exceed 120 percent of the Fair Market Rents in Low Income Housing Preservation and Resident Homeownership Act (LIHPRHA) Projects | 9/30/1995 | X |
499 | Fiscal Year 1995 Special Marketing Tools | 9/30/1995 | X |
500 | Recapture of Section 235 Assistance Payments Guide (For Field Office Use Only) | 9/30/1995 | X |
501 | Extension of Notice H 93-58 (HUD), Lease of HUD-Owned Single Family Properties to State and Local Governments for Use In Law Enforcement | 8/31/1995 | X |
502 | Extension of Notice H 93-55 (HUD), Funding Procedures Applicable to Regional Office and Field Office Contracts—FHA, Preservation Preliminary Analyses and Section 202/811 | 8/31/1995 | X |
503 | Extension of Notice H 93-61, Delegated Processing Procedures | 8/31/1995 | X |
504 | Extension of H 93-64 (HUD), Corrections to Handbooks 4571.2 and 4571.3 REV-1 Regarding the Location Analysis for Section 202 and Section 811 Projects | 8/31/1995 | X |
505 | Extension of H 93-60 (HUD), Final Closing Section 202 loans | 8/31/1995 | X |
506 | Extension of Notice H 93-59, Early Warning System for Multifamily Housing Projects | 8/31/1995 | X |
507 | Interest Rate Reduction on Secretary-held Mortgages | 8/31/1995 | X |
508 | Extension of Notice H 93-54 (HUD), Section 223(d) Operating Loss Loan Procedures for Formerly Coinsured Projects Under Sections 221(d)(3), 221(d)(4) and 232 and Change Regarding Inclusion of Initial Operating Deficit in Operating Loss Loan Processing | 8/31/1995 | X |
509 | Extension of Notice H 93-57 (HUD), Retroactive Section 8 Housing Assistance Payments—Section 801 of the Housing and Urban Development Reform Act of 1989 | 8/31/1995 | X |
510 | Expedited Section 223(a)(7) Processing Instructions For Coinsured Projects | 8/31/1995 | X |
511 | Extension of Notice H 93-62, Delegation of Authority to Foreclose Multifamily Mortgages | 8/31/1995 | X |
512 | Extension of Notice H 93-50, Change of Authority to Approve Section 202 Project Name Changes | 8/31/1995 | X |
513 | Extension of Notice H 93-41, Field Office Review of Market Need for Multifamily Insurance and Coinsurance | 6/30/1995 | X |
514 | Extension of Notice H 93-36, Group Homes Funded under Section 202 and Section 811 | 6/30/1995 | X |
515 | Revised Processing Procedures And Timetable For The Application Submission, Review, Rating, Ranking, Selection And Grant Processing Procedures For The Congregate Housing Services Program (CHSP) For FY 1994 | 6/30/1995 | X |
516 | Extension of Notice H 93-38 (HUD), Form SAMS-1116A, Selling Broker Information and Certification | 6/30/1995 | X |
517 | Extension of Notice H 90-31 (HUD), Closing Agent Services Request for Proposal (RFP) Format (Single Family Property Disposition) | 6/30/1995 | X |
518 | Fiscal Year 1994 Policy for Capital Advance Authority Assignments, Instructions and Additional Program Requirements for the Section 202 and Section 811 Capital Advance Programs, Section 202 and Section 811 Application Processing and Selection Instructions, Processing Schedule | 2/28/1995 | X |
519 | SFPD Modified Sales Procedures | 6/30/1995 | X |
520 | Revisions to the SFPD Homeless Initiative Program | 6/30/1995 | X |
521 | Mid-Course Correction II—For Low Income Housing Preservation and Resident Homeownership (LIHPRHA) and Emergency Low Income Housing Preservation Act (ELIHPA) Programs | 6/30/1995 | X |
522 | Instructions for the Use of the Line of Credit Control System/Voice Response System (LOCCS/VRS) for the Congregate Housing Services Program (CHSP) | 5/31/1995 | X |
523 | Supplemental Claims | 5/31/1995 | X |
524 | Extension of Notice H 93-35, Start-up Procedures For the Congregate Housing Services Program—FY 1993 | 5/31/1995 | X |
525 | Extension of Notice H 93-34, Housing Development Processing Instructions for the HOME Program | 5/31/1995 | X |
526 | Reinstatement and Extension of Notice H 93-28, Definition of Annual Income: Holocaust | 5/31/1995 | X |
527 | Reinstatement and extension of Notice H 93-26, Housing Development Grant—Project Settlement Procedures | 5/31/1995 | X |
528 | Reinstatement and extension of Notice H 93-23, Need to Reduce Underwriting Risk on Multifamily Insured and Coinsured and Delegated Processing Projects and Problem with Summary Rejection of Applications | 5/31/1995 | X |
529 | Reinstatement and extension of Notice H 93-25, Procedures for the Extension of Existing Congregate Housing Services Program (CHSP) Grants Expiring through February 1994 | 5/31/1995 | X |
530 | Reinstatement and extension of Notice H 93-22, Close-out of Section 106(b) Nonprofit Sponsor Assistance “Seed Money” Loan Program | 5/31/1995 | X |
531 | Extension of Notice H 91-23 (HUD Claims Without Conveyance of Title (CWCOT)—Deficiency Judgement Bidding and Reimbursement Procedures | 5/31/1995 | X |
532 | Extension of Notice H 91-20 (HUD), Fraud, Waste and Mismanagement Vulnerability Secretary-Held Mortgages—Section 235 | 4/30/1995 | X |
533 | Special Rent Adjustment for Non-Drug Related Crime Prevention/Security Measures under the “or Similar Costs” Statutory Language for Section 8 Rents Based on the Annual Adjustment Factor (AAF) | 4/30/1995 | X |
534 | Revised Fiscal Year 1994 Policy for Section 202 Application Processing and Selections, Revised Section 202 Processing Schedule | 4/30/1995 | X |
535 | Amendment to Notice H-94-15 for Temporary Relocation Housing Requirements and Additional Guidance for Flexible Subsidy for Eligible Multifamily Preservation (LIHPRHA and ELIHPA) Properties—HUD Earthquake Loan Program (HELP) | 4/30/1995 | X |
536 | Correction To Notice H 94-14 (HUD) Application Submission, Review, Rating, Ranking, Selection And Grant Processing Procedures For The Congregate Housing Services Program (CHSP) For FY 1994 | 4/30/1995 | X |
537 | Fiscal Year 1994 Request for Grant Application (RFGA) for Housing Counseling | 4/30/1995 | X |
538 | Monitoring Responsibilities Of Government Technical Representatives (GTRs)/Government Technical Monitors (GTMs) Under The Congregate Housing Services Program (CHSP) | 4/30/1995 | X |
539 | Processing of Requests for Section 8 Funds for Service Coordinators in Section 8 (including Farmers Home 515/8), Sections 202, 202/8, 221(d) and 236 Projects and Monitoring of Approved Requests—Fiscal Year (FY) 1994 | 3/31/1995 | X |
540 | Implementation of Section 6 of the HUD Demonstration Act of 1993: Section 8 Community Investment Demonstration Program | 3/31/1995 | X |
541 | Extension of Notice H 93-17, Extension and Clarification of Notice H 92-31, Revised Processing Instructions for the Section 223(f) Full Insurance Program | 3/31/1995 | X |
542 | Extension of Notice H 93-15, Calculating Imputed Income from Assets | 3/31/1995 | X |
543 | Implementation of the Special Allocation for Flexible Subsidy—HUD Earthquake Loan Program (HELP) | 3/31/1995 | X |
544 | Application Submission, Review, Rating, Ranking, Selection And Grant Processing Procedures For The Congregate Housing Services Program (CHSP) For FY 1994 | 3/31/1995 | X |
545 | Reinstatement and Extension of Notice H 91-6 (HUD), Monitoring of Monthly Mortgage Insurance Premium (MIP) Remittance (Limited Scope) and Notice H 91-65 (HUD), Additional Information—Monthly Mortgage Insurance Premium (MIP) Remittances | 3/31/1995 | X |
546 | Reinstatement and Extension of Notice H 92-18 (HUD), Designations of Authority and Responsibility for Decentralized Single Family Foreclosure Management and Contract Administrations | 3/31/1995 | X |
547 | Extension of Notice H 91-12 (HUD): Solicitation and Requirements for Single Family Real Estate Asset Management (REAM) Services | 2/28/1995 | X |
548 | Extension of Notice H 93-7: Policy and Procedural Guidelines for Paying Taxes Through SAMS and The Service Center | 2/28/1995 | X |
549 | Review Checklist for Preservation Appraisal(s) under Title II of the Emergency Low Income Housing Preservation Act of 1987 (ELIHPA) and Title VI of the Low Income Housing Preservation and Resident Homeownership Act of 1990 (LIHPRHA) | 2/28/1995 | X |
550 | Elderly Persons and Persons with Disabilities in Assisted Housing—Population Mix | 2/28/1995 | X |
551 | Reinstatement and Extension of Notice H 92-5 (HUD) Revision to Notice H 91-91, Lease and Sale of Acquired Single Family Properties For the Homeless—Housing Responsibilities | 2/28/1995 | X |
552 | Reinstatement and extension of Notice 92-10 (HUD), Failure to abide by HUD's Earnest Money Policy | 2/28/1995 | X |
553 | Reinstatement and Extension of Notice H 92-97 (HUD), Processing HUD Insured Projects Involving Low Income Housing Tax Credits Using Form HUD-92264-T | 2/28/1995 | X |
554 | Extension of Notice H 92-8 (HUD), Clarification of Solicitation Document for Real Estate Asset Management (REAM) Contracts | 1/31/1995 | X |
555 | Reinstatement and Extension of Notice H 92-98 (HUD) Civil Money Penalties Implementation of the HUD Reform Act of 1989 | 1/31/1995 | X |
556 | 1994 Annual Operating Cost Standards—Section 202 Supportive Housing for the Elderly and Section 811 Supportive Housing for Persons with Disabilities | 1/31/1995 | X |
557 | Reminder to Appraisers to Consider Applicability of State and Local Laws (Rent Control, etc.), in their Estimation of the Value of Properties Without Federal Participation Under Title II of the Housing and Community Development Act of 1987, the Emergency Low Income Housing Preservation Act of 1987 | 1/31/1995 | X |
558 | Extension of Notice H 94-91, Instructions for Intermediaries Processing Applications under the Preservation NOFA for Technical Assistance Planning Grants for Resident Groups, Community-Based Housing Developers and Resident Councils | 11/30/1996 | X |
559 | Extension of Notice H 94-90, Expedited 223(a) (7) Processing Instructions | 11/30/1996 | X |
560 | Fiscal Year 1996 Interest Rate For Section 202 and Section 811 Capital Advance Projects | 11/30/1996 | X |
561 | New HUD Single Family Nonjudicial Foreclosure Statute | 11/30/1996 | X |
562 | Fiscal Year 1996 Special Marketing Tools | 11/30/1996 | X |
563 | Extension of Notice H 94-87, Surveyor Identification of Gas and Hazardous Liquids Pipelines Regulated by 49 CFR parts 192 and 195, and A&E Collection of Pipeline Operator Compliance Certifications | 10/31/1996 | X |
564 | Extension of Notice H 94-85, Delegated Processing Procedures | 10/31/1996 | X |
565 | Extension of Notice H 94-84, Processing Applications under the Preservation NOFA for Technical Assistance Planning Grants for Resident Groups, Community Groups, Community-Based Nonprofit Organizations and Resident Councils | 10/31/1996 | X |
566 | Extension of Notice H 94-83, Processing and Approving the Disposition of HUD-Owned Multifamily Projects | 10/31/1996 | X |
567 | Extension of Notice H 94-79, Start-Up Procedures for Congregate Housing Services Program (CHSP)—FY 1994 | 10/31/1996 | X |
568 | Reinstatement and Extension of Notice H 90-31, Closing Agent Services Request for Proposal (RFP) Format Single Family Property Disposition | 10/31/1996 | X |
569 | Reinstatement and Extension of Notice H 94-74 (HUD), Revisions to Single Family Property Disposition Sales Procedures | 10/31/1996 | X |
570 | Extension of Notice H 94-66 (HUD), Recapture of Section 235 Assistance Payments Guide (For Field Office Use Only) | 10/31/1996 | X |
571 | Extension of Notice H 94-71, The Extension, Amendment and Close-Out Process for Congregate Housing Services Program (CHSP Grants) | 9/30/1996 | X |
572 | Extension of Notice H 94-70, Washington Docket and Amortization Schedule for Multifamily Mortgage Insurance Projects | 9/30/1996 | X |
573 | Use of Single Family Acquired Properties by Law Enforcement Agencies for Operation Safe Home | 11/30/1996 | X |
574 | Computerized Community Connections—How to Develop Computerized Learning Centers in HUD Insured and Assisted Housing | 9/30/1996 | X |
575 | Revised Definition of Income—Addition of Nine Exclusions to Annual Income | 9/30/1996 | X |
576 | Extension of Notice H 93-58 (HUD), Lease of HUD-Owned Single Family Properties to State and Local Governments for Use In Law Enforcement | 9/30/1996 | X |
577 | Funding Of Comprehensive Needs Assessments (CNAs), FY 1995 | 8/31/1996 | X |
578 | Extension of Notice H 94-55, Delegation of Authority to Foreclosure Multifamily Mortgages | 8/31/1996 | X |
579 | Extension of Notice H 94-63, Delegated Processing Procedures | 8/31/1996 | X |
580 | Extension of H 94-62, Corrections to Handbooks 4571.2 and 4571.3 REV-1 Regarding the Location Analysis for Section 202 and Section 811 Projects | 8/31/1996 | X |
581 | Extension of H 94-61, Final Closing Section 202 Loans | 8/31/1996 | X |
582 | Extension of Notice H 94-56, Expedited Section 223(a)(7) Processing Instructions for Coinsured Projects | 8/31/1996 | X |
583 | Extension of Notice H 94-58, Section 223(d) Operating Loss Loan Procedures for Formerly Coinsured Projects Under Sections 221(d)(3), 221(d)(4) and 232 and Change Regarding Inclusion of Initial Operating Deficit in Operating Loss Loan Processing | 8/31/1996 | X |
584 | Extension of Notice H 94-60, Early Warning System for Multifamily Housing Projects | 8/31/1996 | X |
585 | Processing Instructions for the Recording of Recaptures of Financing Adjustment Factor (FAF) Funds/McKinney Act Funds in the Program Accounting System (PAS) when the Housing Assistance Payments Contract/Annual Contributions Contract (HAPC/ACC) Amendment Method of Savings Sharing is Used | 8/31/1996 | X |
586 | Revisions to Notice H 95-55—Procedures for implementing Section 214 of the Housing and Community Development Act of 1980, as amended—Restrictions on Assistance to Noncitizens | 8/31/1996 | X |
587 | Operating Cost Adjustment Factors (OCAF) | 7/31/1996 | X |
588 | Requirements for Accepting Limited Liability Companies and Partnerships as Mortgagor Entities for Insured Multifamily Housing Projects | 7/31/1996 | X |
589 | Loss Mitigation Job Aid: Educational Supplement to Outstanding Handbook Procedures | 7/31/1996 | X |
590 | Extension of Notice H 94-49 (HUD), 1992 Amendments to the Single Family Regulations | 7/31/1996 | X |
591 | Elimination of Monetary Limits for Field Office Approval of Compromises and Write-offs of Secretary-Held Mortgages | 7/31/1996 | X |
592 | Extension of Notice H 94-49 (HUD), 1992 Amendments to the Single Family Regulations | 7/30/1996 | X |
593 | Revision of Housing Development Grant—Project Settlement Procedures | 7/30/1996 | X |
594 | Extension of Notice H 94-43 (HUD), Revision to the SFPD Homeless Initiative Program | 7/30/1996 | X |
595 | Extension of Notice H 94-51, Field Office Review of Market Need for Multifamily Insurance and Coinsurance | 7/30/1996 | X |
596 | Extension of Notice H 94-50, Group Homes Funded Under Section 202 and Section 811 | 7/30/1996 | X |
597 | Procedures for implementing Section 214 of the Housing and Community Development Act of 1980, as amended—Restrictions on Assistance to Noncitizens | 6/30/1996 | X |
598 | Extension of Notice H 94-41, Instructions for the Use of the Line of Credit Control System/Voice Response System (LOCCS/VRS) for the Congregate Housing Services Program (CHSP) | 5/31/1996 | X |
599 | Extension of Notice H 94-38, Housing Development Processing Instructions for the HOME Program | 5/31/1996 | X |
600 | Extension of Notice H 94-36, Definition of Annual Income: Holocaust | 5/31/1996 | X |
601 | Extension of Notice H 94-35—Housing Development Grant—Project Settlement Procedures | 5/31/1996 | X |
602 | Extension of Notice H 94-34—Need to Reduce Underwriting Risk on Multifamily Insured and Coinsured and Delegated Processing Projects and Problem with Summary Rejection of Applications | 5/31/1996 | X |
603 | Fiscal Year 1995 Policy for Capital Advance Authority Assignments, Instructions and Additional Program Requirements for the Section 202 and Section 811 Capital Advance Programs, Section 202 and Section 811 Application Processing and Selection Instructions, Processing Schedule | 5/31/1996 | X |
604 | Extension of Notice H 94-31—Development Instructions for Processing Plans of Action Under Title II of the Housing and Community Development Act of 1987 and Associated Section 241(f) Loan Applications | 5/31/1996 | X |
605 | 1995 Annual Operating Cost Standards—Section 202 Supportive Housing for the Elderly and Section 811 Supportive Housing for Persons with Disabilities | 5/31/1996 | X |
606 | Correction To Notice H-95-30—Application Submission, Review, Rating, Ranking, Selection And Grant Processing Procedures For The Congregate Housing Services Program (CHSP) For FY 1995 | 5/31/1996 | X |
607 | Changes to the FHA Single Family Maximum Mortgage Limits | 5/31/1996 | X |
608 | Revisions to the Single Family Property Disposition Homeless Program | 4/30/1996 | X |
609 | Extension of Notice H 94-27, Special Rent Adjustment for Non-Drug Related Crime Prevention/Security Measures under the “in Similar Costs” Statutory Language for Section 8 Rents Based on the Annual Adjustment Factor (AAF) | 4/30/1996 | X |
610 | Extension of Notice H 91-6 (HUD), Monitoring of Monthly Mortgage Insurance Premium (MIP) Remittance (Limited Scope) and Notice H 91-65 (HUD), Additional Information—Monthly Mortgage Insurance Premium (MIP) Remittances | 4/30/1996 | X |
611 | Comprehensive Needs Assessments—CNAs Initial Surveys | 4/0/1996 | X |
612 | Processing Shallow Rental Subsidy for Low-Income Housing Preservation and Resident Homeownership Act Properties | 5/31/1996 | X |
613 | Extension of Notice H 94-21, Monitoring Responsibilities of Government Technical Representatives/Government Technical Monitors Under the Congregate Housing Services Program | 5/31/1996 | X |
614 | Extension of Notice 94-19, Implementation of Section 6 of the HUD Demonstration Act of 1993: Section 8 Community Investment Demonstration Program | 5/31/1996 | X |
615 | Extension of Notice H 94-16, Calculating Imputed Income From Assets | 5/31/1996 | X |
616 | Extension of Notice H 94-15, Implementation of the Special Allocation for Flexible Subsidy—HUD Earthquake Loan Program (HELP) | 5/31/1996 | X |
617 | Production Branch Instructions to Process Section 241 Loan Applications Pursuant to Title VI of the Low Income Housing Preservation and Resident Homeownership Act of 1990 Plan of Action Stage | 9/30/1995 | X |
618 | Addendum to Notice H 94-91 (HUD), Instructions for Intermediaries Processing Applications under the Preservation NOFA for Technical Assistance Planning Grants for Resident Groups, Community-Based Housing Developers and Resident Councils | 9/30/1995 | X |
619 | Annual Adjustment Factor Rent Increase Requirements Pursuant to the Housing Appropriations Act of 1995 | 9/30/1995 | X |
620 | Extension of Notice H 94-9 (HUD), Review Checklist for Preservation Appraisal(s) under Title II of the Emergency Low Income Housing Preservation Act of 1987 (ELIHPA) and Title VI of the Low Income Housing Preservation and Resident Homeownership Act of 1990 (LIHPRHA) | 2/29/1996 | X |
621 | Extension of Notice H 94-8, Elderly Persons and Persons with Disabilities in Assisted Housing—Population Mix | 2/29/1996 | X |
622 | Extension of Notice H 94-4 (HUD), Processing HUD Insured Projects Involving Low Income Housing Tax Credits Using Form HUD-92264-T | 2/29/1996 | X |
623 | Summary of HUD Policies on Multifamily Housing Bond Refunding Transactions and Announcement of Certain Changes and Clarifications | 2/29/1996 | X |
624 | Extension of Notice H 94-01, Reminder to Appraisers to Consider Applicability of State and Local Laws (Rent Control, etc.), in their Estimation of the Value of Properties Without Federal Participation Under Title II of the Housing and Community Development Act of 1987, the Emergency Low Income Housing Preservation Act of 1987 | 2/29/1996 | X |
625 | Designation of FY '95 Revitalization Areas | 1/31/1996 | X |
626 | Subsidy Layering Reviews (SLRs)—Implementing Instructions | 1/31/1996 | X |
627 | Reinstatement and Extension of Notice H 92-67 (HUD), The Interest Rate Reduction Program | 1/31/1996 | X |
628 | Preservation Processing | 12/21/1995 | X |
629 | Implementation of Section 6 of the HUD Demonstration Act of 1993: Section 8 Community Investment Demonstration Program—Fiscal Year 1995 | 1/31/1996 | X |
630 | Temporary Suspension of New Leases under the Single Family Property Disposition Homeless Program, Lease with Option to Purchase | No Date | X |
631 | Extension of Notice H 95-102, Expedited Section 223 (a) (7) Processing Instructions | 12/31/1997 | X |
632 | Reinstatement and Extension of Notice H 95-97, Delegated Processing Procedures | 12/31/1997 | X |
633 | Reinstatement and Extension of Notice H 95-98. Surveyor Identification of GAS and Hazardous Liquids Pipelines Regulated by 49 CFR parts 192 and 195, and A&E Collection of Pipeline Operator Compliance Certifications | 12/31/1997 | X |
634 | Redesigned Section 202 Supportive Housing for the Elderly and Section 811 Supportive Housing for Persons with Disabilities Programs—Firm Commitment Processing to Final Closing | 12/31/1997 | X |
635 | Extension of Notice 95-82 (HUD), Use of Single Family Acquired Properties by Law Enforcement Agencies for Operation Safe Home | 11/30/1997 | X |
636 | Correction to Notice H 96-91 (Extension of HUD Notice H 95-99, Fiscal Year 1996 Special Marketing Tools) | 11/30/1997 | X |
637 | Refinancing of Multifamily HUD-Held Loans Sold in Note Sales | 11/30/1997 | X |
638 | Suspension Of Reserve For Replacement Releases By Mortgagees | 11/30/1997 | X |
639 | Supplement To Notice H96-89 | 11/30/1997 | X |
640 | Reinstatement and Extension of Notice H 95-89 (HUD), Revisions to Single Family Property Disposition Sales Procedures | 11/30/1997 | X |
641 | Single Family Property Disposition Program—New Initiatives Relating to Lead-Based Paint Hazards | 11/30/1997 | X |
642 | Fiscal Year 1997 Interest Rate for Section 202 and Section 811 Capital Advance Projects | 10/31/1997 | X |
643 | Extension of HUD Notice H 95-99, Fiscal Year 96 Special Family Housing, HS | 10/31/1997 | X |
644 | FY97 HUD Appropriations Act | 10/31/1997 | X |
645 | Revisions to Notices H 95-55 and 95-68—Procedures for implementing Section 214 of the Housing and Community Development Act of 1980, as amended—Restrictions on assistance to Noncitizens | 10/31/1997 | X |
646 | Extension of Notice H 95-85, Washington Docket and Amortization Schedule for Multifamily Mortgage Insurance Projects | 9/30/1997 | X |
647 | Extension of Notice H 95-81, Computerized Community Connections—How to Develop Computerized Learning Centers in HUD Insured and Assisted Housing | 9/30/1997 | X |
648 | Reinstatement and Extension of Notice H 92-67, The Interest Rate Reduction Program | 9/30/1997 | X |
649 | Extension of Notice H 94-66 (HUD), Recapture of Section 235 Assistance Payments Guide (For Field Office Use Only) | 9/30/1997 | X |
650 | Extension of Notice H 95-79 (HUD), Single Family Property Disposition/Real Estate Owned Preservation and Protection—Debris Removal | 9/30/1997 | X |
651 | Financing Energy Conservation Measures In HUD-Assisted HUD-Insured Multifamily Housing | 9/30/1997 | X |
652 | Supplement to Notice H 96-45, Revised Procedures for Review and Approval of Waivers of Directives | 9/30/1997 | X |
653 | Extension of Notice H 93-58 (HUD), Lease of HUD-Owned Single Family Properties to State and Local Governments for Use In Law Enforcement | 9/30/1997 | X |
654 | Project-Based Section 8 Contract Expiring In Fiscal Year 97 | 8/31/1997 | X |
655 | Corrections to Notice H-96-53—Fiscal Year 1996 Policy for Capital Advance Authority Assignments, Instructions and Additional Program Requirements for the Section 202 and Section 811 Capital Advance Programs Section 202 and Section 811 Application Processing and Selection Instructions Processing Schedule | 8/31/1997 | X |
656 | Public Housing Homeownership Initiative | 8/31/1997 | X |
657 | Extension of Notice H 95-76, Delegation of Authority to Foreclosure Multifamily Mortgages | 8/31/1997 | X |
658 | Extension of Notice H 95-73, Final Closing Section 202 Loans | 8/31/1997 | X |
659 | Extension of Notice H 95-72, Expedited Section 223(a) (7) Processing Instructions for Coinsured Projects | 8/31/1997 | X |
660 | Extension of Notice H 95-71, Section 223(d) Operating Loss Loan Procedures for Formerly Coinsured Projects Under Sections 221(d) (3), 221(d) (4) and 232 and Change Regarding Inclusion of Initial Operating Deficit in Operating Loss Loan Processing | 8/31/1997 | X |
661 | Extension of Notice H 95-70, Early Warning System for Multifamily Housing Projects | 8/31/1997 | X |
662 | Nonprofit Services and Fees in New Construction and Substantial Rehabilitation Projects Financed with Multifamily Mortgage Insurance | 7/31/1997 | X |
663 | Condominium Units and Cooperatives under Section 811 | 7/31/1997 | X |
664 | Extension of Notice H 95-64, Loss Mitigation Job Aid: Educational Supplement to Outstanding Handbook Procedures | 7/31/1997 | X |
665 | Extension of Notice H 95-53 (HUD)—Revised Procedures for Determining Median House Sales Price and Establishing FHA Single Family Maximum Mortgage Limits for High Cost Areas | 7/31/1997 | X |
666 | Extension of Notice H 94-43 (HUD), Revision to the SFPD Homeless Initiative Program | 7/31/1997 | X |
667 | Extension of Notice H 95-62 (NOD), Elimination of Monetary Limits for Field Office Approval of Compromises and Write-offs or Secretary-Held Mortgages | 6/30/1997 | X |
668 | Extension of Notice H 95-55—Procedures for Implementing Section 214 of the Housing and Community Development Act of 1980, As Amended—Restrictions on Assistance to Noncitizens | 6/30/1997 | X |
669 | Extension of Notice H 95-50, Housing Development Processing Instructions for the HOME Program | 6/30/1997 | X |
670 | Single Family Property Disposition Program—Disclosure Requirements Related to Obtaining A Home Inspection | 6/30/1997 | X |
671 | Extension of Notice H 95-48, Definition of Annual Income: Holocaust | 6/30/1997 | X |
672 | Extension of Notice H 95-46. Need to Reduce Underwriting Risk on Multifamily Insured and Coinsured and Delegated Processing Projects and Problem with Summary Rejection of Applications | 6/30/1997 | X |
673 | Instructions for Use of the Line of Credit Control System/Voice Response System (LOCCS/VRS) for the Congregate Housing Services Program (CHSP) | 5/31/1997 | X |
674 | Extension of Notice H 95-44, Close-out of Section 106(b) Nonprofit Sponsor Assistance “Seed Money” Loan Program | 5/31/1997 | X |
675 | Extension of Notice H 95-41, Cost Certification Review | 5/31/1997 | X |
676 | Exclusion Of Income Received Under Training Programs In Multifamily Housing Programs | 5/31/1997 | X |
677 | Reinstatement and Extension of Notice H 94-99—Processing of Requests for Section 8 Funds for Service Coordinators in Section 8 (including Section 515/8 of the Rural Housing and Community Development Services (RHCDS)), Sections 202/8, 221(d) (3) and 236 projects and Monitoring of Approved Requests Fiscal Year (FY) 1995 | 5/31/1997 | X |
678 | Reinstatement and Extension of Notice H 94-98—Funding a Service Coordinator in Eligible Housing Projects for Elderly, Disabled, or Families by Using Residual Receipts, Budget-Based Rent Increases or Special Adjustments | 5/31/1997 | X |
679 | Section 8 New Construction and Substantial Rehabilitation, all Section 8 Loan Management Set Aside (LMSA) and Property Disposition (PD) Contracts in which the method of rent adjustment is the Annual Adjustment Factor | 5/31/1997 | X |
680 | Extension of Notice H 91-20 (HUD), Fraud, Waste and Mismanagement Vulnerability Secretary-Held Mortgages—Section 235 | 5/31/1997 | X |
681 | Extension of Notice H 91-20 (HUD), Fraud, Waste and Mismanagement Vulnerability Secretary-Held Mortgages—Section 235 | 4/30/1997 | X |
682 | Extension of Notice H 95-34 (HUD), Revision to the Single Family Property Disposition Homeless Program | 4/30/1997 | X |
683 | Extension of Notice H 95-32, Amendment to Notice H 94-15 for Temporary Relocation Housing Requirements and Additional Guidance for Flexible Subsidy for Eligible Multifamily Preservation Properties—HUD Earthquake Loan Program | 4/30/1997 | X |
684 | Secretary-Held Mortgages—Assessment of Late Charges | 4/30/1997 | X |
685 | Telecommunications Services—Contracts between Telecommunications Service Providers and Project Owners | 4/30/1997 | X |
686 | Extension of Notice H 91-6 (HUD), Monitoring of Monthly Mortgage Insurance Premium (MIP) Remittance (Limited Scope) and Notice H 91-65 (HUD), Additional Information-Monthly Mortgage Insurance Premium (MIP) Remittances | 4/30/1997 | X |
687 | Extension of Notice H 95-15 (HUD), Single Family Property Disposition Program—Changes to procedures for Treatment of Defective Paint | 5/30/1997 | X |
688 | Extension of Notice H 95-24, Monitoring Responsibilities of Government Technical Representatives/Government Technical Monitors Under the Congregate Housing Services Program | 5/30/1997 | X |
689 | Extension of Notice H 95-22, Implementation of Section 6 of the HUD Demonstration Act of 1993: Section 8 Community Investment Demonstration Program | 5/30/1997 | X |
690 | Extension of Notice H 95-20, Extension and Clarification of Notice H 92-31, Revised Processing Instructions for the Section 223(f) Full Insurance Program | 5/31/1997 | X |
691 | Extension of Notice H 95-14, Production Branch Instructions to Process Section 241 Loan Applications Pursuant to Title VI of the Low Income Housing Preservation and Resident Homeownership Act of 1990 Plan of Action Stage | 5/31/1997 | X |
692 | Reinstatement and Extension of Notice H 91-12 (HUD): Solicitation and Requirements for Single Family Real Estate Asset Management (RAM) Services and Notice H 92-8 (HUD), Clarification of Solicitation Document for Real Estate Asset Management (REAM) Contracts | 2/28/1997 | X |
693 | Repayment under the Nehemiah Housing Opportunity Grants Program (NHOP) (For Field Office Use Only) | 2/28/1997 | X |
694 | Reinstatement and Extension of Notice H 94-88, Submission of Environmental Site Assessment Transaction Screen Process and Phase I Environmental Site Assessment Process | 2/28/1997 | X |
695 | Occupancy In Section 202/8 Projects | 12/31/1998 | X |
696 | Officer Next Door Sales Program Single Family Property Disposition—Replaced by FR-4712-F-03 regarding Good Neighbor Next Door Sales Program, Final Rule | 12/31/199 | X |
697 | Extension of Notice H 96-107, Temporary Suspension of New Leases under the Single Family Property Disposition Homeless Program, Lease with Option to Purchase | 12/31/1998 | X |
698 | Extension of Notice H 96-101 (HUD), Use of Single Family Acquired Properties by Law Enforcement Agencies for Operation Safe Home | 12/31/1998 | X |
699 | Extension of Notice H 96-93 (HUD), Single Family Property Disposition Program—New Initiatives Relating to Lead-Based Paint Hazards | 12/31/1998 | X |
700 | FY 1998 HUD Appropriations Act | 11/30/1998 | X |
701 | Reinstatement and Extension of Notice H 96-88, Procedures for Implementing Section 214 of the Housing and Community Development Act of 1980, as amended—Restrictions on assistance to Noncitizens | 11/30/1998 | X |
702 | Extension of HUD Notice H 96-100, Correction to Notice H 96-91 (Extension of HUD Notice H 95-99, Fiscal year 1996 Special Marketing Tools) | 11/30/1998 | X |
703 | Extension of Notice H 96-75 (HUD), Lease of HUD-Owned Single Family Properties to State and Local Governments for Use In Law Enforcement | 10/31/1998 | X |
704 | Operating Cost Adjustment Factors (OCAF) | 10/31/1998 | X |
705 | Reinstatement and Extension of Notice H 96-69, Delegated Processing Procedures | 10/31/1998 | X |
706 | Reinstatement and Extension of Notice H 96-67, Final Closing Section 202 Loans | 9/30/1998 | X |
707 | This Notice provides guidance for implementing provisions of the Emergency Supplemental Appropriations Act for FY 1997 (Pub. L. 105-18), approved June 12, 1997 | 9/30/1998 | X |
708 | Multifamily Military Housing/Section 238(c)—Mortgage Insurance in Military Impacted Areas | 9/30/1998 | X |
709 | Single Family Property Disposition (Officer Next Door Sales Program)—Replaced by FR-4712-F-03 regarding Good Neighbor Next Door Sales Program, Final Rule | 11/1/2006 | X |
710 | Contract Non-Renewal Notice | 8/31/1998 | X |
711 | Backing-Out Trustee Sweep Savings Before Calculating AAFs for Projects which Originally Received a Financial Adjustment Factor (FAF) and whose Bonds were Refunded | 8/31/1998 | X |
712 | Reinstatement and Extension of Notice 96-55 (HUD), Revision to the SFPD Homeless Initiative Program | 8/31/1998 | X |
713 | Extension of Notice H 96-71 (HUD), Public Housing Homeownership Initiative | 7/31/1998 | X |
714 | Reinstatement and Extension of Notice 96-26 (HUD), Revisions to the Single Family Property Disposition Homeless Program | 7/31/1998 | X |
715 | Reinstatement and Extension of Notice B 96-49—Group Homes Funded under Section 202 and Section 811 | 7/31/1998 | X |
716 | Reinstatement and Extension of Notice H 96-47—Procedures for Implementing Section 214 of the Housing and Community Development Act of 1980, As Amended Restrictions on Assistance to Noncitizens | 7/31/1998 | X |
717 | Recertification for Residents who Lose Income due to the “Contract with America Advancement Act of 1996, 11 Public Law 104-121, (Advancement Act), and the “Personal Responsibility and Work Opportunity Reconciliation Act of 199611 (Pub. L. 104-193) (Welfare Reform Act) | 7/31/1998 | X |
718 | Extension of Notice H 96-50—Field office Review of Market Need for Multifamily Insurance and Coinsurance | 6/30/1998 | X |
719 | **Urgent Notice on Contract Renewals** | 6/30/1998 | X |
720 | Reinstatement and Extension of Notice H 96-37, Cost Certification Review | 5/31/1998 | X |
721 | Extension of Notice H 96-40, Instructions for Use of the Line of Credit Control System/Voice Response System (LOCCS/VRS) for the Congregate Housing Services Program (CHSP) | 5/31/1998 | X |
722 | Lead-Based Paint: Notification Of Purchasers And Tenants In HUD-Insured, HUD-Held And HUD-Subsidized Housing | 5/31/1998 | X |
723 | Fiscal Year 1997 Policy for Capital Advance Authority Assignments, Instructions and Additional Program Requirements for the Section 811 Capital Advance Program Section 811 Application Processing and Selection Instructions, Processing Schedule | 5/23/1998 | X |
724 | 1997 Annual Operating Cost Standards Section 202 Supportive Housing for the Elderly and Section 811 Supportive Housing for Persons with Disabilities | 4/24/1998 | X |
725 | Revised User Fees for the Technical Suitability of Products Program | 4/24/1998 | X |
726 | Extension of Notice H 95-34 (HUD), Revision to the Single Family Property Disposition Homeless Program | 4/301997 | X |
727 | Deposit of FHA Funds | 3/28/1998 | X |
728 | Extension of Notice H 96-17 (HUD), Single Family Property Disposition Program—Changes to Procedures for Treatment of Defective Paint | 3/28/1998 | X |
729 | Extension of Notice H 96-14, Implementation of Section 6 of the HUD Demonstration Act of 1993: Section 8 Community Investment Demonstration Program | 3/28/1998 | X |
730 | Extension of Notice H 96-12, Extension and Clarification of Notice H 92-31, Revised Processing Instructions for the Section 223(f) Full Insurance Program | 3/28/1998 | X |
731 | Extension of Notice H 96-10, Production Branch Instructions to Process Section 241 Loan Applications Pursuant to Title VI of the Low Income Housing Preservation and Resident Homeownership Act of 1990 Plan of Action Stage | 3/31/1997 | X |
732 | Fiscal Year 1997 Annual Adjustment Factor (AAF) Requirements | 3/31/1997 | X |
733 | Fiscal Year 1997 Policy for Capital Advance Authority Assignments, Instructions and Additional Program Requirements for the Section 202 Capital Advance Program, Section 202 Application Processing and Selection Instructions, Processing Schedule | 3/31/1997 | X |
734 | FHA's Mixed-Income Housing Underwriting Guidelines | 3/31/1997 | X |
735 | Supplemental Guidance for Section 236 Projects with Expiring Section 8 Contracts in Fiscal Year 1997 | 3/31/1997 | X |
736 | Reinstatement and Extension of Notice H 96-08 (HUD), Solicitation and Requirements for Single Family Real Estate Asset Management (REAM) Services and Notice H 92-8 (HUD), Clarification of Solicitation Document for Real Estate Asset Management (REAM) Contracts | 3/31/1997 | X |
737 | Revised User Fees for the Technical Suitability of Products Program | 2/12/1998 | X |
738 | Extension of Notice H 96-02, Submission of Environmental Site Assessment Transaction Screen Process and Phase I Environmental Site Assessment Process | 2/28/1998 | X |
739 | Supplement to Notice H 96-45, Revised Procedures for Review and Approval of Waivers of Directives | 2/28/1998 | X |
740 | Guidance On Use And Administration Of Savings | 2/28/1998 | X |
741 | Small Projects Mortgage Insurance Processing Guidelines | 2/5/1998 | X |
742 | Fiscal Year 1997 Annual Adjustment Requirements | 2/5/1998 | X |
743 | Comprehensive Needs Assessments (CNAS) | 11/10/2017 | X |
744 | Issues Related to Licensure, Underwriting and Development Processing of Nursing Homes, Board and Care Homes and Assisted Living Facilities Insured under Section 232 | 2/5/1998 | X |
745 | Project-based Section 8 Contracts Expiring in Fiscal Year 1999 | 9/3/1999 | X |
746 | Section 8 Contracts Expiring Early in Fiscal Year 1999 | 9/3/1999 | X |
747 | 1998 Annual Operating Cost Standards Section 202 Supportive Housing for the Elderly and Section 811 Supportive Housing for Persons with Disabilities Programs | 9/3/1999 | X |
748 | Fiscal Year 1998 Policy for Capital Advance Authority Assignments, Instructions and Additional Program Requirements for the Section 202 and Section 811 Capital Advance Programs, Application Processing and Selection Instructions, and Processing Schedule • Attachment 1. • Attachment 2. • Attachment 3. • Attachment 4. | 9/3/1999 | X |
749 | Extension of Notice H 97-28, Amendment to Notice H 94-15 for Temporary Relocation Housing Requirements and Additional Guidance for Flexible Subsidy for Eligible Multifamily Preservation Properties—HUD Earthquake Loan Program | 4/30/1999 | X |
750 | New Multifamily Project Audit Requirements Office Of Management And Budget (OMB) Circular A-133 Single Audit Act Amendments Of 1996 (Pub. L. 104-156, July 5, 1996; 31 U.S.C. 7501 et seq.) | 4/30/1999 | X |
751 | Extension of Notice H 97-17, Extension and Clarification of Notice H 96-12 and B 92-31, Revised Processing Instructions for the Section 223(f) Full Insurance Program | 4/30/1999 | X |
752 | Extension of Notice H 97-12, FHA's Mixed Income Housing Underwriting Guidelines | 4/30/1999 | X |
753 | Extension of Notice H 97-15, Production Branch Instructions to Process Section 241 Loan Applications Pursuant to Title VI of the Low Income Housing Preservation and Resident Homeownership Act of 1950 Plan of Action Stage | 4/30/1999 | X |
754 | Extension of Notice H 97-22 (HUD), Single Family Property Disposition Program—Changes to Procedures for Treatment of Defective Paint | 5/31/1999 | X |
755 | Reinstatement and Extension of Notice H 97-11, Supplemental Guidance for Section 236 Projects with Expiring Section 8 Contracts in Fiscal Year 1997 | 5/31/1999 | X |
756 | Extension and Reinstatement of Notice H-97-04; Small Projects Mortgage Insurance Guidelines | 5/31/1999 | X |
757 | Use of Section 202 Projects to Support Assisted Living Activities for Frail Elderly and People with Disabilities | 2/28/1999 | X |
758 | Reinstatement and Extension of HUD Notice H 97-02, Comprehensive Needs Assessments (CNAS) | 2/28/1999 | X |
759 | Calculating And Retaining Section 236 Excess Income | 2/28/1999 | X |
760 | Reinstatement and Extension of Notice H 96-66, Expedited Section 223(a)(7) Processing Instructions for Coinsured Projects | 2/28/1999 | X |
761 | Extension of HUD Notice H 97-01, Issues Related to Licensure, Underwriting and Development Processing of Nursing Homes, Board and Care Homes and Assisted Living Facilities Insured under Section 232 | 2/28/1999 | X |
762 | Reinstatement and Extension of Notice H 96-102, Redesigned Section 202 Supportive Housing for the Elderly and Section 811 Supportive Housing for Persons with Disabilities Programs—Firm Commitment Processing to Final Closing | 1/31/1999 | X |
763 | Reinstatement and Extension of Notice H 96-105, Delegated Processing Procedures | 1/31/1999 | X |
764 | Reinstatement and Extension of Notice H 96-106, Expedited Section 223(a)(7) Processing Instructions | 1/31/1999 | X |
765 | Annual Adjustment Factors (AAF) | 1/31/1999 | X |
766 | Fiscal Year 1998 Interest Rate for Section 202 and Section 811, Capital Advance Projects | 1/31/1999 | X |
767 | Project-based Section 8 Contracts Expiring in Fiscal Year 2000 • Attachments 1-25B. | 1/31/1999 | X |
768 | Reinstatement and Extension of HUD Notices H 97-02 and H 98-11, Comprehensive Needs Assessments | 1/31/1999 | X |
769 | Reinstatement and Extension of Notice H 95-55, Procedures for Implementing Section 214 of the Housing and Community Development Act of 1980, as amended—Restrictions on Assistance to Noncitizens | 11/30/2002 | X |
770 | Revised Processing Instructions for the Section 223(f) Program • Appendix 1. • Appendix 2. • Appendix 3. • Format 1. • Format 2. • Format 3. | 11/30/2002 | X |
771 | Revisions to Notice H 99-15, Emergency Initiative to Preserve Below-Market Project-Based Section 8 Multifamily Housing Stock, and Clarification of Certain Section 8 Policies in Notices H 98-34 and H 99-08 | 11/30/2002 | X |
772 | Extension of the Teacher Next Door (TND) Initiative—Replaced by FR-4712-F-03 regarding Good Neighbor Next Door Sales Program, Final Rule | 11/1/2006 | X |
773 | Funding Procedures Applicable To FHA-Field Office Procurements • Attachment I. • Attachment II. • Attachment III. • Attachment IV. | 10/22/1999 | X |
774 | This Notice applies to all Section 236 projects whose mortgages are insured or held by HUD, noninsured State Agency projects whose mortgages are assisted under the Section 236 program and former non-insured State Agency Section 236 assisted projects whose mortgages were refinanced under the Section 223(f) program | 10/22/1999 | X |
775 | Issues Related to Market Study, Management Experience, and Underwriting • Attachment. | 10/22/1999 | X |
776 | Extension of Notices H 98-34 and H 99-08, Project-based Section 8 Contracts Expiring in Fiscal Year 1999 | 10/22/1999 | X |
777 | Clarification of Eligible Medical Expenses | 6/19/1999 | X |
778 | Guidance on definition of “public charge” in immigration laws | 6/19/1999 | X |
779 | Reinstatement and Extension of Notice H 97-01 and H 98-08, Issues Related to Licensure, Underwriting and Development Processing of Nursing Homes, Board and Care Homes and Assisted Living Facilities Insured under Section 232 | 6/19/1999 | X |
780 | Emergency Initiative to Preserve Below-Market Project-Based Section 8 Multifamily Housing Stock • Attachment 1. • Attachment 2. • Attachment 3. • Attachment 4. • Attachment 5. | 6/19/1999 | X |
781 | Revised Asset Management Procedures • Attachment. | 5/31/2003 | X |
782 | Use of Assisted Housing Projects (other than Section 202, 202/8 and 202/PRAC) to Support Assisted Living Activities (ALAS) for Frail Elderly and People with Disabilities | 5/31/2003 | X |
783 | Reinstatement and Extension of Notice H 96-102, Redesigned Section 202 Supportive Housing for the Elderly and Section 811 Supportive Housing for Persons with Disabilities Programs—Firm Commitment Processing to Final Closing | 5/31/2003 | X |
784 | Reinstatement and Extension of Notice H 98-12, Use of Section 202 Projects to Support Assisted Living Activities for Frail Elderly and People with Disabilities | 5/31/2002 | X |
785 | Small Projects Mortgage Insurance Processing Guidelines | 11/30/2000 | X |
786 | Revision to Notice H 98-34 (HUD) on Project-based Section 8 Contracts Expiring in Fiscal Year 1999 • Attachments 1-18. | 11/30/2000 | X |
787 | Subordinate Financing by Federal Home Loan Banks for Section 202 and Section 811 Projects • Attachment. | 11/30/2000 | X |
788 | Prepayment of Direct Loans on Section 202 and 202/8 Projects | 11/30/2000 | X |
789 | Fiscal Year 1999 Policy for Capital Advance Authority Assignments, Instructions and Program Requirements for the Section 202 and Section 811 Capital Advance Programs, Application Processing and Selection Instructions, and Processing Schedule | 11/30/2000 | X |
790 | Ground Leases for Section 232 Projects | 5/31/2017 | X |
791 | Green Retrofit Program for Multifamily Housing (GRP) | 9/30/2012 | X |
792 | The Extension, Amendment And Close-Out Process For Congregate Housing Services Program (CHSP) Grants | 9/30/1995 | X |
793 | Designation of FY '95 Revitalization Areas | 9/30/1995 | X |
794 | Reinstatement and extension of Notice H 93-21, Housing Development Instructions for Processing Plans of Action Under Title II of the Housing and Community Development Act of 1987 and Associated Section 241(f) Loan Applications | 9/30/1995 | X |
795 | Policy and Processing Adjustments to the Title II and Title VI Preservation Programs | 11/30/1996 | X |
796 | Extension of Notice H 94-92, Fiscal Year 1995 Interest Rate for Section 202 and Section 811 Capital Advance Projects and Corrections to Notices H 93-87 and H 93-88 | 11/30/1996 | X |
797 | Reinstatement and extension of Notice 95-12: Annual Adjustment Factor (AAF) Rent Increase Requirements | 11/30/1996 | X |
798 | Extension of Notice H 94-54, Processing Instructions for Implementation of the Low-Income Housing Preservation and Resident Homeownership Act of 1990 by Housing Development Staff | 6/15/1996 | X |
799 | Processing Shallow Rental Subsidy for Low-Income Housing Preservation and Resident Homeownership Act Properties | 6/15/1996 | X |
800 | Extension of Notice H 94-25, Amendment to Notice H 94-15 for Temporary Relocation Housing Requirements and Additional Guidance for Flexible Subsidy for Eligible Multifamily Preservation (LIHPRHA and ELIHPA) Properties—HUD Earthquake Loan Program (HELP) | 6/15/1996 | X |
801 | Extension of Notice H 94-22, Policy and Processing Adjustments to the Title II and Title VI Preservation Programs | 4/30/1996 | X |
802 | Extension of Notice H 95-87, Section 8 Rents that Exceed 120 percent of the Fair Market Rents in Low Income Housing Preservation and Resident Homeownership Act (LIHPRHA) Projects | 4/30/1996 | X |
803 | Extension of Notice H 95-67, Operating Cost Adjustment Factors (OCAF) | 4/30/1996 | X |
804 | Extension of Notice H 95-65, Processing Instructions for Implementation of the Low-Income Housing Preservation and Resident Homeownership Act of 1990 by Housing Development Staff | 4/30/1996 | X |
805 | Extension of Notice H 95-56—Mid-Course Correction II—For Low-Income Housing Preservation and Resident Homeownership and Emergency Low Income Housing Preservation Act Programs | 6/30/1997 | X |
806 | Reinstatement and extension of Notice 95-92: Reinstatement and Extension of Notice 95-12: Annual Adjustment Factor (AAF) Rent Increase Requirements | 6/30/1997 | X |
807 | Reinstatement and Extension of Notice H 96-59, Processing Instructions for Implementation of the Low-Income Housing Preservation and Resident Homeownership Act of 1990 by Housing Development Staff | 5/31/1998 | X |
808 | Extension of Notice H 96-48—Mid-Course Correction II—For Low-Income Housing Preservation and Resident Homeownership and Emergency Low-Income Housing Preservation Act Programs | 5/31/1998 | X |
809 | Reinstatement and Extension of Notice H 96-38, Development Instructions for Processing Plans of Action Under Title II of the Housing and Community Development Act of 1987 and Associated Section 241(f) Loan Applications | 5/31/1998 | X |
810 | Extension of Notice H 96-25, Special Rent Adjustment for Non-Drug Related Crime Prevention/Security Measures under the “or Similar Costs” Statutory Language for Section 8 Rents Based on the Annual Adjustment Factor (AAF) | 4/30/1999 | X |
811 | Extension of Notice H 97-25, Special Rent Adjustment for Non-Drug Related Crime Prevention/Security Measures under the “or Similar Costs” Statutory Language for Section 8 Rents Based on the Annual Adjustment Factor (AAF) | 4/30/1999 | X |
812 | Reinstatement and Extension of Notice H 98-27, Special Rent Adjustment for Non-Drug Related Crime Prevention/Security Measures under the “or Similar Costs” Drug Related Crime Prevention/Security Measures under the “or Similar Costs” Statutory Language for Section 8 Rents Based on the Annual Adjustment Factor (AAF) | 4/30/1999 | X |
813 | 1999 Annual Operating Cost Standards Section 202 Supportive Housing for the Elderly and Section 811 Supportive Housing for Persons with Disabilities Programs | 4/30/1999 | X |
814 | Extension of Notice H 91-97, Site Changes in the Section 202 Program | No Date | X |

Appendix G—Manufactured Housing
| Name of document | Date | Arch | Remove
1 | SEBA Report on Frost Free Foundations | 10/7/2016 | X |
2 | RV Exemption under Manufactured Housing Act | 10/1/2014 | X |
3 | Interpretative Bulletin A-1-88 (Measurement for the RV exemption) | 10/5/1988 | X |
4 | Inclusion of Lofts in our RV Exemption | 8/1/1997 | X |
5 | Correction of Reference Standard for Anti-Scald Valves-Final Rule | 6/3/2014 | X |
6 | Nortek Global HVAC Furnace Service Bulletin TB15-120A/OEM Memo | 12/9/2015 | X |

Appendix H—Lead Hazard Control and Healthy Homes
| Name of document | Date | Arch | Remove
1 | Rehabbing Flooded Houses | 1/120141/ | X |
2 | Reconstruction y Rehabilitacion de Viviendas | 1/1/2018 | X |
3 | CO Detectors Press Release | 1/1/2019 | X |
4 | Archived Resources | 1/1/2017 | X |
5 | Community Health Worker | 4/30/2018 | X |
6 | Policy Review | 4/30/2018 | X |
7 | HIPAA Requirements | 4/30/2018 | X |
8 | The Entire Rule (as amended 1/13/2017) | 1/13/2017 | X |
9 | Press Release on Lead Safe Housing Rule | 8/31/2016 | X |
10 | Proposal to amend Lead Safe Housing Rule | 9/1/2016 | X |
11 | LSHR Overview document | 12/6/1999 | X |
12 | RIA Original 1999 Rule | 9/7/1999 | X |
13 | Rule Fact Sheet | 9/15/1999 | X |
14 | Summary of the Rule's requirements and effective dates for various types of multifamily housing programs and relevant funding and training assistance | 9/15/2000 | X |
15 | Subpart A—Disclosure of Known Lead-Based Paint Hazards Upon Sale or Lease of Residential Property | 9/15/1999 | X |
16 | Regulatory Overview (MS PowerPoint) | 12/6/1999 | X |
17 | Proposal to amend Lead Safe Housing Rule Video of Convening (3:03) | 10/6/2016 | X |
18 | Purpose and Use of Healthy Homes Supplemental Funding (HHSupp) | 8/31/2016 | X |
19 | Purpose and Use of Healthy Homes Supplemental Funding | 8/31/2016 |  | X
20 | LOCCS Policy Guidance Including Administrative Cost (Superseded by PGI 2015-02) | 4/1/2013 |  | X
21 | Units Counted as Match | 10/19/2012 |  | X
22 | Administrative Costs (Superseded by PGI 2015-01) | 10/15/2012 |  | X
23 | Use Of Contractors Trained In Lead-Safe Work Practices To Conduct Interim Controls | 5/14/2002 |  | X
24 | Closeout Procedures for Lead-Based Paint Hazard Control Grants | 3/30/2000 |  | X
25 | Modification To 12-Month Follow-Up Dust-Wipe Testing Requirement | 1/8/1998 |  | X
26 | Relocation Occupant Protection Plan | 4/30/2018 |  | X
27 | Lead Safe Housing Rule Elevated Blood Lead Level amendment | 1/13/2017 |  | X
28 | HUDNo_17-017—HUD Offers Grants to Clean Up Lead-Based Paint Hazards | 2/8/2017 |  | X
29 | Find HUD-approved Lead Safe Work Practices Training Curricula | 10/20/2010 |  | X
30 | Renovate Right: Important Lead Hazard Information for Families, Child Care Providers, and Schools (PDF) | 1/1/2010 |  | X
31 | Lead Safety During Renovation (PDF) color, in English | 3/1/2008 |  | X
32 | EPA Small Entity Compliance Guide to Renovate Right (PDF) | 12/1/2008 |  | X
33 | EPA Small Entity Compliance Guide to Renovate Right En Espanol (PDF) | 12/1/2008 |  | X
34 | U.S.EPA/HUD Lead Safety for Renovation, Repair and Painting (RRP) Train-the-Trainer Program Presentation | 1/1/2010 |  | X
35 | HUD-EPA Lead Safe Housing Rule Fact Sheet | 12/1/1996 |  | X

Appendix I—Fair Housing and Equal Opportunity
| Name of document | Date | Arch | Remove
1 | Questions and Answers on Hurricanes Katrina and Rita Evacuees in Housing for Older Persons | 11/14/2005 | X |
2 | Questions and Answers on Sexual Harassment Under the Fair Housing Act | 11/17/2008 | X |
3 | Service Animals and Assistance Animals for People with Disabilities in Housing and HUD-funded Programs | 4/25/2013 | X |
4 | Elements of Proof | 8/13/2014 | X |
5 | Compliance-based Evaluations of a Recipients Certifications that it has Affirmatively Furthered Fair Housing | 3/5/2013 | X |
6 | Technical Guidance Memorandum #4: Exemption from Familial Status Prohibition for State Elderly Housing Programs: REV—1: Program Determinations | 2/14/1991 | X |
7 | Civil Rights Limited On-Site Monitoring and Section 504 Reviews of Multifamily Housing Projects for Contract Administrators | No Date | X |
8 | Letter from Secretary Shaun Donovan to OSHC Grantees | 1/20/2012 | X |
9 | Top Seven (7) Keys to Affirmatively Further Fair Housing | No Date | X |
10 | Fact Sheet: HUD's Fair Housing and Civil Rights Mission | No Date | X |
11 | FHEO Conclusions Concerning Affirmatively Furthering Fair Housing (AFFH) and CDBG | 3/3/2011 | X |
12 | AFFH Regional Training, Sample Agenda | No Date | X |
13 | AFFH Timeline Infographic for Consolidated Plan Program Participants | No Date | X |
14 | Guidance on HUD's Review of Assessments of Fair Housing (AFH) | 6/1/2016 | X |
15 | Memo to all CPD re: Incorporating 24 CFR part 5 Affirmatively Furthering Fair Housing into 24 CFR 91.10 Consolidated Program Year, 24 CFR 91.105 Citizen Participation Plan for Local Governments and 24 CFR 91.115 Citizen Participation Plan for States | 3/14/2016 | X |
16 | AFFH Training Modules Developed by Abt | 5/4/2015 | X |
17 | Assessment of Fair Housing (AFH) Reviewer Field Guide | 9/9/2017 | X |
18 | Fair Housing Act Application to Internet Advertising | 9/20/2006 | X |
19 | Limitations on Accepting as Dual-Filings FHAP Cases That Implicate First Amendment | 3/7/2001 | X |
20 | Insurance Policy Restrictions as a Defense for Refusals to Make a Reasonable Accommodation | 6/12/2006 | X |

[FR Doc. 2020-23986 Filed 10-29-20; 8:45 am]

BILLING CODE 4210-67-P